DEPARTMENT OF THE INTERIOR

Bureau of Indian Affairs

Indian Child Welfare Act; Designated Tribal Agents for Service of Notice

AGENCY: Bureau of Indian Affairs, Interior.

ACTION: Notice.

SUMMARY: The regulations implementing the Indian Child Welfare Act provide that Indian tribes may designate an agent other than the tribal chairman for service of notice of proceedings under the Act. This notice includes the current list of designated tribal agents for service of notice.

FOR FURTHER INFORMATION CONTACT: Sue V. Settles, Chief, Human Services Division, Bureau of Indian Affairs, 1849 C Street NW., Mail Stop 4513-MIB, Washington, DC 20240; Telephone: (202) 513-7622.

SUPPLEMENTARY INFORMATION:

The regulations implementing the Indian Child Welfare Act, 25 U.S.C. 1901 et seq., provide that Indian tribes may designate an agent other than the tribal chairman for service of notice of proceedings under the Act. See 25 CFR § 23.12. The Secretary of the Interior is required to publish in the Federal Register the names and addresses of the designated tribal agents. This notice is published in exercise of authority delegated by the Secretary of the Interior to the Principal Deputy Assistant Secretary—Indian Affairs by 209 DM 8.

This notice presents, in two different formats, the names and addresses of current designated tribal agents for service of notice. The first format lists designated tribal agents by region and alphabetically by tribe within each region. The second format is a table that lists designated tribal agents alphabetically by the tribal affiliation (first listing American Indian tribes, then listing Alaska Native tribes). Each format also lists the Bureau of Indian Affairs contact(s) for each of the twelve regions.

A. List of Designated Tribal Agents by Region

1. Alaska Region

2. Eastern Oklahoma Region

3. Eastern Region

4. Great Plains Region

5. Midwest Region

6. Navajo Region

7. Northwest Region

8. Pacific Region

9. Rocky Mountain Region

10. Southern Plains Region

11. Southwest Region

12. Western Region

B. List of Designated Tribal Agents by Tribal Affiliation

1. Tribes Other Than Alaska Native Tribes and Villages

2. Alaska Native Tribes and Villages

A. List of Designated Tribal Agents by Region

1. Alaska Region

Gloria Gorman, M.S.W., BIA Human Services Director, P.O. Box 21647, Juneau, AK 99802-5520; Phone: (907) 586-7611; Fax: (907) 586-7037.

A

Afognak, Native Village of (formerly the Village of Afognak), Denise Malutin, ICWA Worker, 323 Carolyn Street Kodiak, AK 99615; Phone: (907) 486-6357; Email: denise@afognak.org

Agdaagux Tribe of King Cove, Grace Smith, Family Programs Coordinator, Aleutian/Pribilof Islands Association, 1131 East International Airport Road Anchorage, AK 99518-1408; Phone: (907) 276-2700 or 222-4236; Fax: (907) 222-9735 Email: graces@apiai.org

Akhiok, Native Village of, Rachelle Joy, Kodiak Area Native Association, 3449 Rezanof Drive East, Kodiak, AK 99615; Phone: (907) 486-9800; Fax: (907) 486-4829; Email: rachelle.joy@kanaweb.org

James Tucker, ICWA advocate, P.O. Box 5030 Akhiok, AK 99615; Phone: (907) 486-4829; Fax: (907) 836-2345

Akiachak Native Community Tribal Administrator, P.O. Box 51070, Akiachak, AK 99551-0070; Phone: (907) 825-4626/4073; Fax: (907) 825-4029

Akiak Native Community, Sheila Williams, Tribal Administrator, P.O. Box 52127, Akiak, AK 99552; Phone: (907) 765-7112/7117; Fax: (907) 765-7512/7120

Native Village of Akutan, Grace Smith, Family Programs Coordinator, Aleutian/Pribilof Islands Association, 1131 East International Airport Road, Anchorage, AK 99518-1408; Phone: (907) 276-2700; Fax: (907) 279-4351; Email: graces@apiai.org

Village of Alakanuk, Charlene Smith, ICWA Specialist, P.O. Box 149, Alakanuk AK 99554; Phone: (907) 238-3704/3730; Fax: (907) 238-3705; Email: csmith@avcp.org

Association of Village Council Presidents, Sarah Jenkins, ICWA Social Worker, P.O. Box 219, Bethel, AK 99559; Phone: (907) 543-7400; Fax: (907) 543-5759; Email: sjenkins@avcp.org and lalexie@avcp.org

Alatna Village, Catherine Henzie, Tribal Family Youth Specialist, P.O. Box 70, Allakaket, AK 99720; Phone: (907) 968-8397; Fax: (907) 968-2305

Legal Department, Tanana Chiefs Conference, 122 First Avenue, Suite 600 Fairbanks, AK 99701; Phone: (907) 452-8251 Ext. 3178; Fax: (907) 459-3953

Aleknagik, Native Village of, Jane Gottschalk, Caseworker II, P.O. Box 115, Aleknagik, AK 99555; Phone: (907) 842-4577; Fax: (907) 842-2229

Bristol Bay Native Association,Children's Services Program Manager, P.O. Box 310, 1500 Kanakanak Road, Dillingham, AK 99576; Phone: (907) 842-4139; Fax: (907) 842-4106; Email: cnixon@bbna.com

Algaaciq Native Village (St. Mary's), Gertrude Paukan, ICWA Case Worker, P.O. Box 48, 200 Paukan Avenue, St. Mary's, AK 99658-0048; Phone: (907) 438-2932/2933; Fax: (907) 438-2227; Email: gpaukan@avcp.org

Association of Village Council Presidents, Sarah Jenkins, ICWA Social Worker, P.O. Box 219, Bethel, AK 99559; Phone: (907) 543-7400; Fax: (907) 543-5759; Email: sjenkins@avcp.org

Allakaket Village, Emily Bergman, Tribal Family Youth Specialist (TFYS), P.O. Box 50, Allakaket, AK 99720; Phone: (907) 968-2303; Fax: (907) 968-2233; Email: Emily.bergman@tananachiefs.org

Legal Department, Tanana Chiefs Conference, 122 First Avenue, Suite 600 Fairbanks, AK 99701; Phone: (907) 452-8251, ext.3178; Fax: (907) 459-3953

Native Village of Ambler, ICWA Coordinator and Tribal President, Box 86047, Ambler, AK 99786; Phone: (907)445-2189; Fax: (907)445-2257

Village of Anaktuvuk, Tribal President, P.O. Box 21065 Anaktuvuk Pass, AK 99721; Phone: (907) 661-2575; Fax: (907) 661-2576

Inupiat Community of the Arctic Slope, Deborah Ryan, ICWA Worker; P.O. Box 934, 6986 Ahmaogak St., Barrow, AK 99723; Phone: (907)852-5923; Fax: (907) 852-5924; Email: social@inupiatgov.com

Yupiit of Andreafski, Gail Alstrom-Beans, President, P.O. Box 88, St. Mary's, AK 99658-0088; Phone: (907) 438-2572; Fax: (907) 438-2573

Angoon Community Association, Raynelle Jack, Tribal Administrator, P.O. Box 328, Angoon, AK 99820; Phone: (907) 788-3411; Fax: (907) 788-3412

Village of Aniak, Muriel Morgan, ICWA Worker, Box 349, Aniak, AK 99557; Phone: (907) 675-4349; Fax (907) 675-4513

Anvik Village, Tammy Jerue, Tribal Family Youth Specialist, P.O. Box 10, Anvik, AK 99558; Phone: (907) 663-6378; Fax: (907) 663-6357

Legal Department, Tanana Chiefs Conference, 122 First Avenue, Suite 600, Fairbanks, AK 99701; Phone: (907) 452-8251 Ext. 3178; Fax: (907) 459-3953

Arctic Village, Margorie Gemmill, Tribal, P.O. Box 22069 Arctic Village, AK 99722; Phone: (907) 587-5408; Fax: (907) 587-5128

Legal Department, Tanana Chiefs Conference, 122 First Avenue, Suite 600, Fairbanks, AK 99701; Phone: (907) 452-8251 Ext. 3178; Fax: (907) 459-3953

Asa'carsarmiut Tribe (formerly Native Village of Mountain Village), Evelyn D. Peterson, Social Service Director and Madeline Long, Education I & II P.O. Box 32107, Mountain Village, AK 99632; Phone: (907) 591-2428; Fax: (907) 591-2934; Email: atcicwa@gci.net

Native Village of Atka, Grace Smith, Family Programs Coordinator, Aleutian/Pribilof Islands Association, 1131 East International Airport Road, Anchorage, AK 99518-1408; Phone: (907) 276-2700; Fax: (907) 279-9735; Email: graces@apiai.org

Atmautluak, Village of, Edward Nicholai, Tribal Administrator, P.O. Box 6568, Atmautluak, AK 99559; Phone: (907) 553-5610; Fax: (907) 553-5612; Email: atmautluaktc@hughes.net

Atqasuk Village, Jimmy Nayukok, President, P.O. Box 91108, Atqasuk, AK 99791; Phone: (907) 633-2575; Fax: (907) 633-2576; Email: icastaq@astacalaska.net

Arctic Slope Native Association, Maude Hopson, ICWA Worker; P.O. Box 29 Barrow, Alaska 99723 Phone: (907) 852-9374; Fax: (907) 852-6408; Email: maude.hopson@arcticslope.org

B

Native Village of Barrow Inupiat Traditional Government, Marjorie Solomon, Social Services Director, P.O. Box 1130, Barrow, AK 99723; Phone: (907) 852-4411; Fax: (907) 852-4413; Email: Marjorie.solomon@nvbarrow.net

Beaver Village, Arlene Pitka, ICWA Coordinator, P.O. Box 24029, Beaver, AK 99724; Phone: (907) 628-6126; Fax: (907) 628-6815

Legal Department, Tanana Chiefs Conference, 122 First Avenue, Suite 600, Fairbanks, AK 99701; Phone (907) 452-8251 Ext. 3178; Fax: (907) 459-3953

Native Village of Belkofski, Grace Smith, Family Program Coordinator, Aleutian/Pribilof Islands Association, 1131 East International Airport Road, Anchorage, AK 99518-1408; Phone: (907) 276-2700; Fax: (907) 222-9735; Email: graces@apiai.org

Bettles Field (See Evansville Village)

Village of Bill Moore's Slough, Nancy C. Andrews, ICWA Family Specialist & Pauline Okitkun, Tribal Administrator, P.O. Box 20288, Kotlik, AK 99620; Phone: (907) 899-4236/4232; Fax: (907) 899-4002/4461

Birch Creek Tribe, Jackie Baalam, Tribal Family Youth Specialist, P.O. Box 71372 Fairbanks, AK 99707; Phone: (907) 455-8484; Fax: (907) 455-8486

Legal Department, Tanana Chiefs Conference, 122 First Avenue, Suite 600, Fairbanks, AK 99701; Phone (907) 452-8251 ext. 3178; Fax: (907) 459-3953

Native Village of Brevig Mission, Linda M. Divers, Tribal Family Coordinator, P.O. Box 85039, Brevig Mission, AK 99785; Phone: (907) 642-3012; Fax: (907) 642-3042; Email: linda@kawerak.org

Kawerak, Inc. Children & Family Services, P.O. Box 948 Nome, Alaska 99762; Phone: (907) 443-4261; Fax: (907) 443-4457

Native Village of Buckland, Tracey Hadley, ICWA Coordinator, P.O. Box 67, Buckland, AK 99727-0067; Phone: (907) 494-2169; Fax: (907) 494-2168; Email: icwa.nunachiak.org

C

Native Village of Cantwell, Veronica Nicholas, President, P.O. Box 94, Cantwell, AK 99729; Phone: (907) 768-2591; Fax: (907) 768-1111; Email: hallvc@mtaonline.net

Copper River Native Association, Director, Tribal Community Services, Drawer H Copper Center, AK 99573; Phone: (907) 822-5241, Ext. 232; Fax: (907) 822-8801

Central Council of the Tlingit and Haida Indian Tribes, Leonora Florendo, ICWA Coordinator, 320 W. Willoughby Avenue, Suite 300, Juneau, AK 99801-9983; Phone: (907) 463-7163; Fax: (907) 463-7343; Email: lflorendo@ccthita.org

Chalkyitsik Village, Donna L. Crow, Tribal Family Youth Specialist, P.O. Box 57, Chalkyitsik, AK 99788; Phone: (907) 848-8117; Fax: (907) 848-8986

Legal Department, Tanana Chiefs Conference, 122 First Avenue, Suite 600, Fairbanks, AK 99701; Phone (907) 452-8251 ext. 3178; Fax: (907) 459-3953

Native Village of Chanega (aka Chenega), Norma Selanoff, ICWA Worker and GayDell Trumblee, Tribal Administrator, P.O. Box 8079, Chenega Bay, AK 99574; Phone: (907) 573-5386/5130; Fax: (907) 573-5387/5120; Email: g.trumblee@nativevillageofchanega.com

Cheesh-Na Tribe, (formerly the Native Village of Chistochina), Wilson Justin, Tribal Administrator, P.O. Box 241, Gakona, AK 99586; Phone: (907) 822-3503; Fax: (907) 822-5179; email: wjustin@cheeshna.com

Village of Chefornak, Edward Kinegak, ICWA Specialist, P.O. Box 110, Chefornak, AK 99561-0110; Phone: (907) 867-8808; Fax: (907) 867-8711; Email: ekinegak@gci.net

Association of Village Council Presidents, Sarah Jenkins, ICWA Social Worker, P.O. Box 219, Bethel, AK 99559; Phone (907) 543-7400; Fax: (907) 543-5759; Email: sjenkins@avcp.org

Chevak Native Village (aka Qissunamiut Tribe), Esther Friday, ICWA Director/Worker, P.O. Box 140, Chevak, AK 99563; Phone: (907) 858-7918; Fax: (907) 858-7919

Association of Village Council Presidents, Sarah Jenkins, ICWA Social Worker, P.O. Box 219, Bethel, AK 99559; Phone (907) 543-7400; Fax: (907) 543-5759; Email: sjenkins@avcp.org and lalexie@avcp.org

Chickaloon Native Village, Penny Westing, ICWA Case Manager, P.O. Box 1105, Chickaloon, AK 99674; Phone: (907) 745-0749/0794; Fax: (907) 745-0709; Email: penny@chickaloon.org

Chignik Bay Tribal Council (formerly the Native Village of Chignik), Debbie Carlson, Administrator, P.O. Box 50, Chignik, AK. 99564; Phone: (907) 749-2445; Fax: (907) 749-2423

Bristol Bay Native Association, Children's Services Program Manager, P.O. Box 310, 1500 Kanakanak Road, Dillingham, AK 99576; Phone (907) 842-4139; Fax: (907) 842-4106; Email: cnixon@bbna.com

Native Village of Chignik Lagoon, Nancy Anderson, ICWA, P.O. Box 09, Chignik Lagoon, AK 99565; Phone: (907) 840-2281; Fax: (907) 840-2217; Email: clagoon@gci.net

Bristol Bay Native Association, Children's Services Program Manager, P.O. Box 310, 1500 Kanakanak Road, Dillingham, AK 99576; Phone: (907) 842-4139; Fax: (907) 842-4106; Email: cnixon@bbna.com

Chignik Lake Village, Crystal Kalmakoff, Caseworker II, P.O. Box 33 Chignik Lake, AK 99548; Phone: (907) 845-2358; Fax: (907) 845-2246

Bristol Bay Native Association, Children's Services Program Manager, P.O. Box 310, 1500 Kanakanak Road, Dillingham, AK 99576; Phone: (907) 842-4139; Fax: (907) 842-4106; Email: cnixon@bbna.com

Chilkat Indian Village (Klukwan), Anna Stevens, Tribal Service Specialist/ICWA Worker, P.O. Box 2207, Haines, AK 99827; Phone: (907) 767-5505; Fax: (907) 767-5408; Email: astevens@chilkatindianvillage.org

Chilkoot Indian Association (Haines), Stella Howard, Family Caseworker, P.O. Box 490 Haines, AK 99827; Phone: (907) 766-2810; Fax: (907) 766-2365; Email: showard@ccthita.org

Chinik Eskimo Community (Golovin), Sherri Lewis, Tribal Family Coordinator, P.O. Box 62019, Golovin, AK 99762; Phone: (907) 779-3489; Fax: (907) 779-2000; Email: slewis@kawerak.org

Chistochina (see Cheesh-na)

Native Village of Chitina, Anita Eskilida, Administrator, P.O. Box 31, Chitina, AK 99566; Phone: (907) 823-2215/2217; Fax: (907) 823-2233/2276

Native Village of Chuathbaluk, Lisa Feyereisen, Grants Manager & Acting Administrator, P.O. Box CHU, Chuathbaluk, AK 99557; Phone: (907) 467-4313; Fax: (907) 467-4113

Association of Village Council Presidents, Sarah Jenkins, ICWA Social Worker, P.O. Box 219 Bethel, Alaska 99559; Phone: (907) 543-7400; Fax: (907) 543-5759; Email: sjenkins@avcp.org

Chuloonawick Native Village, Bambi Akers, Tribal Administrator, P.O. Box 245, Emmonak, AK 99581; Phone: (907) 949-1345; Fax: (907) 949-1346; Email: coffice@starband.net

Circle Native Community, Jessica Boyle, ICWA Worker, P.O. Box 89, Circle, AK 99733; Phone: (907) 773-2822; Fax: (907) 773-2823; Email: Jessica.boyle@tananachiefs.org

Legal Department, Tanana Chiefs Conference, 122 First Avenue, Suite 600, Fairbanks, AK 99701; Phone: (907) 452-8251 ext. 3178; Fax: (907) 459-3953

Clarks Point, Village of, Betty L. Gardiner, Tribal President, P.O. Box 90, Clarks Point, AK 99569; Phone: (907) 236-1427; Fax: (907) 236-1428; Email: bgardiner@clp.swrsd.org

Bristol Bay Native Association, Children's Services Program Manager, P.O. Box 310, 1500 Kanakanak Road, Dillingham, AK 99576; Phone: (907) 842-4139; Fax: (907) 842-4106; Email: cnixon@bbna.com

Copper Center (see Native Village of Kluti-Kaah)

Cordova (See Eyak)

Native Village of Council, Rhonda Hanebuth, ICWA Coordinator, P.O. Box 2050, Nome, AK 99762; Phone: (907) 443-7649; Fax: (907) 443-5965

Craig Community Association, Roberta Patten, Family Caseworker II, P.O. Box 746, Craig AK 99921; Phone: (907) 826-3948; Fax: (907) 826-5526; Email: rpatten@ccthita.org

Village of Crooked Creek, Evelyn Thomas, President and Lorraine John, ICWA Case Worker, P.O. Box 69, Crooked Creek, AK 99575; Phone: (907) 432-2200; Fax: (907) 432-2247

Curyung Tribal Council (formerly the Native Village of Dillingham), Chris Itumulria, Tribal Children Service Worker, P.O. Box 216, Dillingham, AK 99576; Phone: (907) 842-4508; Fax: (907) 842-4510; Email: chris@curyungtribe.com

Bristol Bay Native Association, Children's Services Program Manager, P.O. Box 310,1500 Kanakanak Road, Dillingham, AK 99576; Phone: (907) 842-4139; Fax: (907) 842-4106; Email: cnixon@bbna.com

D

Native Village of Deering, Pearl Moto, ICWA Coordinator, P.O. Box 360, Deering, AK 99736; Phone: (907) 363-2229; Fax: (907) 363-2195

Maniilaq Association, P.O. Box 256 Kotzebue, Alaska 99752; Phone: (907) 442-7919: Fax: (907) 442-7933

Dillingham (see Curyung)

Diomede (aka Inalik), Native Village of, Michelle Kuluhon, ICWA Coordinator, P.O. Box 7079, Diomede, AK 99762; Phone: (907) 686-2202/2175; Fax: (907) 686-2203

Dot Lake, Village of, William Miller, President, P.O. Box 2279, Dot Lake, AK 99737-2275; Phone: (907) 882-2742/2695; Fax: (907) 882-5558

Douglas Indian Association, Dixon (DJ) Mazon, Family Caseworker, 811 W. 12th Street Juneau, AK 99801; Phone: (907) 364-2916 or (907) 364-2916; Fax: (907) 364-2917; Email: djmazon-dia@gci.net

E

Native Village of Eagle, Claire Ashley, Tribal Family & Youth Services or Joyce Roberts, Tribal Administrator, P.O. Box 19 Eagle, AK 99738; Phone: (907) 547-2271; Fax: (907) 547-2318; Email: claire.ashley@tananachiefs.org

Legal Department, Tanana Chiefs Conference, 122 1st Ave., Ste, 600, Fairbanks, AK 99701; Phone: (907) 452-8251 ext. 3178; Fax: (907) 459-3953

Edzeno' (see Nikolai Native Council)

Native Village of Eek, Lillian Cleveland, ICWA Worker, P.O. Box 89, Eek, AK 99578; Phone: (907) 536-5572; Fax: (907) 536-5582; Email: lcleveland@avcp.org

Association of Village Council Presidents, Sarah Jenkins, ICWA Social Worker, P.O. Box 219 Bethel, Alaska 99559; Phone: (907) 543-7400; Fax: (907) 543-5759; Email: sjenkins@avcp.org

Egegik Village, Marcia Abalama, ICWA Team Leader, P.O. Box 154 Egegik, AK 99579; Phone: (907) 233-2207; Fax: (907) 233-2212

Bristol Bay Native Association, Children's Services Program Manager, P.O. Box 310, 1500 Kanakanak Road, Dillingham, AK 99576; Phone: (907) 842-4139; Fax: (907) 842-4106; Email: cnixon@bbna.com

Eklutna Native Village, Dorothy Cook, President, 26339 Eklutna Village Road, Chugiak, AK 99567; Phone: (907) 688-6020; Fax: (907) 688-6021: Email: nve.icwa@eklutna-nsn.gov

Native Village of Ekuk, Helen Foster, Tribal Administrator and Maria Binkowski, Receptionist/File Clerk, 300 Main St., P.O. Box 530 Dillingham, AK 99576; Phone: (907) 842-3842; Fax: (907) 842-3843

Bristol Bay Native Association, Children's Services Program Manager, P.O. Box 310, 1500 Kanakanak Road, Dillingham, AK 99576; Phone: (907) 842-4139; Fax: (907) 842-4106; Email: cnixon@bbna.com

Ekwok Village, Sandra Stermer, Tribal Children Service Worker, P.O. Box 70 Ekwok, AK 99580; Phone: (907) 464-3349; Fax: (907) 464-3350; Email: sstermer@starband.net

Bristol Bay Native Association, Children's Services Program Manager, P.O. Box 310, 1500 Kanakanak Road, Dillingham, AK 99576; Phone: (907) 842-4139; Fax: (907) 842-4106; Email: cnixon@bbna.com

Native Village of Elim, Joseph H. Murray, Tribal Family Coordinator; P.O. Box 39070, Elim, AK 99739; Phone: (907) 890-2457; Fax: (907) 890-2458; Email: jmurrayjr@kawerak.org

Kawerak, Inc. Children & Family Services, P.O. Box 948 Nome, Alaska 99762; Phone: (907) 443-4261; Fax: (907) 443-4457

Emmonak Village, Priscilla S. Kameroff, ICWA Worker and Dora C. Moore, Administrator, P.O. Box 126 Emmonak, AK 99581-0126; Phone: (907) 949-1820 or 1720; Fax: (907) 949-1348; Email: icwa@hughes.net

English Bay (see Native Village of Nanwalek)

Evansville Village (aka Bettles Field), Naomi Costello, Tribal Family & Youth Services, P.O. Box 26087 Evansville, AK 99726; Phone: (907) 692-5005; Fax: (907) 692-5006;

Legal Department, Tanana Chiefs Conference, 122 First Avenue, Suite 600, Fairbanks, AK 99701; Phone: (907) 452-8251 ext. 3178; Fax: (907) 459-3953

Native Village of Eyak (Cordova), Erin Kurz, ICWA Worker, P.O. Box 1388, Cordova, AK 99574; Phone: (907) 424-7738/2236; Fax: (907) 424-7809; Email: erin@eyak-nsn.org

F

Native Village of False Pass, Grace Smith, Family Programs Coordinator, Aleutian/Pribilof Islands Association, 1131 East International Airport Road, Anchorage, AK 99518-1408; Phone: (907) 276-2700; Fax: (907) 279-9735; Email: graces@apiai.org

Native Village of Fort Yukon (Gwichyaa Gwichin), Mary B. Solomon, ICWA Coordinator, P.O. Box 10, Fort Yukon, AK 99740; Phone: (907) 662-3625/2113; Fax: (907) 662-3118; Email: mary.beth.solomon@fortyukon.org

Legal Department, Tanana Chiefs Conference, 122 First Avenue, Suite 600, Fairbanks, AK 99701; Phone: (907) 452-8251 Ext. 3178; Fax: (907) 459-3953

Fortuna Ledge (see Native Village of Marshall)

G

Native Village of Gakona, Charlene Nollner, Tribal Administrator, P.O. Box 102, Gakona, AK 99586; Phone: (907) 822-5777; Fax: (907) 822-5997; Email: gakonaadmin@cvinternet.net

Galena Village (aka Louden Village), March Runner, ICWA Director, P.O. Box 244, Galena, AK 99741; Phone: (907) 656-1711; Fax: (907) 656-2491

Native Village of Gambell, Tyler Campbell, Sr., ICWA Coordinator, P.O. Box 90, Gambell, AK 99742; Phone: (907) 985-5346; Fax: (907) 985-5014

Native Village of Georgetown, Amber Matthews, Tribal Administrator, 4300 B Street, Suite 207, Anchorage, Alaska 99503; Phone: (907) 274-2195; Fax: (907) 274-2196; Email: gtc@gci.net

Golovin (see Chinik Eskimo Community)

Native Village of Goodnews Bay, Pauline A. Echuck, ICWA, P.O. Box 138, Goodnews Bay, AK 99589; Phone: (907) 967-8331/8929; Fax: (907) 967-8330

Association of Village Council Presidents, Sarah Jenkins, ICWA Social Worker, P.O. Box 219 Bethel, Alaska 99559; Phone: (907) 543-7400; Fax: (907) 543-5759; Email: sjenkins@avcp.org

Organized Village of Grayling (aka Holikachuk), Sue Ann Nicholi, Tribal Family Youth Specialist, P.O. Box 49, Grayling, AK 99590; Phone: (907) 453-5142; Fax: (907) 453-5146

Legal Department, Tanana Chiefs Conference, 122 First Avenue, Suite 600, Fairbanks, AK 99701; Phone: (907) 452-8251 ext. 3178; Fax: (907) 459-3953

Gulkana Village, Charelle Randall, ICWA Worker, P.O. Box 254, Gakona, AK 99586-0254; Phone: (907) 822-5363; Fax: (907) 822-3976; Email: icwa@gulkanacouncil.org

Gwichyaa Gwichin (see Fort Yukon)

H

Haines (see Chilkoot Indian Association)

Native Village of Hamilton, Tribal Administrator, P.O. Box 20248, Kotlik, AK 99620-0248; Phone: (907) 899-4252/4255; Fax: (907) 899-4202

Association of Village Council Presidents, Sarah Jenkins, ICWA Social Worker, P.O. Box 219 Bethel, Alaska 99559; Phone: (907) 543-7400; Fax: (907) 543-5759; Email: sjenkins@avcp.org

Healy Lake Village, Julie Luke, Tribal Family Youth Specialist, P.O. Box 74090, Fairbanks, AK 99701; Phone: (907) 479-0638; Fax: (907) 876-0639

Legal Department, Tanana Chiefs Conference, 122 First Avenue, Suite 600, Fairbanks, AK 99701; Phone: (907) 452-8251, ext. 3178; Fax: (907) 459-3953

Holikachuk (See Grayling)

Holy Cross Village, Rebecca Demientieff, Tribal Family Youth Specialist, P.O. Box 191, Holy Cross, AK. 99602; Phone: (907) 476-7249; Fax: (907) 476-7132 Email: Rebecca.turner@tananachiefs.org

Legal Department, Tanana Chiefs Conference, 122 First Avenue, Suite 600, Fairbanks, AK 99701; Phone: (907) 452-8251, Fax: (907) 459-3953

Hoonah Indian Association, Candy Keown, Director, Human Services, P.O. Box 602, Hoonah, AK 99829; Phone: (907) 945-3545; Fax: (907) 945-3530; Email: ckeown@hiatribe.org

Native Village of Hooper Bay, Mildred B. Metcalf, ICWA Representative, P.O. Box 62 Hooper Bay, AK 99604; Phone: (907) 758-4006; Fax: (907) 758-4606

Association of Village Council Presidents, ICWA Staff, P.O. Box 219, Bethel, AK 99559; Phone: (907) 543-7300; Fax: (907) 543-5759; Email: icwa@avcp.org

Hughes Village, Elena Miranda Beatus, Tribal Family Youth Specialist, P.O. Box 45029, Hughes, AK 99745; Phone: (907) 889-2249; Fax; (907) 889-2252; Email: Elena.beatus@tananachiefsconference.org

Legal Department, Tanana Chiefs Conference, 122 First Avenue, Suite 600, Fairbanks, AK 99701; Phone: (907) 452-8251 ext. 3178; Fax: (907) 459-3953

Huslia Village, Cesa Sam, Tribal Family Youth Specialist, P.O. Box 70 Huslia, AK 99746; Phone: (907)829-2202; Fax: (907) 829-2204

Legal Department, Tanana Chiefs Conference, 122 First Avenue, Suite 600, Fairbanks, AK 99701; Phone: (907) 452-8251, ext. 3178; Fax: (907) 459-3953

Hydaburg Cooperative Association, Margaret Lockhart, Human Services Director, P.O. Box 349, Hydaburg AK 99922; Phone: (907) 285-3666; Fax: (907) 285-3541; Email: humanservices@hydaburgtribe.org

I

Igiugig Village, Tanya Salmon, ICWA Worker, P.O. Box 4008, Igiugig, AK 99613; Phone: (907) 533-3211; Fax: (907) 533-3217

Village of Iliamna, Lorene Anelon, President, P.O. Box 286, Iliamna, AK 99606; Phone: (907) 571-1246/7130; Fax: (907) 571-1256; Email: sue.anelon@iliamna.corp

Inupiat Community of Arctic Slope, Deborah Ryan, ICWA Program, P.O. Box 934, Barrow, AK 99723; (907) 852-4227; Fax: (907) 852-4246; Email: icas.social@barrow.com

Iqurmuit Traditional Council (formerly the Native Village of Russian Mission), Josephine Changsak, ICWA Coordinator, P.O. Box 38, Russian Mission, AK 99657-0009; Phone: (907) 584-5594; Fax: (907) 584-5596

Association of Village Council Presidents, ICWA Staff, P.O. Box 219, Bethel, AK 99559; Phone: (907) 543-7300; Fax: (907) 543-5759; Email: icwa@avcp.org

Ivanoff Bay Village, Edgar Shangin, Tribal President, 7926 Old Seward Hwy, Suite B-5, Anchorage, AK 99518; Phone: (907) 522-2263; Fax: (907) 522-2363; Email: ibvc@ivanofbay.com

Children's Services Program Manager, Bristol Bay Native Association, P.O. Box 310, 1500 Kanakanak Road, Dillingham, AK 99576; Phone: (907) 842-4139; Fax: (907) 842-4106; Email: cnixon@bbna.com

K

Kaguyak Village, Margie Bezona, Community Development Director, Kodiak Area Native Association, 3449 E. Rezanof Drive, Kodiak, AK 99615; Phone: (907) 486-9816; Fax: (907) 486-9886. Email: margie.bezona@kanaweb.org

Organized Village of Kake, M. Ann Jackson, Social Service Director, P.O. Box 316, Kake, AK 99830; Phone: (907) 785-6471; Fax: (907) 785-4902; Email: annjackson@kakefirstnation.org

Kaktovik Village (aka Barter Island), Isaac Akootchook, President, P.O. Box 52, Kaktovik, AK 99747; Phone: (907) 640-2042/2043; Fax: (907) 640-2044

Arctic Slope Native Association, Maude Hopson, ICWA Worker; P.O. Box 29 Barrow, Alaska 99723 Phone: (907) 852-9374; Fax: (907) 852-6408; Email: maude.hopson@arcticslope.org

Village of Kalskag, (aka Upper Kalskag), Bonnie Perrson, Administrator, P.O. Box 50, Upper Kalskag, AK 99607; Phone: (907) 471-2207; Fax: (907) 471-2399

Association of Village Council Presidents, Sarah Jenkins, ICWA Social Worker, P.O. Box 219 Bethel, Alaska 99559; Phone: (907) 543-7400; Fax: (907) 543-5759; Email: sjenkins@avcp.org

Village of Lower Kalskag, Nastasia “Jackie” Levi, President/Tribal Administrator, P.O. Box 27, Lower Kalskag, AK 99626; Phone: (907) 471-2379/2344; Fax: (907) 471-2378 Association of Village Council Presidents, Sarah Jenkins, ICWA Social Worker, P.O. Box 219 Bethel, Alaska 99559; Phone: (907) 543-7400; Fax: (907) 543-5759; Email: sjenkins@avcp.org

Village of Kaltag, Donna Esmailka, Tribal Administrator, P.O. Box 129, Kaltag, AK 99748; Phone: (907) 534-2224; Fax: (907) 534-2265

Legal Department, Tanana Chiefs Conference, 122 First Avenue, Suite 600, Fairbanks, AK 99701; Phone: (907) 452-8251 ext. 3178; Fax: (907) 459-3953

Native Village of Kanatak, Tony Olivera, Tribal Administrator/ICWA Director, P.O. Box 872231, Wasilla, AK 99687; Phone: (907) 357-5991; Fax: (907) 357-5992; Email: kanatak@mtaonline.net

Native Village of Karluk, Joyce Jones, ICWA Worker, P.O. Box 22, Karluk, AK 99608; Phone: (907) 241-2228; Fax: (907) 241-2208

Organized Village of Kasaan, Paula K. Peterson, Tribal Administrator, P.O. Box 26-KXA, Kasaan, Ketchikan, AK 99950; Phone: (907) 542-2230; Fax: (907) 542-3006; Email: paula@kasaan.org

Kashunamiut Tribe (see Chevak)

Kasigluk Traditional Elders Council (formerly the Native Village of Kasigluk), Lena Keene, ICWA Worker & Karen Martin, Tribal Administrator, P.O. Box 19 Kasigluk, AK 99609; Phone: (907) 477-6418/6405; Fax: (907) 477-6416/6212

Kenaitze Indian Tribe, Beatrice Saggonick, ICWA Specialist, P.O. Box 988 Kenai, AK 99611; Phone: (907) 335-7218; Fax: (907) 283-335-7239; Email: bsagoonick@kenaitze.org

Ketchikan Indian Corporation, Wendy Weston, LMSW, Tribal Family Services, 2960 Tongass Avenue, First Floor, Ketchikan, AK 99901; Phone: (907) 228-9203; Fax: (907) 228-4920; Email: wweston@kictribe.org

Native Village of Kiana, Dale Stotts, Tribe Director & Jacqueline Morris, ICWA Worker, P.O. Box 69, Kiana, AK 99749; Phone: (907) 475-2109; Fax: (907) 475-2180; Email: icwa@katyaaq.org or tribedirector@katyaaq.org

King Cove (see Agdaagux)

King Island Native Community, Danielle Holt, Kawerak, Inc. Children & Family Services, P.O. Box 948 Nome, Alaska 99762; Phone: (907) 443-4261; Fax: (907) 443-4457; Email: dholt@kawerak.org

King Salmon Tribe, Ralph Angasan, Jr., Tribal Administrator, Ruth Monsen, ICWA Worker, P.O. Box 68, King Salmon, AK 99613; Phone: (907) 246-3553/3447; Fax: (907) 246-3449; Email: kstvc@starbans.net; windsong1@starband.net

Native Village of Kipnuk, Nicole A. Slim, ICWA Specialist, P.O. Box 57, Kipnuk, AK 99614; Phone: (907) 896-5515; Fax: (907) 896-5240; Email: nslim@avcp.org Association of Village Council Presidents, Sarah Jenkins, ICWA Social Worker, P.O. Box 219 Bethel, Alaska 99559; Phone: (907) 543-7400; Fax: (907) 543-5759; Email: sjenkins@avcp.org

Native Village of Kivalina, Stanley Hawley, Tribal Administrator, P.O. Box 50051, Kivalina, AK 99750; Phone: (907) 645-2201; Fax: (907) 645-2250; Email: tribeadmin@kivaliniq.org

Maniilaq Association, ICWA Program, P.O. Box 256, Kotzebue, AK 99752; Phone: (907) 442-7919; Fax: (907) 442-7933

Klawock Cooperative Association, Cynthia Mills, Family Caseworker, P.O. Box 173, Klawock, AK 99925; Phone: (907) 755-2326; Fax: (907) 755-2912; Email: cmills@ccthita.org

Klukwan (see Chilkat Indian Village)

Native Village of Kluti-Kaah (Copper Center), Michelle Bayless, Tribal Administrator, P.O. Box 68 Copper Center, AK 99573; Phone: (907) 822-5541; Fax: (907) 822-5130

Knik Tribe, Geraldine Nicoli, ICWA Worker, P.O. Box 871565, Wasilla, AK 99687-1565; Phone: (907) 373-7938; Fax: (907) 373-2153; Email: gnicoli@kniktribe.org

Native Village of Kobuk, Agnes Bernhardt, Tribal Administrator, P.O. Box 51039, Kobuk, AK 99751-0039; Phone: (907) 948-2203/2007; Fax: (907) 948-2355; Email: tribeadmin@laugvik.org

Kodiak Tribal Council, (see Sun'aq Tribe of Kodiak, formerly Shoonaq Tribe)

Kokhanok Village, Mary Andrew, Caseworker II, P.O. Box 1007, Kokhanok, AK 99606; Phone: (907) 282-2224; Fax: (907) 282-2264;

Bristol Bay Native Association, Crystal Nixon, Children's Services Program Manager P.O. Box 310, 1500 Kanakanak Road, Dillingham, AK 99559; Phone: (907) 842-4139; Fax: (907) 842-4106; Email: cnixon@bbna.com

Koliganek Village (see New Koliganek)

Native Village of Kongiganak, Janet Otto, ICWA Worker and Wayne Phillip, Tribal Administrator, P.O. Box 5092, Kongiganak, AK 99545; Phone: (907) 557-5311; Fax: (907) 557-5348; Email: janet_otto@avcp.org

Association of Village Council Presidents, Sarah Jenkins, ICWA Social Worker, P.O. Box 219 Bethel, Alaska 99559; Phone: (907) 543-7400; Fax: (907) 543-5759; Email: sjenkins@avcp.org

Village of Kotlik, Della Hunt, Tribal Administrator, P.O. Box 20210, Kotlik, AK 99620; Phone: (907) 899-4326; Fax: (907) 899-4459/4790

Native Village of Kotzebue, Clara Henry, Family Tribal Resource Director, P.O. Box 296, Kotzebue, AK 99752-0296; Phone: (907) 442-3467 Ext: 1021; Fax: (907) 442-4013; Email: clara.henry@qira.org

Native Village of Koyuk, Leo M. Charles Sr., Tribal Family Coordinator, P.O. Box 53149 Koyuk, AK 99753; Phone: (907) 963-2215; Fax: (907) 963-2300; Email: lcharles@kawerak.org

Kawerak, Inc. Children & Family Services, P.O. Box 948 Nome, Alaska 99762; Phone: (907)443-4261; Fax: (907) 443-4457

Native Village Koyukuk, Sharon Pilot, Tribal Family Youth Specialist, P.O. Box 109, Koyukuk, AK 99754; Phone: (907) 927-2208/2208; Fax: (907) 927-2208; Email: Sharon.pilot@tananachiefs.org

Legal Department, Tanana Chiefs Conference, 122 First Avenue, Suite 600, Fairbanks, AK 99701; Phone: (907) 452-8251 ext. 3178; Fax: (907) 459-3953

Organized Village of Kwethluk, Chariton A. Epchook, Indian Child Welfare Coordinator, P.O. Box 130, Kwethluk, AK 99621; Phone: (907) 757-6043; Fax: (907) 757-6321; ovkssicw@unicom-alaska.com

Native Village of Kwigillingok, Andrew Kiunya, Tribal Administrator; P.O. Box 90, Kwigillingok, AK 99622; Phone: (907) 588-8114/8117; Fax: (907) 588-8429

Native Village of Kwinhagak (aka Quinhagak), Grace Friendly, Health & Human Service Director/ICWA, P.O. Box 149, Quinhagak, AK 99655; Phone: (907) 556-8165 ext. 262; Fax: (907) 556-8166; Email: gfriendly.nvk@gmail.com

L

Native Village of Larsen Bay, Rachelle Joy, Kodiak Area Native Association Foster, 3449 Rezanof Drive East Kodiak, AK 99615; Phone: (907) 486-9800; Fax: (907) 486-4829; Email: rachelle.joy@kanaweb.org

Lesnoi Village (aka Woody Island), Margaret Roberts, President, 3248 Mill Bay Road, Kodiak, AK 99615; Phone: (907) 486-2821; Fax: (907) 486-2738; Email: village@alaska.com

Levelock Village, Ida Apokedak, Tribal President, P.O. Box 70, Levelock, AK 99625; Phone: (907) 287-3030/3031; Fax: (907) 287-3032; Email: levelock@starband.net

Bristol Bay Native Association, Children's Services Program Manager, P.O. Box 310, 1500 Kanakanak Road, Dillingham, AK 99576; Phone: (907) 842-4139; Fax: (907) 842-4106; Email: cnixon@bbna.com

Lime Village, Jennifer M. John, President, P.O. Box LVD—Lime Village VIA, McGrath, AK 99627-8999; Phone: (907) 526-5236; Fax: (907) 526-5235; Email: limevillage@gmail.com

Louden (See Galena)

M

Manley Hot Springs Village, Elizabeth Woods, Tribal Family Youth Specialist, P.O. Box 105, Manley Hot Springs, AK 99756; Phone: (907) 672-3180/3177; Fax: (907) 672-3200

Legal Department, Tanana Chiefs Conference, 122 First Avenue, Suite 600, Fairbanks, AK 99701; Phone: (907) 452-8251 ext. 3178; Fax: (907) 459-3953

Manokotak Village, Diana Gamechuk, Caseworker I, P.O. Box 169, Manokotak, AK 99628; Phone: (907) 289-2074; Fax: (907) 289-1235

Bristol Bay Native Association Children's Services Program Manager, P.O. Box 310, 1500 Kanakanak Road, Dillingham, AK 99576; Phone: (907) 842-4139; Fax: (907) 842-4106; Email: cnixon@bbna.com.

Native Village of Marshall (aka Fortuna Ledge), Nick Andrew Jr., Tribal Administrator, Box 110, Marshall, AK 99585; Phone: (907) 679-6302; Fax: (907) 679-6187; Email: nandrewmlltc@gci.net

Native Village of Mary's Igloo (Native Village of Teller), Dolly Kugzruk, ICWA Worker, P.O. Box 546, Teller, AK 99778; Phone: (907) 642-2185; Fax: (907) 642-3000; Email: dkugzruk@kawerak.org

Kawerak, Inc. Children & Family Services, P.O. Box 948 Nome, Alaska 99762; Phone: (907)443-4261; Fax: (907) 443-4457

McGrath Native Village, Helen Vanderpool, Tribal Family and Youth Specialist, P.O. Box 134, McGrath, AK 99627; Phone: (907) 524-3023; Fax: (907) 524-3899; Email: helenvhf@mcgrathalaska.net

Legal Department, Tanana Chiefs Conference, 122 First Avenue, Suite 600, Fairbanks, AK 99701; Phone: (907) 452-8251 ext. 3178; Fax: (907) 459-3953

Native Village of Mekoryuk, Theresa D. Kiokun, ICWA Corrdinator or Steven J. Whitman, Executive Director, P.O. Box 66, Mekoryuk, AK 99630; Phone: (907) 827-8828; Fax: (907) 827-8133; Email: nvmicwa@gci.net

Mentasta Traditional Council, Tribal President and ICWA Program, P.O. Box 6019, Mentasta, AK 99780; Phone: (907) 291-2319; Fax: (907) 291-2305

Metlakatla Indian Community (Annette Island Reserve), Cate Calvert Arriola, MSW, Social Services Director, P.O. Box 8, Metlakatla, AK 99926; Phone: (907) 886-6916; Fax: (907) 886-6913; Email: cate@metlakatla.com

Native Village of Minto, Lou Ann Williams, Tribal Family Youth Specialist, P.O. Box 26, Minto, AK 99758; Phone: (907) 798-7007; Fax: (907) 798-7008

Legal Department, Tanana Chiefs Conference, 122 First Avenue, Suite 600, Fairbanks, AK 99701; Phone: (907) 452-8251 ext. 3178; Fax: (907) 459-3953

Mountain Village (see Asa'carsarmiut Tribe)

N

Naknek Native Village, Leon Kiana, Village Administrator, P.O. Box 210, Naknek, AK 99633; Phone: (907) 246-7422/4210; Fax: (907) 246-3563/4212

Native Village of Nanwalek, (aka English Bay), Mandy Wood, ICWA Program, P.O. Box 8028, Nanwalek, AK 99603-6021; Phone: (907) 281-2307; Fax: (907) 281-2252

Native Village of Napaimute, Mark Leary, P.O. Box 1301, Bethel, AK 99559; Phone: (907) 543-2887; Fax: (907) 543-2892

Association of Village Council Presidents, Sarah Jenkins, ICWA Social Worker, P.O. Box 219 Bethel, Alaska 99559; Phone: (907) 543-7400; Fax: (907) 543-5759; Email: sjenkins@avcp.org

Native Village of Napakiak, Sally K. Billy, ICWA, P.O. Box 34114, Napakiak, AK 99634; Phone: (907) 589-2815; Fax: (907) 589-2814; Email: sbilly@avcp.org

Association of Village Council Presidents, Sarah Jenkins, ICWA Social Worker, P.O. Box 219 Bethel, Alaska 99559; Phone: (907) 543-7400; Fax: (907) 543-5759; Email: sjenkins@avcp.org

Native Village of Napaskiak, Helen Raganak, Tribal Administrator, and Chris G. Larson, Chief, P.O. Box 6009, Napaskiak, AK 99559; Phone: (907) 737-7364; Fax: (907) 737-7039; Email: hkaganak@napaskiak.org

Association of Village Council Presidents, Sarah Jenkins, ICWA Social Worker, P.O. Box 219 Bethel, Alaska 99559; Phone: (907) 543-7400; Fax: (907) 543-5759; Email: sjenkins@avcp.org

Native Village of Nelson Lagoon, Grace Smith, Family Programs Coordinator, Aleutian/Pribilof Islands Association, Inc., 1131 East International Airport Road, Anchorage, AK 99518-1408; Phone: (907) 276-2700; Fax: (907) 279-9735; Email: graces@apiai.org

Nenana Native Association, Nita M. Marks, Tribal Family Youth Specialist, P.O. Box 369, Nenana, AK 99760; Phone: (907) 832-5461 ext. 225; Fax: (907) 832-5447

Legal Department, Tanana Chiefs Conference, 122 First Avenue, Suite 600, Fairbanks, AK 99701; Phone: (907) 452-8251 ext. 3178; Fax: (907) 459-3953

New Koliganek Village Council (formerly Koliganek Village), Herman Nelson, President, P.O. Box 5057, Koliganek AK 99576; Phone: (907) 596-3434; Fax: (907) 596-3462

Bristol Bay Native Association, Children's Services Program Manager, P.O. Box 310, 1500 Kanakanak Road, Dillingham, AK 99559; Phone: (907) 842-4139; Fax: (907) 842-4106; Email: cnixon@bbna.com

New Stuyahok Village, Faith Andrew, Tribal Administrator, P.O. Box 49, New Stuyahok, AK 99637; Phone: (907) 693-3173; Fax: (907) 693-3179; Email: nstc@starband.net

Newhalen Village, Maxine Wassillie, ICWA Worker, and Joanne Wassillie, Administrator; P.O. Box 207, Newhalen, AK 99606-0207; Phone: (907) 571-1410/1317; Fax: (907) 571-1537

Newtok Village, Moses Carl, President, P.O. Box 5545, Newtok, AK 99559-5545; Phone: (907) 237-2314; Fax: (907) 237-2321

Native Village of Nightmute, Paul Tulik, Vice President, Box 90021, Nightmute, AK 99690; Phone: (907) 647-6215; Fax: (907) 647-6112

Association of Village Council Presidents, Sarah Jenkins, ICWA Social Worker, P.O. Box 219 Bethel, Alaska 99559; Phone: (907) 543-7400; Fax: (907) 543-5759; Email: sjenkins@avcp.org

Nikolai Village (Edzeno'), Deborah Esai-Holm, Tribal Family Youth Specialist, P.O. Box 9105, Nikolai, AK 99691; Phone: (907) 293-2450; Fax: (907) 293-2481; Email: Beverly.gregory@tananachiefs.org

Legal Department, Tanana Chiefs Conference, 122 First Avenue, Suite 600, Fairbanks, AK 99701; Phone: (907) 452-8251 ext. 3178 Fax: (907) 459-3953

Native Village of Nikolski, Grace Smith, Family Programs Coordinator, Aleutian/Pribilof Islands Association, 1131 East International Airport Road, Anchorage, AK 99518-1408; Phone: (907) 276-2700; Fax: (907) 222-9735; Email: graces@apiai.org

Ninilchik Village, Bettyann Steciw, ICWA/Social Services Specialist, P.O. Box 39444 Ninilchik, AK 99669; Phone: (907) 567-3313; Fax: (907) 567-3354; Email: bettyann@ninilchiktribe-nsn.gov

Native Village of Noatak, Kelly Soxie, ICWA Coordinator, P.O. Box 89, Noatak, AK 99761; Phone: (907) 485-2176; Fax: (907) 485-2137; Email: icwa@nautaag.org

Nome Eskimo Community, Lester Keller, Family Services Director, P.O. Box 1090, Nome, AK 99762-1090; Phone: (907) 443-9109; Fax: (907) 443-3539; Email: lesterkeller@gci.net

Nondalton Village, Ada Trefon, Social Services/ICWA, P.O. Box 49, Nondalton, AK 99640-0049; Phone: (907) 294-2257; Fax: (907) 294-2271

Noorvik Native Community, Nellie Ballot, ICWA Worker, P.O. Box 209, Noorvik, AK 99763; Phone: (907) 636-2144; Fax: (907) 636-2284

Maniilaq Association, ICWA Program, P.O. Box 256, Kotzebue, AK, 99572, Phone: (907) 442-7657; Fax: (907) 442-7933

Northway Village, Shanice Albert, ICWA Worker, and Belinda Thomas, Administrator, P.O. Box 516, Northway, AK 99764; Phone: (907) 778-2311; Fax: (907) 778-2220;

Native Village of Nuiqsut, Martha A. Itta, Tribal Administrator, P.O. Box 89169, Nuiqsut, AK, 99789; Phone: (907) 480-3010; Fax: (907) 480-3009; Email: native.village@astacalaska.net

Arctic Slope Native Association, Maude Hopson, ICWA Worker; P.O. Box 29, Barrow, Alaska 99723 Phone: (907) 852-9374; Fax: (907) 852-6408; Email: maude.hopson@arcticslope.org

Nulato Village, Brittany Smith, Director of Human Services, P.O. Box 65049, Nulato, AK 99765; Phone: (907) 898-2339/2329 Fax: (907) 898-2207

Nunakauyarmiut Tribe (formerly the Native Village of Toksook Bay), Marcella White, ICWA Coordinator and David A. Nicholai, Tribal Executive Director, P.O. Box 37048; Toksook Bay, AK 99637; Phone: (907) 427-7914/7114/7615; Fax: (907) 427-7206/7714

Nunam Iqua, (formerly known as Sheldon's Point), Olivia Horn-Moses, Tribal Administrator, P.O. Box 27, Nunam Iqua, AK 99666; Phone: (907) 498-4184; Fax (907) 498-4185

Association of Village Council Presidents, Sarah Jenkins, ICWA Social Worker, P.O. Box 219 Bethel, Alaska 99559; Phone: (907) 543-7400; Fax: (907) 543-5759; Email: sjenkins@avcp.org

Native Village of Nanapitchuk, Eli Wassillie, Tribal Administrator, P.O. Box 130, Nunapitchuk, AK 99641-0130; Phone: (907) 527-5705; Fax: (907) 527-5711; Email: tribaladmin@yupik.org

O

Village of Ohogamiut, Maurice Turet, Council President, P.O. Box 49, Marshall, AK 99585; Phone: (907) 679-6517/6598; Fax: (907) 679-6516

Association of Village Council Presidents, Sarah Jenkins, ICWA Social Worker, P.O. Box 219 Bethel, Alaska 99559; Phone: (907) 543-7400; Fax: (907) 543-5759; Email: sjenkins@avcp.org

Old Harbor, Village of, Fred Brooks, Tribal Administrator, P.O. Box 62, Old Harbor, AK 99643-0062; Phone: (907) 286-2215; Fax: (907) 286-2277; Email: fred.brooks@ohtcmail.org

Orutsararmuit Native Village, (aka Bethel), Loretta Coffee, ICWA Advocate, P.O. Box 927, Bethel AK 99559; Phone: (907) 543-2608/0512; Fax: (907) 543-0520; Email: lcoffee@nativecouncil.org

Oscarville Traditional Village, Michael Stevens, Administrator, P.O. Box 6129, Napaskiak, AK 99559; Phone: (907) 737-7100; Fax: (907) 737-7428/7101; Email: alarson@avcp.org

Association of Village Council Presidents, Sarah Jenkins, ICWA Social Worker, P.O. Box 219 Bethel, Alaska 99559; Phone: (907) 543-7400; Fax: (907) 543-5759; Email: sjenkins@avcp.org

Native Village of Ouzinkie, Theresa L. Squartsoff, ICWA Worker, P.O. Box 130, Ouzinkie, AK 99644-0130; Phone: (907) 680-2359; Fax: (907) 680-2214/2359; email: icwa@ouzinkie.org

P

Native Village of Paimiut, Tribal President or Tribal Administrator, P.O. Box 230, Hooper Bay, AK 99604; Phone: (907) 758-40002; Fax: (907) 758-4024

Association of Village Council Presidents, Sarah Jenkins, ICWA Social Worker, P.O. Box 219 Bethel, Alaska 99559; Phone: (907) 543-7400; Fax: (907) 543-5759; Email: sjenkins@avcp.org

Pauloff Harbor Village, Grace Smith, Family Programs Coordinator, Aleutian/Pribilof Islands Association, 1131 East International Airport Road, Anchorage, AK 99518-1408; Phone: (907) 276-2700 or 222-4236; Fax: (907) 222-9735; Email: graces@apiai.org

Pedro Bay Village, Verna Jean Kolyaha, Program Specialist II (ICWA), P.O. Box 47020, Pedro Bay, AK 99647-7020; Phone: (907) 850-2341; Fax: (907) 850-2221; Email: villagecouncil@pedrobay.com

Native Village of Perryville, Bernice O'Domin, Case Manager II, P.O. Box 97, Perryville, AK 99648-0089; Phone: (907) 853-2242; Fax: (907) 853-2229

Bristol Bay Native Association, Children's Services Program Manager, P.O. Box 310,1500 Kanakanak Road, Dillingham, AK 99576; Phone: (907) 842-4139; Fax: (907) 842-4106; Email: cnixon@bbna.com

Petersburg Indian Association, Ramona Brooks, ICWA Worker and, Tribal Social Services, P.O. Box 1418, Petersburg, AK 99833; Phone: (907) 772-3636 Ext: 121; Fax: (907) 772-3686; Email: icwa@piatribal.org

Pilot Point, Native Village of, Suzanne Evanoff, Village Administrator, P.O. Box 449, Pilot Point, AK 99649; Phone: (907) 797-2208; Fax: (907) 797-2258

Bristol Bay Native Association, Children's Services Program Manager, P.O. Box 310, 1500 Kanakanak Road, Dillingham, AK 99559; Phone: (907) 842-4139; Fax: (907) 842-4106; Email: cnixon@bbna.com

Pilot Station Traditional Village, Nicky Myers, Traditional Council Member, P.O. Box 5119 Pilot Station, AK 99650; Phone: (907) 549-3373; Fax: (907) 549-3301

Association of Village Council Presidents, Sarah Jenkins, ICWA Social Worker, P.O. Box 219 Bethel, Alaska 99559; Phone: (907) 543-7400; Fax: (907) 543-5759; Email: sjenkins@avcp.org; lalexie@avcp.org

Native Village of Pitka's Point, Thelma H. Wasky, Tribal Administrator, P.O. Box 127, St. Mary's, AK 99658; Phone: (907) 438-2833; Fax: (907) 438-2569

Association of Village Council Presidents, Sarah Jenkins, ICWA Social Worker, P.O. Box 219 Bethel, Alaska 99559; Phone: (907) 543-7400; Fax: (907) 543-5759; Email: sjenkins@avcp.org

Platinum Traditional Village, Tribal President and ICWA Worker, P.O. Box 8, Platinum, AK 99651; Phone: (907) 979-8610; Fax: (907) 979-8178

Association of Village Council Presidents, Sarah Jenkins, ICWA Social Worker, P.O. Box 219 Bethel, Alaska 99559; Phone: (907) 543-7400; Fax: (907) 543-5759; Email: sjenkins@avcp.org; lalexie@avcp.org

Native Village of Point Hope, Martha Douglas, Family Caseworker, P.O. Box 109, Point Hope, AK 99766; Phone: (907) 368-3122; Fax: (907) 368-5401; Email: Martha.douglas@tikigaq.org

Native Village of Point Lay, Sophie Henry, IRA Council Board Member/Village Liaison, Box 59031, Pt. Lay, AK 99757; Phone: (907) 833-2575; Fax: (907) 833-2576;

Inupiat Community of the Arctic Slope, Deborah Ryan, ICWA Worker, P.O. Box 934, Barrow, Alaska 99723; Phone: (907) 852-5923; Fax: (907) 852-5924; Email: social@inupiatgov.com

Native Village of Port Graham, Patrick Norman, Chief, P.O. Box 5510, Port Graham, AK 99603; Phone: (907) 284-2227; Fax: (907) 284-2222

Native Village of Port Heiden, Gerda Kosbruk, Tribal Administrator and Samantha Holm, Tribal Children Service Worker; 2200 James Street, Port Heiden, AK 99549; Phone: (907) 837-2225/2296; Fax:(907) 837-2297; Email: sholm@portheidenalaska.com

Native Village of Port Lions, Lisa Squartsoff, Tribal Services Coordinator, P.O. Box 69, Port Lions, AK 99550-0069; Phone: (907) 454-2234; Fax: (907) 454-2434

Portage Creek Village (aka Ohgensakale), Eva Kapotak, Caseworker, 1327 E. 72nd Ave., Unit B, Anchorage, AK 99508; Phone: (907) 277-1105; Fax: (907) 277-1104 Bristol Bay Native Association, Children's Services Program Manager, P.O. Box 310, 1500 Kanakanak Road, Dillingham, AK 99576; Phone: (907) 842-4139; Fax: (907) 842-4106; Email: cnixon@bbna.com

Q

Qagan Tayagungin Tribe of Sand Point Village, Grace Smith, Family Programs Coordinator, Aleutian/Pribilof Islands Association, 1131 East International Airport Road, Anchorage, AK 99518-1408; Phone: (907) 276-2700; Fax: (907) 279-9735; Email: graces@apiai.org

Qawalangin Tribe of Unalaska, Grace Smith, Tribal Representative, Aleutian/Pribilof Islands Association1131 East International Airport Road, Anchorage, AK 99518-1408; Phone: (907) 276-2700; Fax: (907) 279-9735; Email: graces@apiai.org

Quinhagak (see Kwinhagak)

Qissunamiut Tribe (see Chevak)

R

Rampart Village, Tribal Administrator, P.O. Box 67029, Rampart, Alaska 99767; Phone: (907) 358-3312; Fax: (907) 358-3115

Legal Department, Tanana Chiefs Conference, 122 First Avenue, Suite 600, Fairbanks, AK 99701; Phone: (907) 452-8251 Ext. 3178; Fax: (907) 459-3953

Village of Red Devil, Tribal Administrator, P.O. Box 27, Red Devil, AK 99656; Phone: (907) 447-3223; Fax: (907) 447-3224

Association of Village Council Presidents, Sarah Jenkins, ICWA Social Worker, P.O. Box 219 Bethel, Alaska 99559; Phone: (907) 543-7400; Fax: (907) 543-5759; Email: sjenkins@avcp.org

Native Village of Ruby, Pat Sweetsir, Tribal Administrator, P.O. Box 210, Ruby, AK 99768; Phone: (907) 468-4479; Fax: (907) 468-4474

Legal Department, Tanana Chiefs Conference, 122 First Avenue, Suite 600, Fairbanks, AK 99701; Phone: (907) 452-8251 ext. 3178; Fax: (907) 459-3953

Russian Mission (see Iqurmuit Traditional Council)

S

Saint George Island, Grace Smith, Family Programs Coordinator, Aleutian/Pribilof Islands Association, 1131 East International Airport Road, Anchorage, AK 99518-1408; Phone: (907) 276-2700; Fax: (907) 222-9735; Email: graces@apiai.org

Native Village of Saint Michael, Danielle Holt, P.O. Box 59050, St. Michael, AK 99659; Phone: (907) 923-443-4261; Fax: (907) 443-4457; Email: dholt@kawerak.org

Kawerak, Inc. Children & Family Services, P.O. Box 948 Nome, Alaska 99762; Phone: (907)443-4261; Fax: (907) 443-4457

Saint Paul Island, Emily Melovidov, Child Welfare & Enrollment Caseworker; Charlene Naulty, DVSA & Family Programs Manager, P.O. Box 86, St. Paul Island, Alaska 99660; Phone: (907) 546-3242/2103; Fax: (907) 546-3254; Email: emmelovidov@tgspi.com; cjnaulty@tgspi.com

Aleutian/Pribilof Islands Association, Grace Smith, Family Programs Coordinator, 1131 East International Airport Road, Anchorage, AK 99518-1408; Phone: (907) 276-2700 or 222-4236; Fax: (907) 279-4351; Email: graces@apiai.org

Village of Salamatoff, Beatrice Sagoonick, ICWA Worker, 150 North Willow Street, Suite 33, Kenai, AK 99611; Phone: (907) 335-7200; Fax: (907) 335-7239; Email: bsagoonick@kenaitze.org

Sand Point (see Qagan Tayagungin Tribe of Sand Point Village)

Native Village of Savoonga, Ruthie Ok, ICWA Coordinator, P.O. Box 120, Savoonga, AK 99769; Phone: (907) 984-6211; Fax: (907) 984-6152

Organized Village of Saxman, Janice Jackson, Family Caseworker II, Central Council Tlingit & Haida Indian Tribes of Alaska, Route 2, Box 2, Ketchikan, AK 99901; Phone: (907) 225-2502; Fax: (907) 247-2912; Email: jjackson@ccthita.org

Native Village of Scammon Bay, Michelle Akerelrea, Community Family Service Specialist, P.O. Box 8, Scammon Bay, AK 99662; Phone: (907) 558-5078; Fax: (907) 558-5079; email: makerelrea@avcp.org

Association of Village Council Presidents, Sarah Jenkins, ICWA Social Worker, P.O. Box 219 Bethel, Alaska 99559; Phone: (907) 543-7400; Fax: (907) 543-5759; Email: sjenkins@avcp.org; lalexie@avcp.org

Native Village of Selawik, Jessie Hingsbergen, ICWA Worker, P.O. Box 59, Selawik, AK 99770-0059; Phone: (907) 484-2165; Fax: (907) 484-2001

Maniilaq Association, ICWA Program, P.O. Box 256 Kotzebue, Alaska 99752; Phone: (907) 442-7919; Fax: (907) 442-7933

Seldovia Village Tribe, Laurel Hilts, ICWA Representative, Drawer L, Seldovia, AK 99663; Phone: (907) 435-3252 or (907) 234-7898; Fax: (907) 234-7865; Email: lhilts@svt.org

Shageluk Native Village, Rebecca Wulf, Tribal Family Youth Specialist, P.O. Box 109, Shageluk, AK 99665; Phone: (907) 473-8229; Fax: (907) 473-8275; Email: rebecca.wulf@tananachiefs.org

Legal Department, Tanana Chiefs Conference, 122 First Avenue, Suite 600, Fairbanks, AK 99701; Phone: (907) 452-8251 ext. 3178; Fax: (907) 459-3953

Native Village of Shaktoolik, Hannah Sookiayak, Tribal Family Coordinator, P.O. Box 100, Shaktoolik, AK 99771; Phone: (907) 955-2443; Fax: (907) 955-2444; Email: tfc.skk@kawerak.org

Kawerak, Inc. Children & Family Services, P.O. Box 948 Nome, Alaska 99762; Phone: (907)443-4261; Fax: (907) 443-4457

Sheldon's Point (See Nunam Iqua)

Native Village of Shishmaref, Karla Nayokpuk, Tribal Family Coordinator, P.O. Box 72110, Shishmaref, AK 99772; Phone: (907) 649-3078; Fax: (907) 649-2278; Email: knayokpuk@kawerak.org

Kawerak, Inc. Children & Family Services, P.O. Box 948 Nome, Alaska 99762; Phone: (907)443-4261; Fax: (907) 443-4457

Native Village of Shungnak, Sally Custer, ICWA Coordinator, P.O. Box 64, Shungnak, AK 99773; Phone: (907) 437-2163; Fax: (907) 437-2183

Maniilaq Association, ICWA Program, P.O. Box 256 Kotzebue, Alaska 99752; Phone: (907) 442-7919; Fax: (907) 442-7933

Sitka Tribe of Alaska, Terri McGraw, ICWA Caseworker and Jackie DeBell, ICWA Caseworker, 456 Katlian St., Sitka, AK 99835; Phone: (907) 747-3968/7359; Fax: (907) 747-7643; Email: terri.mcgraw@sitkatribe-nsn.gov; Jackie.debell@sitkatribe_nsn.gov

Skagway Village, Delia Commander, Tribal President/Administrator, P.O. Box 1157, Skagway, AK 99840; Phone: (907) 983-4068; Fax: (907) 983-3068; Email: dcommander@skagwaytraditional.org

Village of Sleetmute, Sophie B. Bregory, President/ICWA, P.O. Box 109, Sleetmute, AK 99668; Phone: (907) 449-4269; Fax: (907) 449-4265

Village of Solomon, Kirsten Timbers, President, P.O. Box 2053 Nome, AK 99762; Phone: (907) 443-4985; Fax: (907) 443-5189; Email: tc.sol@kawerak.org

South Naknek Village, Lorianne Rawson, Tribal Administrator, P.O. Box 70029, South Naknek, AK 99670; Phone: (907) 246-8614; Fax: (907) 246-8613; Email: snvc@starband.net;

Bristol Bay Native Association, Children's Services Program Manager, P.O. Box 310, 1500 Kanakanak Road, Dillingham, AK 99576; Phone: (907) 842-4139; Fax: (907) 842-4106; Email: cnixon@bbna.com

St. Mary's (see Algaaciq)

Stebbins Community Association, Anna Nashoanak, Tribal Family Corrdinator, P.O. Box 71002, Stebbins, AK 99671; Phone: (907) 934-2334; Fax: (907) 934-2675; Email: anashoanak@kawerak.org

Kawerak, Inc. Children & Family Services, P.O. Box 948 Nome, Alaska 99762; Phone: (907)443-4261; Fax: (907) 443-4457

Native Village of Stevens, Randy Mayo, Administrator/1st Chief, P.O. Box 71372, Fairbanks, AK 99701; Phone: (907) 452-7162; Fax: (907) 452-5063

Village of Stony River, Association of Village Council Presidents, Sarah Jenkins, ICWA Social Worker, P.O. Box 219 Bethel, Alaska 99559; Phone: (907) 543-7400; Fax: (907) 543-5759; Email: sjenkins@avcp.org ; lalexie@avcp.org

Sun'aq Tribe of Kodiak (formerly the Shoonaq' Tribe of Kodiak), Linda Resoff, Social Services Director, 312 W. Marine Way, Kodiak, AK 99615; Phone: (907) 486-4449; Fax: (907) 486-3361; Email: socialservices@sunaq.org

T

Takotna Village, Janice Newton, Tribal Family Youth Specialist, P.O. Box 7529, Takotna, AK 99675; Phone: (907) 298-2212; Fax: (907) 298-2314; and Legal Department, Tanana Chiefs Conference, 122 First Avenue, Suite 600, Fairbanks, AK 99701; Phone: (907) 452-8251 ext. 3178; Fax: (907) 459-3953

Native Village of Tanacross, Colleen Denny, Tribal Family Youth Specialist, P.O. Box 76009, Tanacross, AK 99776; Phone: (907) 883-5024 Ext. 122; Fax: (907) 883-4497

Legal Department, Tanana Chiefs Conference, 122 First Avenue, Suite 600, Fairbanks, AK 99701; Phone: (907) 452-8251 ext. 3178; Fax: (907) 459-3953

Native Village of Tanana, Donna May Folger, Tribal Family Youth Specialist, P.O. Box 77130, Tanana, AK 99777; Phone: (907) 366-7154/7170; Fax: (907) 366-7246

Native Village of Tatitlek, Victoria Lee Vlasoff, Tribal Administrator, P.O. Box 171, Tatitlek, AK 99677; Phone: (907) 325-2311; Fax: (907) 325-2298

Native Village of Tazlina, Marce Simeon, ICWA Coordinator, P.O. Box 87, Glennallen, AK 99588; Phone: (907) 822-4375; Fax: (907) 822-5865; Email: marce@cvinternet.net

Telida Village, Josephine Royal, Tribal Family Youth Specialist, P.O. Box 84771, Fairbanks, Alaska, 99708; Phone: (907) 864-0629, Fax: (907)376-3540

Legal Department, Tanana Chiefs Conference, 122 First Avenue, Suite 600, Fairbanks, AK 99701; Phone: (907) 452-8251 ext. 3178; Fax: (907) 459-3953

Native Village of Teller (Mary's Igloo), Dolly Kugzruk, ICWA Worker, P.O. Box 546, Teller, AK 99778; Phone: (907) 642-2185; Fax: (907) 642-3000; Email: dkugzruk@kawerak.org

Kawerak, Inc. Children & Family Services, P.O. Box 948 Nome, Alaska 99762; Phone: (907)443-4261; Fax: (907) 443-4457

Native Village of Tetlin, Nettie Warbelow, Tribal Family Youth Specialist, P.O. Box 797, Tok, Alaska 99780; Phone: (907) 378-3608; Fax: (907) 883-1267; Email: nwarbelow@acsalaska.net

Legal Department, Tanana Chiefs Conference, 122 First Avenue, Suite 600, Fairbanks, AK 99701; Phone: (907) 452-8251 ext. 3178; Fax: (907) 459-3953

Tlingit & Haida Indian Tribes of Alaska (see Central Council Tlingit and Haida)

Traditional Village of Togiak, Emma Wassillie, ICWA Worker, P.O. Box 310, Togiak, AK 99678; Phone: (907) 493-5431; Fax: (907) 493-5734

Toksook Bay (see Nunakauyarmiut Tribe)

Tuluksak Native Community, Elizabeth S. Peter, ICWA Woker, P.O. Box 93, Tuluksak, AK 99679; Phone: (907) 695-6902; Fax: (907) 695-6903

Association of Village Council Presidents, Sarah Jenkins, ICWA Social Worker, P.O. Box 219 Bethel, Alaska 99559; Phone: (907) 543-7400; Fax: (907) 543-5759; Email: sjenkins@avcp.org; lalexie@avcp.org

Native Village of Tuntutuliak, Samantha White, ICWA Worker, P.O. Box 8086, Tuntutuliak, AK 99680; Phone: (907) 256-2311; Fax: (907) 256-2080; Email: swhite@avcp.org

Association of Village Council Presidents, Sarah Jenkins, ICWA Social Worker, P.O. Box 219 Bethel, Alaska 99559; Phone: (907) 543-7400; Fax: (907) 543-5759; Email: sjenkins@avcp.org

Native Village of Tununak, Theodore Angaiak, President, P.O. Box 77, Tununak, AK 99681-0077; Phone: (907) 652-6527; Fax: (907) 652-6011

Association of Village Council Presidents, Sarah Jenkins, ICWA Social Worker, P.O. Box 219 Bethel, Alaska 99559; Phone: (907) 543-7400; Fax: (907) 543-5759; Email: sjenkins@avcp.org

Twin Hills Village, John W. Sharp, Tribal President, P.O. Box TWA, Twin Hills, AK 99576; Phone: (907) 525-4821; Fax: (907) 525-4822; Email: william15@starband.net

Bristol Bay Native Association, Children's Services Program Manager, P.O. Box 310,1500 Kanakanak Road, Dillingham, AK 99576; Phone: (907) 842-4139; Fax: (907) 842-4106; Email: cnixon@bbna.com

The Native Village of Tyonek, Arthur Standifer, ICWA Worker and Julia Shanagin, Tribal Administrator, P.O. Box 82009, Tyonek, AK 99682; Phone: (907) 583-2209/2201; Fax: (907) 583-2209; Email: Arthur_s@tyonek.net; nvt_admin@tyonek.net

U

Ugashik Village, Chester Schneider, Tribal Manager, 206 E. Fireweed Lane, #204, Anchorage, AK 99503; Phone: (907) 338-7611; Fax: (907) 338-7659; Email: ugashikoffice4@alaska.net

Umkumiute Native Village, Bertha Kashatok, Secretary Council, P.O. Box 96062, Nightmute, AK 99690; Phone: (907) 647-6145; Fax: (907) 647-6146

Association of Village Council Presidents, Sarah Jenkins, ICWA Social Worker, P.O. Box 219 Bethel, Alaska 99559; Phone: (907) 543-7400; Fax: (907) 543-5759; Email: sjenkins@avcp.org

Native Village of Unalakleet, Danielle Holt, Tribal Family Coordinator, P.O. Box 270, Unalakleet, AK 99684

Kawerak, Inc. Children & Family Services, P.O. Box 948 Nome, AK 99762; Phone (907) 443-4261; Fax: (907) 443-4457

Unalaska (see Qawalangin Tribe of Unalaska)

Native Village of Unga, Grace Smith, Family Programs Coordinator, Aleutian/Pribilof Islands Association, Social Services, 1131 East International Airport Road, Anchorage, AK 99518-1408; Phone: (907) 276-2700; Fax: (907) 222-9735; Email: graces@apiai.org

Upper Kalskag, Native Village of (see Kalskag)

V

Village of Venetie, Larry Williams, Tribal Family Youth Specialist, P.O. Box 119, Venetie AK 99781; Phone: (907) 849-8212; Fax: (907) 849-8149

Legal Department, Tanana Chiefs Conference, 122 First Avenue, Suite 600, Fairbanks, AK 99701; Phone: (907) 452-8251 Ext. 3178; Fax: (907) 459-3953

W

Village of Wainwright, June Childress, President, P.O. Box 143, Wainwright, AK 99782; Phone: (907) 763-2535; Fax: (907) 763-2536; Email: wainwright@inupiatgov.com

Arctic Slope Native Association, Maude Hopson, ICWA Worker; P.O. Box 1232, Barrow, Alaska 99723 Phone: (907) 852-9374; Fax: (907) 852-2761; Email: maudehopson@arcticslope.org

Native Village of Wales, Anna M. Oxereok, Tribal Family Coordinator, P.O. Box 549, Wales, AK 99783; Phone: (907) 664-2185; Fax: (907) 664-2200/3062; Email: aoxereok@kawerak.org

Kawerak, Inc. Children & Family Services, P.O. Box 948 Nome, Alaska 99762; Phone: (907)443-4261; Fax: (907) 443-4457

Native Village of White Mountain, Danielle Holt, P.O. Box 85, White Mountain, AK 99784; Phone: (907) 638-2008; Fax: (907) 638-2009; Email: dholt@kawerak.org

Kawerak, Inc. Children & Family Services, P.O. Box 948 Nome, Alaska 99762; Phone: (907)443-4261; Fax: (907) 443-4457

Woody Island (see Lesnoi Village)

Wrangell Cooperative Association, Elizabeth Newman, Family Caseworker II, P.O. Box 1198, Wrangell, AK 99929; Phone: (907) 874-3482; Fax: (907) 874-2982; Email: bnewman@ccthita.org

Y

Yakutat Tlingit Tribe, Sheri Nelson, JOM/ICWA Director, P.O. Box 418, Yakutat, AK 99689; Phone: (907) 784-3124; Fax: (907) 784-3664; Email: snelson@ytttribe.org

Yupiit of Adnreafski, Gail Alstrom-Beans, President, P.O. Box 88 St. Mary's, AK 99658-0088; Phone: (907) 438-2312; Fax: (907) 438-2512.

2. Eastern Oklahoma Region

Charles L. Head, Acting Regional Director, P.O. Box 8002, Muskogee, OK 74402-8002; Telephone: (918) 781-4600; Fax (918) 781-4604.

Clarissa Cole, M.S.W., Regional Social Worker, P.O. Box 8002, 3100 West Peak Boulevard, Muskogee, OK 74402-8002; Phone: (918) 781-4613; Fax: (918) 781-4649

Michelle Deason, MSW, Regional Social Worker, P.O. Box 8002, 3100 West Peak Boulevard, Muskogee, OK 74402-8002; Phone: (918) 781-4613; Fax: (918) 781-4649

A

Alabama Quassarte Tribal Town, Annie Merritt, ICW Director, P.O. Box 187, Wetumka, OK 74883; Telephone: (405) 452-3881; Fax: (405) 452-3889; Email: chief@alabama-quassarte.org

C

Cherokee Nation, Linda Woodward, Director, Children and Family Services, P.O. Box 948, Tahlequah, OK 74465; Telephone: (918) 458-6900; Fax: (918) 458-6146; Email: lindawoodward@cherokee.org

The Chickasaw Nation, Bill Anoatubby, Governor, P.O. Box 1548, Ada, OK 74821-1548; Telephone: (580) 436-7216; Fax: (580) 436-4287; Email: jay.keel@chickasaw.net

Choctaw Nation of Oklahoma, Billy Stephens, Senior Director, P.O. Box 1210, Durant, OK 74701; Telephone: (580) 924-8280; Fax: (580) 920-3197; Email: bstephens@choctawnation.com

D

Delaware Tribe of Indians, Paula Pechonick, Chief 170 NE. Barbara Bartlesville, OK 74003; Phone: (918)336-5272; Fax: (918) 337-6591; Email: ppechonick@delawaretribe.org

E

Eastern Shawnee Tribe of Oklahoma, Jennifer Austin, Indian Child Welfare Specialist, 10100 S. Bluejacket Rd., Suite 2 Wyandotte, OK 74370; Telephone: (918) 666-7710 Ext: 1120; Fax: (918) 666-7716; Email: jaustin@estoo.net

K

Kialegee Tribal Town, Augusta Anderson, ICW Director, P.O. Box 332, Wetumka, OK 74883; Telephone: (405) 452-5388; Fax: (405) 452-3413

M

Miami Tribe of Oklahoma, Callie Lankford, Social Services Director, P.O. Box 1326, Miami, OK 74355; Telephone: (918) 541-1381; Fax: (918) 540-2814; Email: clankford@miamination.com

Modoc Tribe of Oklahoma, Regina Shelton, Child Protection, 625 6th SE., Miami, OK 74354; Telephone: (918) 542-7890; Fax: (918) 542-7878

Muscogee (Creek) Nation, George Tiger, Principal Chief, P.O. Box 580, Okmulgee, OK 74447; Telephone: (918) 732-7604; Fax: (918) 758-1434; Email: lspaulding@mekkotiger.com

O

Osage Nation, Ann Davis, Social Work Supervisor, 255 Senior Drive, Pawhuska, OK 74056; Telephone: (918) 287-5218; Fax: (918) 287-5231; Email: edavis@osagetribe.org

Ottawa Tribe of Oklahoma, Roy A. Ross, Social Services/CPS Director, P.O. Box 110, Miami, OK 74354; Telephone: (918) 540-1536; Fax: (918) 542-3214

P

Peoria Tribe of Indians of Oklahoma, Doug Journeycake, Indian Child Welfare Director, P.O. Box 1527, Miami, OK 74355; Telephone: (918) 540-2535; Fax: (918) 540-2538; Email: djourneycake@peoriatribe.com

Q

Quapaw Tribe of Oklahoma, John Berrey, Chairperson, P.O. Box 765, Quapaw, OK 74363; Telephone: (918) 542-1853

S

Seminole Nation of Oklahoma, Glenna VanZant, Acting Director of Indian Child Welfare, P.O. Box 1498, Wewoka, OK 74884; Telephone: (405) 257-7200; Fax: (405) 257-7209; Email: glenna_icw@se3minolenation.com.

Seneca-Cayuga Tribe of Oklahoma, Curtis Lawrence, Indian Child Welfare Case Worker, 23701 South 655 Road, Grove, OK 74344; Telephone: (918) 787-5452 Ext: 19; Fax: (918) 787-5521; Email: clawrence@sctribe.com

Shawnee Tribe, Jodi Hayes, Tribal Administrator, P.O. Box 189 Miami, Oklahoma 74355-0189; Telephone: (918) 542-2441; Fax: (918) 542-2922; Email: shawneetribe@shawnee-tribe.com

T

Thlopthlocco Tribal Town, Janet Wise, Manager, P.O. Box 188, Okemah, OK 74859; Telephone: (918) 560-6198; Fax: (918) 623-3023; Email: jwise@tttown.org

U

United Keetoowah Band of Cherokee Indians in Oklahoma, Joyce Fourkiller-Hawk, Tribal Secretary P.O. Box 746, Tahlequah, OK 74465; Telephone: (918) 431-1818; Fax: (918) 453-9345; Email: jfourkiller@unitedkeetoowahband.org

W

Wyandotte Nation, Kate Randall, Director of Family Services, 64700 E. Hwy 60, Wyandotte, OK 74370; Telephone: (918) 678-2297; Fax: (918) 678-3087; Email: krandall@wyandotte-nation.org

3. Eastern Region

Franklin Keel, Regional Director, 545 Marriott Drive, Suite 700, Nashville, TN 37214; Telephone: (615) 564-6700; Fax: (615) 564-6701

Gloria York, Regional Social Worker, 545 Marriott Drive, Suite 700, Nashville, TN 37214; Telephone: (615) 564-6740; Fax: (615) 564-6547; Email: Gloria.york@bia.gov

A

Aroostook Band of Micmac Indians, Tania M. Morey, ICWA Coordnator, 7 Northern Road, Presque Isle, Maine 04769; Telephone: (207) 764-1972; Fax: (207) 764-7667; Email: tmorey@micmac-nsn.gov

C

Catawba Indian Nation, Carla Hudson, ICWA Representative, 996 Avenue of Nations, Rock Hill, South Carolina 29730; Telephone: (803) 366-4792 Ext: 245; Fax: (803) 325-1242; Email: carla.hudson@catwbaindian.net

Cayuga Nation of New York, Anita Thompson, Assistant Administration, P.O. Box 803, Versailles, New York 14168; Telephone: (315) 568-0750; Fax: (315) 568-0752; Email: anita.thompson@cayuganation-nsn.gov

Chitimacha Tribe of Louisiana, Karen Matthews, MSW, LMSW, Social Services Director, P.O. Box 520, Charenton, Louisiana 70523; Telephone: (337) 923-7000; Fax: (337) 923-2475

Coushatta Tribe of Louisiana, Milton Hebert, MSW, CADC, CGAC, Social Service Director, 2003 CC Bel Road, Elton, Louisiana 70532; Telephone: (337) 584-1439; Fax: (337) 584-1473; Email: mhebert@coushattatribela.org

E

Eastern Band of Cherokee Indians, Barbara Jones, Program Manager, 508 Goose Creek Road, P.O. Box 507, Cherokee, North Carolina 28719; Telephone: (828) 497-6092; Fax: (828) 497-3322; Email: barbjone@nc-cherokee.com

H

Houlton Band of Maliseet Indians, Tiffany Randall, ICWA Director, 13-2 Clover Court, Houlton, Maine 04730; Telephone: (207) 694-0213; Fax: (207) 532-7287; Email: icwa.director@maliseets.com

J

Jena Band of Choctaw Indians, Mona Maxwell, Social Services Director, P.O. Box 14, Jena, Louisiana 71342; Telephone: (318) 992-0136; Cell: (318) 419-8432; Fax: (318) 992-4162

M

Mashantucket Pequot Tribal Nation, Valerie Burgess, Director Child Protective Services, 102 Muhshee Mahchaq, P.O. Box 3313 Mashantucket, Connecticut 06338; Telephone: (860) 396-2007; Fax: (860) 396-2144; Email: vburgess@mptn-nsn.gov

Mashpee Wampanoag Tribe, Yvonne Avant, Councilwoman & Human and Social Services Liaison, 483 Great Neck Road South Mashpee, MA 02649; Phone: (508) 419-6017 Ext: 1; Cell: (774) 238-8388; Fax: (508) 477-0508; Email: yavant@mwtribe.com

Miccosukee Tribe of Indians of Florida, J. Degaglia, Ph.D. N.C.C., L.M.H.C., Director Social Service Department, P.O. Box 440021, Miami, Florida 33144; Telephone: (305) 223-8380 Ext. 2267; Fax: (305) 223-1011; Email: jd@miccosukeetribe.com

Mississippi Band of Choctaw Indians, Kirsten L. Clegg, Child Welfare Supervisor, Department of Family & Community Services, Children & Family Services Program; P.O. Box 6050, Choctaw, Mississippi 39350; Telephone: (601) 650-1741; Fax: (601) 656-8817; Email: kclegg@choctaw.org

Mohegan Indian Tribe, Irene Miller, APRN, Director, Family Services, 5 Crow Hill Road, Uncasville, Connecticut 06382; Telephone: (860) 862-6236; Fax: (860) 862-6324

N

Narragansett Indian Tribe, Wenonah Harris, Director, Tribal Child and Family Services, 4375B South County Trail or P.O. Box 268, Charlestown, Rhode Island 02813; Telephone: (401) 364-1100 Ext: 233; Cell: (401) 862-8863; Fax: (401) 364-1104; Email: Wenonah@nithpo.com

O

Oneida Indian Nation, Kim Jacobs, Nation Clerk, Box 1 Vernon, New York 13476; Telephone: (315) 829-8337; Fax: (315) 829-8392; Email: kjacobs@oneida.nation.org

Onondaga Nation of New York, Council of Chiefs, P.O. Box 85, Nedrow, New York 13120; Telephone: (315) 469-9196; Fax: (315) 492-4822

P

Passamaquaddy Indian Township, Dolly Barnes, LCSW, Director Child and Family Services, P.O. Box 301, Princeton, Maine 04668; Telephone: (207) 796-6134; Fax: (207) 796-5606

Passamaquoddy Tribe-Pleasant Point, Molly Newell, Sipayik Human Services Director, P.O. Box 343 Perry, Maine 04667; Telephone: (207) 853-2600 Ext: 258; Fax: (207) 853-9618; Email: molly@wabanaki.com

Penobscot Indian Nation of Maine, Sonya LaCoute-Dana, Director of Social Services, P.O. Box 446, Old Town, Maine 04468; Telephone: (207) 817-3164; Fax: (207) 817-3166; Email: Sonya.lacoute-dana@penobscotnation.org

Poarch Band of Creek Indians, Michealine Deese, Family Services Coordinator, 5811 Jack Springs Road, Atmore, Alabama 36502; Telephone: (251) 368-9136 Ext. 2600; Fax: (251) 368-0828; Email: mdeese@pci-nsn.gov

S

Saint Regis Mohawk Tribe, Clarissa Chatland, ICWA Program Coordinator, 412 State, Route 37, Akwesasne, New York 13655; Telephone: (518) 358-4516; Fax: (518) 358-9258; Email: clarissa.terrance-chatland@SRMT-nsn.gov

Seminole Tribe of Florida, Kristi Hill, Family Preservation Administrator, 3006 Josie Billie Avenue, Hollywood, Florida 33024; Telephone: (954) 965-1314; Fax: (954) 965-1304; Email: kristihill@semtribe.com

Seneca Nation of Indians, Tracy Pacini, Child and Family Services Program Coordinator, 987 RC Hoag Drive or P.O. Box 500, Salamanca, New York 14779; Telephone: (716) 945-5894; Fax: (716) 945-7881; Email: tracy.pacini@senecahealth.org

T

Tonawanda Band of Seneca, Roger Hill, Chief, Council of Chiefs, 7027 Meadville Road, Basom, New York 14013; Telephone: (716) 542-4244; Fax: (716) 542-4008

Tunica Biloxi Indian Tribe of Louisiana, Betty Pierite Logan, Registered Social Worker, P.O. Box 493, Marksville, Louisiana 71351; Telephone: (318) 240-6442; Fax: (318) 253-9791; Email: blogan@tunica.org

Tuscarora Nation of New York, Chief Leo Henry, Clerk, 206 Mount Hope Road, Lewistown, New York 14092; Telephone: (716) 297-1148; Fax: (716) 297-7355

W

Wampanoag Tribe of Gay Head (Aquinnah), Bonnie Chalifoux, Director Human Services, 20 Black Brook Road, Aquinnah, Massachusetts 02535; Telephone: (508) 645-9265 Ext. 133; Fax: (508) 645-2755; Email: bonnie@wampanoagtribe.net

4. Great Plains Region

Bruce Loudermilk, Acting Regional Director, 115 4th Avenue, SE., Aberdeen, SD 57401; Telephone: (605) 226-7351; Fax: (605) 226-7643

Randeen Fitzpatrick, Regional Social Worker, 115 4th Avenue, SE., Aberdeen, SD 57401; Telephone: (605) 226-7351; Fax: (605) 226-7643

C

Cheyenne River Sioux Tribe, Ms. Diane Garreau, Indian Child Welfare Act Program Director, P.O. Box 590, Eagle Butte, SD 57625; Telephone: (605) 964-6460; Fax: (605) 964-6463

Crow Creek Sioux Tribe, Dave Valandra, ICWA Specialist, Crow Creek Sioux Tribe, P.O. Box 50, Fort Thompson, SD 57339; Telephone: (605) 245-2322; Fax: (605) 245-2844; Email: david.valandra@bia.gov

F

Flandreau Santee Sioux Tribe-Dakota, Celeste Honomichl, ICWA Adminstrator, Flandreau Santee Sioux Tribal Social Services, P.O. Box 283, Flandreau, SD 57028; Telephone: (605) 997-5055; Fax: (605) 997-3694

L

Lower Brule Sioux Tribe, L. Greg Miller, LBST Counseling Service Director, 187 Oyate Circle, Lower Brule, SD 57528; Telephone: (605) 473-5584; Fax: (605) 473-8051; Email: greg.miller@lbst.org

O

Oglala Sioux Tribe, Juanita Sherick, Director ONTRAC, P.O. Box 2080 Pine Ridge, SD 57752; Telephone: (605) 867-5805; Fax: (605) 867-1893; Email: ontrac@qwtc.net

Omaha Tribe of Nebraska, Gwen Vargas Porter, ICWA Specialist, P.O. Box 500, Macy, NE 68039; Telephone: (402) 837-5261; Fax: (402) 837-5363; Email: gporter@omahatribe.com or gwen.porter@nebraska.gov

P

Ponca Tribe of Nebraska, Jill Holt, ICWA Specialist, 2602 J Street Omaha, NE 68107; Telephone: (402) 734-5275; Fax: (402) 734-5708

R

Rosebud Sioux Tribe, Shirley J. Bad Wound, ICWA Specialist, Rosebud Sioux Tribe ICWA Program, P.O. Box 609 Mission, SD 57555; Telephone: (605) 856-5270; Fax: (605) 856-5268

S

Santee Sioux Nation, Clarissa LaPlante, ICWA Specialist, Dakota Tiwahe Service Unit, Route 2, Box 5191, Niobrara, NE 68760; Telephone: (402) 857-2342; Fax: (402) 857-2361; Email: clarissa.laplante@nebraska.gov

Sisseton-Wahpeton Oyate, Evelyn Pilcher, ICWA Specialist, P.O. Box 509 Agency Village, SD 57262; Telephone: (605) 698-3992; Fax: (605) 698-3999; Email: evelyn.pilcher@state.sd.us

Spirit Lake Tribe, Jani Adams, ICWA Director, P.O. Box 356, Fort Totten, ND 58335; Telephone: (701) 766-4855; Fax: (701) 766-4273; Email: icwadirector@spiritlakenation.com

Standing Rock Sioux Tribe, Terrance Yellow Fat, Director, Indian Child Welfare Progam, P.O. Box 770 Fort Yates, ND 58538; Telephone: (701) 854-3095; Fax: (701) 854-5575; Email: tyellowfat@standingrock.org

T

Three Affiliated Tribes (Mandan, Arikara & Hidatsa), Katherine Felix, ICWA Specialist, 404 Frontage Road, New Town, ND 58763; Telephone: (701) 627-4781; Fax: (701) 627-5550; Email: kfelix@mhanation.com

Turtle Mountain Band of Chippewa Indians, Marilyn Poitra, Indian Child Welfare Specialist, Child Welfare and Family Services, P.O. Box 900 Belcourt, ND 58316; Telephone: (701) 477-5688; Fax: (701) 477-5797; Email: marilynp@tmcwfs.net

W

Winnebago Tribe of Nebraska, Barbara Eagle, ICWA Specialist, #1 Mission Drive Box 723, Winnebago, NE 68071; Telephone: (402) 878-2378; Fax: (402) 878-2228; Email: bagagle@winnebagotribe.com

Y

Yankton Sioux Tribe, Raymond Cournoyer, ICWA Director, P.O. Box 1153 Wagner, SD 57380; Telephone: (605) 384-5712; Fax: (605) 384-5014

5. Midwest Region

Diane Rosen, Regional Director, One Federal Drive, Room 550, Fort Snelling, MN 55111 4007; Telephone: (612) 725-4502; Fax: (612) 713-4401

Valerie Vasquez, Regional Social Worker, One Federal Drive, Room 550, Fort Snelling, MN 55111-4007; Telephone: (612) 725-4571; Fax: (612) 713-4439

B

Bad River Band of Lake Superior Chippewa, Esie Leoso-Corbine, ICWA Director P.O. Box 55, Odanah, WI 54861; Telephone: (715) 682-7135 Ext: 1414; Fax: (715) 685-7888; Email: bricw@badriver-nsn.gov

Bay Mills Indian Community, Phyllis Kinney, Tribal Court Administrator, 12140 W. Lakeshore Dr. Brimley, MI 49715; Phone: (906) 248-3241; Fax: (906) 248-5817; Email: phyllisk@baymills.org

Bois Fort Band, Angela Wright, Indian Child Welfare Supervisor, 13071 Nett Lake Road Suite A, Nett Lake, MN 55771; Telephone: (218) 757-3476 or (218) 757-3916; Fax: (218) 757-3335; Email: amwright@boisforte.nsn.gov

F

Fond du Lac Reservation Business Committee, Karen Diver, Chairwoman, 1720 Big Lake Road, Cloquet, MN 55720; Telephone: (218) 879-4593; Fax: (218) 878-2189; Email: karendiver@fdlrez.com

Forest County Potawatomi Community of Wisconsin, Vickie Lynn Valenti, ICWA Department Supervisor, 5415 Everybody's Road, Crandon, WI 54520; Telephone: (715) 478-4812; Fax: (715) 478-7442; Email: Vickie.valenti@fcpotawatomi-nsn.gov

G

Grand Portage Reservation Patti Foley, Social Worker, P.O. Box 428, Grand Portage, MN 55605; Telephone: (218) 475-2169; Fax: (218) 475-2455; Email: pfoley@grandportage.com

Grand Traverse Band of Ottawa and Chippewa Indians, Helen Cook, Anishinaabek Family Services Supervisor, 2605 N. West Bayshore Drive, Peshawbestown, MI 49682-9275; Telephone: (231) 534-7681; Fax: (231) 534-7706; Email: helen.cook@gtbindians.com

H

Hannahville Indian Community of Michigan, Jessica White, ICWA Worker, N15019 Hannahville B1 Road, Wilson, MI 49896; Telephone: (906) 723-2514; Fax: (906) 466-7397; Email: Jessica.white@hichealth.org

The Ho-Chunk Nation, Valerie Blackdeer, ICWA Coordinator, P.O. Box 40, Black River Falls, WI 54615; Telephone: (715) 284-9851; Fax: (715) 284-0097; Email: Valerie.blackdeer@ho-chunk.com

Nottawaseppi Huron Band of the Potawatomi, Meg Fairchild, LMSW, CAAC, Clinical Social Worker, 1474 Mno Bmadzewen Way, Fulton, MI 49052; Telephone: (269) 729-4422; Fax: (269) 729-4460; Email: socialwpc@nhbp.org

K

Keweenaw Bay Indian Community, Judy Heath, Director Social Service, 16429 Beartown Road, Baraga, MI 49908; Telephone: (906) 353-4201; Fax: (906) 353-8171; Email: judy@kbic-nsn.gov

L

Lac Courte Oreilles, LuAnn Kolumbus, Tribal Social Services Director, 13394 W. Trepania Road, Hayward, WI 54843; Telephone: (715) 634-8934; Fax: (715) 634-2981

Lac du Flambeau, Kristin Allen, ICW Director, P.O. Box 189, Lac du Flambeau, WI 54538; Telephone: (715) 588-1511; Fax: (715) 588-3903; Email: kallen@nnex.net

Lac Vieux Desert, Dee Dee McGeshick, Social Services Director, P.O. Box 249, Watersmeet, MI 49969; Telephone: (906) 358-4577; Fax: (906) 358-4785; Email: dee.mcgeshick@lvdtribal.com

Leech Lake Band of Ojibwe, Tamie Finn, Child Welfare Director, 115 Sixth Street NW., Suite E, Cass Lake, MN 56633; Telephone: (218) 335-8240; Fax: (218) 335-3779; Email: tamie.finn@llojibwe.com

Little River Band of Ottawa Indians, Eugene Zeller, Tribal Prosecutor, 3031 Domres Road, Manistee, MI 49660; Telephone: (213) 398-3384; Fax: (231) 398-3387; Email: gzeller@lrboi.com

Little Traverse Bay Bands, Denneen Smith, Human Services Director, 7500 Odawa Circle, Harbor Springs, MI 49740; Telephone: (231) 242-1620; Fax: (213) 242-1635

Lower Sioux, Linette Tellinghuisen, ICWA Advocate, 39527 Reservation Highway 1, Morton, MN 56270; Telephone: (507) 697-9108; Fax: (507) 697-9111; Email: ltellinghuisen@lowersioux.com

M

Match-E-Be-Nash-She-Wish Band of Potawatomi Indians of Michigan (Gun Lake Tribe), Leslie Pigeon, Behavior Health/Human Services Coordinator, P.O. Box 306, Dorr, MI 49323; Telephone: (616) 681-0360 ext: 316; Fax: (616) 681-0380

Menominee Indian Tribe of Wisconsin, Mary Husby, Director of Social Services, P.O. Box 910 Keshena, WI 54135; Telephone: (715) 799-5161; Fax: (715) 799-6061; Email: mhusby@mitw.org

Mille Lacs Band of Ojibwe, Ryan Champagne, Director of Family Services, MilleLacs Band Government Center, 43408 Oodena Drive, Onamia, MN 56359; Telephone: (320) 532-7776 Ext: 7762; Fax: (320) 532-7583; Email: ryan.champagne@millelacsband.com

Minnesota Chippewa Tribe, Linda Johnston, Human Services Director, P.O. Box 217, Cass Lake, MN 56633; Telephone: (218) 335-8585; Fax: (218) 335-8080; Email: ljohnston@mnchippewatribe.org

O

Oneida Tribe of Indians of Wisconsin, Rhonda Tousey, Assistant Director, Children and Family Services, P.O. Box 365, Oneida, WI 54155; Telephone: (920) 490-3724; Fax: (920) 490-3820; Email: rtousey@oneidanation.org

P

Pokagon Band of Potawatomi Indians, Mark Pompey, Social Services Director, 58620 Sink Road, Dowagiac, MI 49047; Telephone: (269) 782-8998; Fax: (269) 782-4295; Email: mark.pompey@pokagonband-nsn.gov

Prairie Island Indian Community Mdewakanton Dakota Sioux of Minnesota, Nancy Anderson, Family Service Manager, 5636 Sturgeon Lake Road, Welch, MN 55089; Telephone: (651) 385-4185; Fax: (651) 385-4183; Email: nanderson@piic.org

R

Red Cliff Band of Lake Superior Chippewa, Susan Crazy Thunder, Indian Child Welfare Department Director, 88385 Pike Road, Highway 13, Bayfield, WI 54814; Telephone: (715) 779-3747; Fax: (715) 779-3783; Email: susie.crazythunder@redcliff-nsn.gov

Red Lake Band of Chippewa Indians, Sheila Stately, ICWA Advocate, Box 427 Red Lake, MN 56671; Telephone: (218) 679-2122; Fax: (218) 679-2929

S

Sac & Fox Tribe of the Mississippi in Iowa—Meskwaki, Allison W. Lasley, ICWA Consultant/Coordinator, P.O. Box 245, 349 Meskwaki Road, Tama, IA 52339; Telephone: (641) 484-4444 Fax: (641) 484-2103; Email: icwaconsult.mfs@meskwaki-nsn.gov

Saginaw Chippewa Indians of MI, Kimberly Crampton, Director, 7070 East Broadway, Mt. Pleasant, MI 48858; Telephone: (989) 775-4909; Fax: (989) 775-4912; Email: kcrampton@sagchip.org

Sault Ste. Marie Tribe of Chippewa Indians, Juanita Bye, ACFS Division Director, 2218 Shunk Rd., Sault Ste. Marie, MI 49783; Telephone: (906) 632-5250; Fax: (906) 632-5266; Email: jbye@saulttribe.net

Shakopee Mdewakanton Sioux Community, Karen Ross-ICWA Representative, 2330 Sioux Trail NW., Prior Lake, MN 55372; Telephone: (952) 445-8900 or (952) 496-6112; Fax: (952) 445-8906

Sokaogon Chippewa Community of Wisconsin, Angela Ring, ICWA Director, 10808 Sokaogon Drive, Crandon, WI 54520; Telephone: (715) 478-2520; Fax: (715) 478-7623; Email: angelaring@sokaogonchippewa.com

St. Croix Chippewa Indians of Wisconsin, Donna Churchhill, Director, 24663 Angeline Avenue, Webster, WI 54893; Telephone: (715) 349-2195; Fax: (715) 349-8665; Email: donnac@stcroixtribalcenter.com

Stockbridge Munsee Community, Stephanie Bowman, ICWA Manager, Stockbridge Munsee Health and Wellness Center, W12802 County A, Bowler, WI 54416; Telephone: (715) 793-4580; Fax: (715) 793-1312; Email: Stephanie.bowman@mohican.com

U

Upper Sioux Community of Minnesota, Tanya Ross, ICWA Manager, P.O. Box 147, 5744 Hwy. 67 East, Granite Falls, MN 56241; Telephone: (320) 564-6315; Fax: (320) 564-2550; Email: tanya@uppersiouxcommunity-nsn.gov

W

White Earth Reservation Business Committee, Jeri Jasken, ICWA Coordinator, P.O. Box 358, White Earth, MN 56591; Telephone: (218) 983-4647; Fax: (218) 983-3712; Email: jeri@whiteearth.com

6. Navajo Region

Omar Bradley, Regional Director, Navajo Regional Office, P.O. Box 1060, Gallup, NM 87305; Telephone: (505) 863-8314; Fax: (505) 863-8324.

Navajo Nation, Regina Yazzie, M.S.W., Director, Navajo Children and Family Services (ICWA), P.O. Box 1930, Window Rock, Arizona 86515; Telephone: (928) 871-6806; Fax: (928) 871-7667; Email: reginayazzie@nndss.org

7. Northwest Region

Stanley Speaks, Regional Director, 911 NE 11th Avenue, Portland, OR 97232; Telephone: (503) 231-6702; Fax: (503) 231-2201

Stella Charles, Regional Social Worker, 911 NE 11th Avenue, Portland, OR 97232; Telephone: (503) 231-6785; Fax: (503) 231-2182

B

Burns Paiute Tribe, Mazie Goggles, ICWA Coordinator, 100 Pasigo Street, Burns, OR 97720; Telephone: (541) 573-7312 Ext: 228; Fax: (541) 573-1542; Email: GooglesMG@burnspaiute-nsn.gov

C

Confederated Tribes of the Chehalis Reservation, Tracy Bray, Family Services Director, 420 Howanut Road, Oakville, WA 98568; Telephone: (360) 709-1871; Fax: (360) 273-5207; Email: tbray@chehalistribe.org

Colville Business Council, Lou Stone, ICWA, P.O. Box 150, Nespelem, WA 99155-011; Telephone: (509) 634-2774; Fax: (509) 634-2663

Coeur d'Alene Tribal Council, Leona Flowers, Social Worker Lead, Box 408 Plummer, ID 83851; Telephone: (208) 686-8106; Fax: (208) 686-4410; Email: lflowers@cdatribe-nsn.gov

Confederated Salish & Kootenai Tribes, Lena Young Running Crane, ICWA Specialist, Box 278, Pablo, MT. 59855; Telephone: (406) 675-2700 X 1234; Fax: (406) 275-2883

Confederated Tribes of Coos, Lower Umpqua, & Siuslaw Indians, Roni Jackson, Family Case Worker/ICWA Specialist, 1245 Fulton Avenue, Coos Bay, OR 97420; Telephone: (541) 888-9577; Fax: (541) 888-1027; Email: rjackson@ctclusi.org

Confederated Tribes of the Grande Ronde Community of Oregon, Dana Ainam, ICWA Contact, 9615 Grand Ronde Road, Grand Ronde, OR 97347-0038; Telephone: (503) 879-2034; Fax: (503) 879-2142

Confederated Tribes of the Umatilla Indian Reservation, M. Brent Leonhard, Deputy Attorney General, 46411 Timine Way, Pendleton, OR 97801; Telephone/Fax: (541) 429-7406; Email: brentleonhard@ctuir.org

Coquille Indian Tribe, Bridgett Wheeler, ICWA Worker, 3050 Tremont St., North Bend, OR 97459; Telephone: (541) 888-9494; Fax: (541) 888-6701; Email: bridgett@uci.net

Cow Creek Band of Umpqua Tribe of Indians, Rhonda Malone, Human Services Director, 2371 NE Stephens Road, Roseburg, OR 97470; Telephone: (541) 672-9405; Fax: (541) 677-5576; Email: rmalone@cowcreek.com

Cowlitz Indian Tribe, Carolee Morris, ICWA Director, P.O. Box 2547, Longview, WA 98632-8594; Telephone: (360) 577-8140; Fax: (360) 577-7432

H

Hoh Indian Tribe, Annette Penn, ICW, P.O. Box 2196, Forks, WA 98331; Telephone: (360) 374-5022; Fax: (360) 374-5039; Email: milab@hohtribe-nsn.org

J

Jamestown Skallam Tribal Council, Liz Mueller, ICWA Specialist, 1033 Old Blyn Hwy, Sequim, WA 98382; Telephone: (360) 681-4639; Fax: (360) 681-3402

K

Kalispel Tribe of Indians, Wendy L. Thomas, MSW, Support Services Director, 934 S. Gargeld Rd., Airway Heights, WA 99001; Telephone: (509) 789-7634/Cell (509) 671-6972; Fax: (509) 789-7659; Email: wthomas@camashealth.com

The Klamath Tribes, Jim Collins, ICWA Specialist, P.O. Box 436 Chiloquin, OR 97624; Telephone: (541) 783-2219 Ext: 137; Fax: (541) 783-7783; Email: jim.collins@klamathtribes.com

Kootenai Tribal Council, Velma Bahe, ICWA Contact, P.O. Box 1269, Bonners Ferry, ID 83805-1269; Telephone: (208) 267-8451

L

Lower Elwha Tribal Community Council, Patricia Elofson, ICWA Contact, 2851 Lower Elwha Road, Port Angeles, WA 98363-9518; Telephone: (360) 452-8471; Fax: (360) 457-8429

Lummi Nation, Amy Finkbonner, Lummi Children's Services Manager, P.O. Box 1024 Ferndale, WA 98248; Telephone: (360) 384-2324; Fax: (360) 380-2157; Email: amyf@lummi-nsn.gov

M

Makah Indian Tribal Council, Robin Denney, Social Service Manager or Sandy Soeneke, ICW Caseworker, P.O. Box 115, Neah Bay, WA 98357, Telephone: (360) 645-3251/3257; Fax: (360) 645-2806

Metlakatla Indian Community, Metlakatla Indian Community (Annette Island Reserve), Cate Calvert Arriola, MSW, Social Services Director, P.O. Box 8, Metlakatla, AK 99926; Phone: (907) 886-6916; Fax: (907) 886-6913; Email: cate@metlakatla.com

Muckleshoot Indian Tribe, Sharon Hamilton, Human Services Division Director, 39015 172nd Avenue SE, Auburn, WA 98092; Telephone: (253) 876-3155; Fax: (253) 876-2855; Email: sharon.curley@muckleshoot.nsn.us

N

Nez Perce Tribe, Janet Bennett, ICWA Caseworker, P.O. Box 365,

Lapwai, ID 83540; Telephone: (208) 843-7302; Fax: (208) 843-9401

Nisqually Indian Community, Raymond Howell, ICWA Contact, 4820 She-Nah-Num Drive, SE., Olympia, WA 98513; Telephone: (360) 456-5221; Fax: (360) 407-0017

Nooksack Indian Tribe of Washington, Bernadine Roberts, ICW Program Manager 5061 Deming Road, Deming, WA 98244; Telephone: (360) 306-5090; Fax: (360) 306-5099; Email: broberts@nooksack-nsn.gov

Northwestern Band of Shoshoni Nation, Lawrence Honena, ICWA Contact, 427 North Main, Suite 101, Pocatello, ID 83204; Telephone: (208) 478-5712; Fax: (208) 478-5713

P

Port Gamble S'Klallam, David Delmendo, ICWA Program Manager, 31912 Little Boston Road NE., Kingston, WA 98346; Telephone: (360) 297-9672; Fax: (360) 297-9666; Email: davidd@pgst.nsn.us

Puyallup Tribe, Sandra Cooper, ICWA Liason, 3009 E. Portland Avenue Tacoma, WA 98404; Telephone: (253) 405-7544; Fax: (253) 680-5998

Q

Quileute Tribe, Tracy Kelley-Rios, ICW Case Manager, P.O. Box 279 LaPush, WA 98350; Telephone: (360) 374-4340; Fax: (360) 374-7796; Email: Tracy.kelley@quileutenation.org

Quinault Indian Nation Business Committee, William (Bill) Lay, Quinault Family Srvices Supervisor, P.O. Box 189, Taholah, WA 98587; Telephone: (360) 276-8215 Ext. 355; Fax: (360) 267-4152; Email: wlay@quinault.org

S

Samish Indian Nation, Robert Ludgate, Samish Nation Social Services, Family Services Specialist, P.O. Box 217, Anacortes, WA 98221; Telephone: (360) 899-5282; Fax: (360) 299-4357; Email: rludgate@samishtribe.nsn.us

Sauk-Suiattle Indian Tribe, Raju A.T. Dahlstrom, MSW, Program Administrator Indian Child Welfare, 5318 Chief Brown Lane, Darrington, WA 98241; Telephone: (425) 760-0306; Fax: (360) 436-0242; Email: rdahlstrom@sauk-suiattle.com

Shoalwater Bay Tribal Council, Katherine Horne, ICWA Contact, P.O. Box 130, Tokeland, WA 98590; Telephone: (360) 267-6766 Ext. 3100; Fax: (360) 267-0247

Shoshone Bannock Tribes, Terry Racehorse, Tribal Enrollment Director, P.O. Box 306 Ft. Hall, ID 83203; Telephone: (208) 478-3748; Fax: (208) 478-3839; Email: tracehorse@sbtribes.com

Confederated Tribes of Siletz Indians, Cathern Tufts, Staff Attorney, P.O. Box 549, Siletz, OR 97380; Telephone: (541) 444-8211; Fax: (541) 444-2307; Email: cathernt@ctsi.nsn.us

Skokomish Tribal Council, Renee Guy or Kim Thomas, ICWA Contact, N. 80 Tribal Center Road, Shelton, WA 98584-9748; Telephone: (360) 426-7788; Fax: (360) 462-0082

Snoqualmie Tribe, Marie Ramirez, MSW, ICWA Contact, P.O. Box 280, Carnation, WA 98014; Telephone: (425) 333-5425; Fax: (425) 333-5428

Spokane Tribe of Indians, Tawhnee Colvin, Program Manager/Case Manager, P.O. Box 540, Wellpinit, WA 99040; Telephone: (509) 258-7502; Fax: (509) 258-7029; Email: tawhneec@spokanetribe.com

Squaxin Island Tribe, Donald Whitener, Tribal Administrator, 10 SE Squaxin Lane, Shelton, WA 98584-9200; Telephone: (360) 432-3900; Fax: (360) 426-6577; Email: dwhitener@squaxin.us

Stillaguamish Tribe of Indians, Gloria Green, ICW Director, P.O. Box 3782 or 17014 59th Ave NE., Arlington, WA 98223; Telephone: (360) 435-3985 Ext. 21; Fax: (360) 435-2867

Suquamish Indian Tribe of the Port Madison Reservation, Dennis Deaton, ICWA Contact, P.O. Box 498, Suquamish, WA 98392; Telephone: (360) 394-8478; Fax: (360) 697-6774

Swinomish Indians, Tracy Parker, Swinomish Family Services Coordinator, 17337 Resevation Rd., LaConner, WA 98257; Telephone: (360) 466-7222; Fax: (360) 466-1632; Email: tparker@swinomish.nsn.us

T

Tulalip Tribe, Elishia Stewart, ICWA Contact, 6700 Totem Beach Road, Marysville, WA 98271; Telephone: (360) 651-3284; Fax: (360) 651-4742

U

Upper Skagit Indian Tribe, Felice Keegahn, Indian Child Welfare Coordinator, 25959 Community Plaza Way, Sedro Woolley, WA 98284; Telephone: (360) 854-7077; Fax: (360) 854-7125; Email: felicek@upperskagit.com

W

Warm Springs Tribal Court, Confederated Tribes of Warm Springs Reservation, Chief Judge Lola Sohappy, ICWA Contact, P.O. Box 850, Warm Springs, OR 97761; Telephone: (541) 553-3454; Fax: (541) 553-3281

Y

Confederated Tribes and Bands of the Yakama Nation, David Lees, Esq., Chief Prosecutor, P.O. Box 1119, Toppenish, WA 98948; Telephone: (509) 865-5121 Ext: 4558; Fax: (509) 865-7078; Email: lees@yakama.com

8. Pacific Region

Dale Morris, Regional Director, BIA, Federal Building, 2800 Cottage Way, Sacramento, CA 95825; Telephone: (916) 978-6000; Fax: (916) 978-6055

Kevin Sanders, Regional Social Worker, BIA-Federal Building, 2800 Cottage Way, Sacramento, CA 95825; Telephone: (916) 978-6048; Fax: (916) 978-6055

A

Agua Caliente Band of Cahuilla Indians, Michelle A. Carr, Esq., Attorney, 5401 Dinah Shore Drive Palm Springs, CA 92264; Telephone: (760) 669-6862; Fax: (760) 699-6863; Email: mcarr@aguacaliente.net

Alturas Rancheria, Chairperson, 900 Running Bear Rd., Yreka, CA 96097; Telephone: (530) 949-9877

Auburn Rancheria, Attn: Vevila Hussey, United Auburn Indian Community, 935 Indian Rancheria Road, Auburn, CA 95603; Telephone: (916) 251-1550; Fax: (530) 887-1028

Augustine Band of Cahuilla Indians, Mary Ann Green, Chairperson, P.O. Box 846, Coachella, CA 92236; Telephone: (760) 398-4722

B

Barona Band of Mission Indians, Charity White-Voth, Kumeyaay Family Services Director, Southern Indian Health Council, Inc., 4058 Willow Rd., Alpine, CA 91903; Telephone: (619) 445-1188; Fax: (619) 445-0765

Bear River Band of Rohnerville Rancheria, Karen Cahill, Social Services Director, 27 Bear River Drive, Loleta, CA 95551; Telephone: (707) 773-1900 Ext: 290; Fax: (707) 733-1972; Email: kcahill@bearrivertribe.com

Berry Creek Rancheria (See Tyme Maidu Tribe)

Big Lagoon Rancheria, Chairperson, P.O. Box 3060, Trinidad, CA 95570; Telephone: (707) 826-2079; Fax: (707) 826-0495

Big Pine Paiute Tribe, Rita Mendoza, Tribal Court Clerk/ICWA Representative, P.O. Box 700 or 825 S. Main Street, Big Pine, CA 93513; Telephone: (760) 938-2003; Fax: (760) 938-2942; Email: r.mendoza@bigpinepaiute.org

Big Sandy Rancheria, Dorothy Barton, MSW, ICWA/Social Services Coordinator, P.O. Box 337, Auberry, CA 93602; Telephone: (559) 855-4003 Ext: 215; Fax: (559) 855-4129; Email: dbarton@bsrnation.com

Big Valley Rancheria, ICWA, 2726 Mission Rancheria Road, Lakeport, CA 95453; Telephone: (707) 263-3924; Fax: (707) 263-3977; Email: resparza@big-valley.net

Bishop Paiute Tribe, Margaret L. Romero, ICWA Specialist; 50 TuSu Lane, Bishop, CA 93514; Telephone: (760) 873-3584; Fax: (760) 873-4143; Email: margaret.romero@bishoppaiute.org

Blue Lake Rancheria, Bonnie Mobbs, Exec Assistant, P.O. Box 428, Blue Lake, CA 95525; Telephone: (707) 668-5101; Fax: (707) 668-4272; Email: info@bluelakerancheria-nsn.gov

Bridgeport Indian Colony, Ron Eagleye Johnny, Tribal Administrator, P.O. Box 37 or 355 Sage Brush Drive, Bridgeport, CA 93517; Telephone: (760) 932-7083; Fax: (760) 932-7846; Email: admin@bridgeportindiancolony.com

Buena Vista Rancheria of Me-Wuk Indians, Penny Arciniaga, Tribal Member Services, 1418 20th Street, Suite 200, Sacramento, CA 95811; Telephone: (916) 491-0011; Fax: (916) 491-0012; Email: penny@buenavistatribe.com

C

Cabazon Band of Mission Indians, Chairman, 84-245 Indio Springs Drive, Indio, CA 92201; Telephone: (760) 342-2593; Fax: (760) 347-7880

California Valley Miwok Tribe, as of date, there is no recognized government for this federally recognized tribe.

Cahuilla Band of Mission Indians, Executive Director, Indian Child & Family Services, P.O. Box 2269, Temecula, CA 92590; Telephone: (951) 676-8832; Fax: (951) 676-3950

Campo Band of Mission Indians, Charity White-Voth, Kumeyaay Family Services Director, Southern Indian Health Council, Inc., 4058 Willow Rd., Alpine, CA 91903; Telephone: (619) 445-1188; Fax: (619) 445-0765

Cedarville Rancheria, Duanna Knighton, Tribal Administrator, 300 West First Street, Alturas, CA 96101; Telephone: (530) 233-3969; Fax: (530) 233-4776; Email: cedranch@citlink.net

Cher-Ae Heights Indian Community of the Trinidad Rancheria, Amy Atkins, Executive Manager, P.O. Box 630, Trinidad, CA 95570; Telephone: (707) 677-0211; Fax: (707) 677-3921; Email: aatkins@trinidadrancheria.com

Chicken Ranch Rancheria, Jan Costa, Tribal Administrator, P.O. Box 1159, Jamestown, CA 95327; Telephone: (209) 984-4806; Fax: (209) 984-5606; Email: chixrnch@mlode.com

Cloverdale Rancheria of Pomo Indians, Marcellena Becerra, ICWA Advocate, 555 S. Cloverdale Blvd., Cloverdale, CA 95425; Telephone: (707) 894-5775; Cell: (707) 953-9954; Fax: (707) 894-5727

Cold Springs Rancheria, Terri Works, ICWA Director, 32861 Sycamore Rd., Suite #300, Tollhouse, CA 93667; Telephone: (559) 855-5043/(559) 855-8360; Fax: (559) 855-4445; Email: csrancheriaterri@netptc.net

Colusa Indian Community Council, Daniel Gomez Sr., Chairman, 3730 Highway 45 Colusa, CA 95932; Telephone: (530) 458-8231; Fax: (530) 458-4186; Email: dgomez@colusa-nsn.gov

Cortina Band of Wintun Indians (Cortina Indian Rancheria), Charlie Wright, Tribal Chairman, P.O. Box 1630 Williams, CA 95987; Telephone: (530) 473-3274, Fax: (530) 473-3301

Coyote Valley Band of Pomo Indians, Melinda Hunter, Health and Human Services Director, 7601 N. State Street or P.O. Box 39, Redwood Valley, CA 95470; Telephone: (707) 472-2202; Fax: (707) 485-1416; Email: tribalcouncilmember@coyotevalleytribe.com

Cuyapaipe Ewiiaapaayp Band of Kumeyaay Indians (See Ewiiaapaayp Band of Kumeyaay Indians

D

Dry Creek Rancheria Band of Pomo Indians, Percy Tejada, ICWA Advocate, P.O. Box 607 Geyserville, CA 95441; Telephone: (707) 522-4248; Fax: (707) 522-4287; Email: percyt@drycreekrancheria.com

E

Elem Indian Colony, Nathan M. Brown II, Chairman, P.O. Box 757 Clearlake Oaks, CA 95423; Telephone: (707) 295-6131; Fax: (707) 263-0120; Email: nathanmbrown@hughes.net

Elk Valley Rancheria, Chairperson, 2332 Howland Hill Rd., Crescent City, CA 95531; Telephone: (707) 464-4680; Fax: (707) 465-2638; Email: evrlibrary@elk-valley.com

Enterprise Rancheria, Shari Ghalayini, ICWA Representative, 2133 Monte Vista Ave., Oroville, CA 95966; Telephone: (530) 532-9214; Fax: (530) 532-1768; Email: sharig@enterpriserancheria.org

Ewiiaapaayp Band of Kumeyaay Indians, Will Micklin, CEO, 4050 Willow Road. Alpine, CA 91901; Telephone: (619) 445-6315; Fax: (619) 445-9126

F

Federated Indians—Graton Rancheria, Lara Walker, Human Services, 6400 Redwood Drive, Suite 300, Rohnert Park, CA 94928; Telephone: (707) 566-2288: Fax: (707) 566-2291; Email: lwalker@gratonrancheria.com

Fort Bidwell Indian Community, Mariellen Sam, ICWA Representative/Enrollment Officer, P.O. Box 129, Fort Bidwell, CA 96112; Telephone: (530) 279-6310; Fax: (530) 279-2233

Fort Independence Indian Reservation, Israel Naylor, Tribal Chairman, P.O. Box 67 or 131 North Hwy 395, Independence, CA 93526; Telephone: (760) 878-5160: Fax: (760) 878-2311; Email: Israel@fortindependence.com

G

Greenville Rancheria, Dr. Gonzalo Gonzalez, Behavioral Health, Crystal Rios, Tribal Secretary, Patty Allen, Chief Financial Officer, and Faustina Lopez, Tribal Representative, P.O. Box 279, Greenville, CA 95947; Telephone: (530) 284-7990; Fax: (530) 284-7299; Email: ggonzalez@greenvillerancheria.com; pallen@grenvillerancheria.com; crios@greenvillerancheria.com; flopez@greenvillerancheria.com

Grindstone Indian Rancheria, Aaston Bill, ICWA, P.O. Box 63, Elk Creek, CA 95939; Telephone: (530) 968-5365; Fax: (530) 968-5366

Guidiville Band of Pomo Indians, Merlene Sanchez, Tribal Chairperson, P.O. Box 339, Talmage, CA 95481; Telephone: (707) 462-3682; Fax: (707) 462-9183; Email: admin@guidiville.net

H

Habematolel Pomo of Upper Lake, Angelina Arroyo, ICWA Advocate, 375 E. Hwy 20, Suite “I”, Upper Lake, CA 95485-0516; Telephone: (707) 275-0737; Cell: (707) 275-0757; Fax: (707) 275-0757; Email: tribaladmin@upperlakepomo.com or executive_secretary@upperlakepomo.com

Hoopa Valley Tribe, Millie Grant, Director—Human Services, P.O. Box 1267 Hoopa, CA 95546; Telephone: (530) 625-4236 x 19; Fax: (530) 625-4258

Hopland Band of Pomo Indians, Kathy Fisher, Director of Health & Social Services, 3000 Shanel Rd., Hopland, CA 95449; Telephone: (707) 472-2100 Ext: 1107; Fax: (707) 472-2110; Email: kfisher@hoplandtribe.com

I

Inaja & Cosmit Band of Mission Indians, Tribal Family Services, Manager Indian Health Council, Inc., P.O. Box 406, Pauma Valley, CA 92061; Telephone: (760) 749-1410; Fax: (760) 749-5518

Ione Band of Miwok Indians, Pamela Baumgartner, Tribal Administrator, P.O. Box 699, Plymouth, CA 95669; Telephone: (209) 245-5800 Ext: 5801; Email: pam@ionemiwok.org

J

Jackson Rancheria Band of Miwuk Indians, Kimberly Heffron, Tribal Secretary, P.O. Box 1090, Jackson, CA 95642; Telephone: (209) 223-1935; Fax: (209) 223-5366; Email: kheffron@jacksonrancheria-nsn.gov

Jamul Indian Village, Charity White-Voth, Kumeyaay Family Services Director, Southern Indian Health Council, Inc., 4058 Willow Rd., Alpine, CA 91903; Telephone: (619) 445-1188; Fax: (619) 445-0765

K

Karuk Tribe, Mike Edwards, Child and Family Services Director, Karuk Health Clinic, 1519 S. Oregon Street, Yreka, CA 96097; Telephone: (530) 842-9200 Ext: 6301; Fax: (530) 841-5150; Email: medwards@karuk.us

L

La Jolla Band of Luiseno Indians, Tribal Family Services, Manager, Indian Health Council, Inc., P.O. Box 406, Pauma Valley, CA 92061; Telephone: (760) 749-1410; Fax: (760) 749-5518

La Posta Band of Mission Indians, Charity White-Voth, Kumeyaay Family Services Director, Southern Indian Health Council, Inc., 4058 Willow Rd., Alpine, CA 91903; Telephone: (619) 445-1188; Fax: (619) 445-0765

Laytonville Rancheria, Cherie Smith-Gibson, Tribal Administrator, P.O. Box 1239, Laytonville, CA 95454; Telephone: (707) 984-6197 Ext: 104; Fax: (707) 984-6201; Email: ta@cahto.org

Lone Pine Reservation, Kathy Brancroft, Enrollment Committee Chairperson, P.O. Box 747, Lone Pine, CA 93545; Telephone: (760) 876-1034; Fax: (760) 876-8302

Los Coyotes Band of Cahuilla & Cupeno Indians, Tribal Family Services Manager, Indian Health Council, Inc, P.O. Box 406 Pauma Valley, California 92061; Telephone: (760) 749-1410; Fax: (760) 749-5518

Lower Lake Rancheria, Chairperson, P.O. Box 3162, Santa Rosa, CA 95402; Telephone: (707) 575-5586; Fax: (707) 575-5586

Lytton Rancheria, Margie Mejia, Chairwoman, 437 Aviation Blvd., Santa Rosa, CA 95403; Telephone: (707) 575-5917; Fax: (707) 575-6974

M

Manchester-Point Arena Band of Pomo Indians, Christine Dukatz, ICWA Director/Tribal Administrator, P.O. Box 623, Point Arena, CA 95468; Telephone: (707) 882-2788; Fax: (707) 882-3417; Email: christimarie@earthlink.net

Manzanita Band of Mission Indians, Chairperson, P.O. Box 1302, Boulevard, CA 91905; Telephone: (619) 766-4930; Fax: (619) 766-4957

Mechoopda Indian Tribe, Susan Bromley, Office Manager, 125 Mission Ranch Boulevard, Chico, CA 95926; Telephone: (530) 899-8922 Ext: 210; Fax: (530) 899-8517; Email: sbromley@mechoopda-nsn.gov

Mesa Grande Band of Mission Indians, Tribal Family Services, Manager, Indian Health Council, Inc., P.O. Box 406, Pauma Valley, CA 92061; Telephone: (760) 749-1410; Fax: (760) 749-5518

Middletown Rancheria, Ursula Simon, ICWA Director, P.O. Box 1829 Middletown, CA 95461; Telephone: (707) 987-8288; Fax: (707) 987-8205; Email: usimon@middletownrancheria.com

Mooretown Rancheria, Francine Mckinley, ICWA Director, 1 Alverda Drive, Oroville, CA 95966; Telephone: (530) 533-3625; Fax: (530) 533-0664; Email: icwa@mooretown.org

Morongo Band of Cahuilla Mission Indians, Duke Steppe, Social Worker, 11581 Potrero Road, Banning, CA 92220; Telephone: (951) 849-4697; Fax: (951) 922-0338

N

North Fork Rancheria of Mono Indians, Elaine Fink, Tribal Chairwoman, P.O. Box 929, North Fork, CA 93643; Telephone: (559) 877-2484; Fax: (559) 877-2467; Email: efink@northforkrancheria-nsn.gov

P

Pala Band of Mission Indians, Maria Garcia, ICWA Manager, Department of Social Services, 35008 Pala-Temecula Road, PMB 50. Pala, CA 92059. Telephone: (760) 891-3542; Fax: (760) 742-1293

Paskenta Band of Nomlaki Indians, Ines Crosby, Tribal Administrator, P.O. Box 398 or 1012 South Street, Orland, CA 95963; Telephone: (530) 865-2010; Fax: (530) 865-1870; Email: office@paskenta.org

Pauma & Yuima Band of Mission Indians, Tribal Family Services, Manager, Indian Health Council, Inc., P.O. Box 406, Pauma Valley, CA 92061; Telephone: (760) 749-1410; Fax: (760) 749-5518

Pechanga Band of Mission Indians, Mark Macarro, Spokesman, P.O. Box 1477, Temecula, CA 92593; Telephone: (951) 676-2768; Fax: (951) 695-1778

Picayune Rancheria of the Chukchansi Indians, Orianna C. Walker, ICWA Coordinator, 46575 Road 417, Coarsegold, CA 93614; Telephone: (559) 683-6633 Ext: 212; Fax: (559) 683-0533; Email: orianna.walker@chukchansi.net

Pinoleville Pomo Nation, Lenora Steele, Self Governance Director, 500 B Pinoleville Drive, Ukiah, CA 95482; Telephone: (707) 463-1454; Fax: (707) 463-6601; Email: lenora@pinoleville-nsn.us

Pit River Tribe, Coordinator—ICWA Program, 36970 Park Avenue, Burney, CA 96013; Telephone: (530) 335-5530; Fax: (530) 335-3140

Potter Valley Tribe, Salvador Rosales, Tribal Chairman, 2251 South State Street Ukiah, CA 95482; Telephone: (707) 462-1213; Fax: (707) 462-1240; Email: pottervalleytribe@pottervalleytribe.com

Q

Quartz Valley Indian Tribe, Mary Gowen, ICWA Director, 13601 Quartz Valley Rd., Fort Jones, CA 96032; Telephone: (530) 468-5907 Ext: 314; Fax: (530) 468-5608; Email: icwa@qvir.com

R

Ramona Band or Village of Cahuilla, Susan Reckker, Tribal Administrator; P.O. Box 391670 Anza, CA 92539; Phone: (951)763-4105; Fax: (951) 763-4325; Email: sreckker@ramonatribe.com

Redding Rancheria, Director, Social Services, 2000 Rancheria Road, Redding, CA 96001-5528; Telephone: (530) 225-8979

Redwood Valley Rancheria-Band of Pomo, Josie Loomis, ICWA Coordinator, 3250 Road I “B” Building, Redwood Valley, CA 95470; Telephone: (707) 485-0361; Fax: (707) 485-5726

Resighini Rancheria, Rick Dowd, Chairman or Keshan Dowd, Social Service-ICWA, P.O. Box 529, Klamath, CA 95548; Telephone: (707) 482-2431; Fax: (707) 482-3425

Rincon Band of Mission Indians, Tribal Family Services, Manager, Indian Health Council, P.O. Box 406, Pauma Valley, CA 92061; Telephone: (760) 749-1410; Fax: (760) 749-8901

Robinson Rancheria, ICWA Coordinator, P.O. Box 4015, Nice, CA 95464; Telephone: (707) 275-0527; Fax: (707) 275-0235; Email: clowe@robinsonrancheria.com

Round Valley Indian Tribes, Kenneth Wright, Tribal President, 77826 Covelo Road, Covelo, CA 95428; Telephone: (707) 983-6126; Fax: (707) 983-6128; Email: administrator@rvit.org

Yocha Dehe Wintun Nation (Rumsey Rancheria), James Kinter, Tribal Council Secretary, P.O. Box 18, Brooks, CA 95606; Telephone: (530) 796-3400; Fax: (530) 796-2143; Email: djones@yochadehe-nsn.gov

S

San Manuel Band of Mission Indians, Tribal Secretary, 26569 Community Center Drive Highland, CA 92346; Telephone: (909) 864-8933; Fax: (909) 864-3370

San Pasqual Band of Diegueno Indians, Tribal Family Services, Manager, Indian Health Council, Inc., P.O. Box 406, Pauma Valley, CA 92061; Telephone: (760) 749-1410; Fax: (760) 749-5518

Santa Rosa Band of Cahuilla Indians, Mayme Estrada, Chair, P.O. Box 609, Hemet, CA 92546; Telephone: (951) 658-5311; Fax: (951) 685-6733

Santa Rosa Rancheria Tachi-Yokut Tribe, Janice Cuara, Tribal Administrator, 16835 Alkali Drive; P.O. Box 8, Lemoore, CA 93245; Telephone: (559) 924-1278 Ext: 4051; Cell: (559) 381-4928 Fax: (559) 925-2931; Email: jcuara@tachi-yokut.com

Santa Ynez Band of Chumash Indians, Caren Romero, ICWA Representative. Jess Montoya, Executive Director. P.O. Box 539, Santa Ynez, CA 93460. Telephone: (805) 694-2671; Fax: (805) 686-2060; Email: cromero@sythc.com

Santa Ysabel Band of Mission Indians—Iipay Nation, Linda Ruis, Director, Santa Ysabel Social Services Dept., P.O. Box 701, Santa Ysabel, CA 92070; Telephone: (760) 765-1106. Fax: (760) 765-0312

Scotts Valley Band of Pomo Indians, Gabe Ray, Tribal ICWA Worker, 301 Industrial Ave., Lakeport, CA 95453; Telephone: (707) 263-4220; Fax: (707) 263-4345; Email: gray@svpomo.org

Sherwood Valley Band of Pomo Indians, Michael Fitzgerral, Tribal Chairman, 190 Sherwood Hill Drive Willits, California 95490; Telephone: (707) 459-9690; Fax: (707) 459-6936; Email: svrchair@sbcglobal.net

Shingle Springs Band of Miwok Indians (Shingle Springs Rancheria), Malissa Tayaba, Social Services Director, P.O. Box 1340 Shingle Springs, CA 95682; Telephone: (530) 698-1436 or (530) 698-1400; Fax: (530) 676-8033; Email: mtayaba@ssband.org

Smith River Rancheria, Dorothy Perry, Director—Community & Family Services, 110 W. First St., Smith River, CA 95567; Telephone: (707) 487-9255; Fax: (707) 487-0137; Email: dperry@tolowa.com

Soboba Band of Luiseno Indians, Tribal Social Worker, Soboba Social Services Department. P.O. Box 487, San Jacinto, CA 92581; Telephone: (951) 487-0283. Fax: (951) 487-1738

Kashia Band of Pomo Indians of the Stewarts Point Rancheria, Melissa Cerda, Administrative Assistant, 3535 Industrial Drive, Suite B-2, Santa Rosa, CA 95403; Telephone: (707) 591-0580; Fax: (707) 591-0583; Email: melissa@stewartspoint.org

Susanville Rancheria, Chairperson, ICWA Coordinator, 745 Joaquin St., Susanville, CA 96130; Telephone: (530) 257-6264; Fax: (530) 257-7986

Sycuan Band of Mission Indians, Charity White-Voth, Kumeyaay Family Services Director, Southern Indian Health Council, Inc., 4058 Willow Rd., Alpine, CA 91903; Telephone: (619) 445-1188; Fax: (619) 445-0765

T

Table Mountain Rancheria, Frank Marquez Jr., Tribal Chief of Police, 23736 Sky Harbour Rd., Friant, CA 93626; Telephone: (559) 822-6336; Fax: (559) 822-6340; Email: fmarquezjr@tmr.org

Tejon Indian Tribe, Kathryn Montes Morgan, Tribal Chair, 1731 Hasti-Acres Drive #108, Bakersfield, CA 93309; Telephone: (661) 834-8566; Email: kmorgan@bak.rr.com

Timbi-sha Shoshone Tribe, Attention: Wally Eddy, 621 West Line Street, Suite 109 Bishop, CA 93514; Telephone: (760) 872-3614; Fax: (760) 872-3670; Email: icwa@timbisha.com

Torres Martinez Desert Cahuilla Indians, Annette Chihuahua, ICWA Case Assistant/Tribal Delegate TMDCI, 66-725 Martinez Rd., Thermal, CA 92274; Telephone: (760) 578-8334 or (760) 397-0455 Ext: 1101; Fax: (760) 397-3925; Email: achihuahua@tmdci.org

Tule River Reservation, Lolita Garfield, MSW, Director Family Social Services, 340 North Reservation Road, Porterville, CA 93258; Telephone: (559) 781-4271 ext: 1013; Fax: (559) 791-2122; Email: icwadir@tulerivertribe-nsn.gov

Tuolumne Band of Me-Wuk Indians, Kevin Day, Social Tribal Chair, P.O. Box 699, Tuolumne, CA 95379; Telephone: (209) 928-5300; Fax: (209) 928-1677

Twenty-Nine Palms Band of Mission Indians, Executive Director, Indian Child & Family Services, P.O. Box 2269, Temecula, CA 92590; Telephone: (951) 676-8832; Fax: (951) 676-3950

Tyme Maidu Tribe (Berry Creek Rancheria), Terilynn Steel, ICWA Supervisor, 5 Tyme Way, Oroville, CA 95966; Telephone: (530) 534-3859, Fax: (530) 534-1151; Email: jessebrown@berrycreekrancheria.com

U

Utu Utu Gwaitu Paiute Tribe, Adora L. Saulque, Vice-Chairperson, 25669 Hwy 6 PMB I, Benton, CA 93512; Telephone: (760) 933-2321; Fax: (760) 933-2412; Email: bentonpaiutetribe@hughes.net and adorasaulque@hughes.net

V

Viejas (Baron Long) Band of Mission Indians, Charity White-Voth, Kumeyaay Family Services Director, Southern Indian Health Council, Inc., 4058 Willow Rd., Alpine, CA 91903; Telephone: (619) 445-1188; Fax: (619) 445-0765

W

Wilton Rancheria, Mary Tarango, Tribal Chairperson, 9300 West Stockton Blvd., Ste. 205 Elk Grove, California 95758; Telephone: (916) 683-6000; Fax: (916) 683-6015

Wiyot Tribe, Michelle Vassel, Director of Social Services, 1000 Wiyot Drive, Loleta, CA 95551; Telephone: (707) 733-5055

Y

Yurok Tribe, Stephanie Weldon, Director Social Services, 190 Klamath Blvd. or P.O. Box 1027, Klamath, CA 95548; Telephone: (707) 482-1350; Fax: (707) 482-1368; Email: sweldon@yuroktribe.nsn.us

9. Rocky Mountain Region

Edward Parisian, Regional Director, 316 North 26th Street, Billings, Montana 59101; Telephone: (406) 247-7943; Fax: (406) 247-7976

Jo Ann Birdshead, Regional Social Worker, 316 North 26th Street, Billings, Montana 59101; Telephone: (406) 247-7988; Fax: (406) 247-7566

B

Blackfeet Tribe of Montana, Kathy CalfBossRibs, ICWA Inquiry Technician, P.O. Box 588 Browning, Montana 59417; Telephone: (406) 338-7806; Cell: (406) 470-0026; Fax: (406) 338-7726

C

Chippewa Cree Tribe of the Rocky Boy's Reservation of Montana, Bruce Sunchild, Tribal Chairman and Brenda Gardipee, Social Services Director, Rural Route 1, P.O. Box 544, Box Elder, Montana 59521; Telephone: (406) 395-5705 (Bruce) (406) 395-4176 (Brenda); Fax: (406) 395-5702

Crow Tribe of the Crow Reservation of Montana, Director of Tribal Social Services, P.O. Box 159, Crow Agency, Montana 59022; Telephone: (406) 638-4202; Fax: (406) 638-4283

E

Eastern Shoshone Tribe of the Wind River Reservation, ICWA Coordinator, P.O. Box 945, Fort Washakie, Wyoming 82514; Telephone: (307) 332-6591; Fax: (307) 332-6593

F

Fort Belknap Indian Community Assiniboine & Gros Ventre Tribes, Myron L. Trottier, ICWA Case Manager/Acting Director, Fort Belknap Social Services 656 Agency Main Street, Harlem, Montana 59526; Telephone: (406) 353-8346 and (406) 353-8370; Fax: (406) 353-4634; Email: mtrottier@ftbelknap.org

Fort Peck Assiniboine and Sioux Tribes, Ms. Lois Weeks, ICWA Case Manager, P.O. Box 1027, Poplar, Montana 59255; Telephone: (406) 768-2402; Fax: (406) 768-3710; Email: lweeks@fptc.org

N

Northern Arapaho Tribe of the Wind River Reservation, Chairman, P.O. Box 396, Fort Washakie, Wyoming 82514; Telephone: (406) 332-6120; Fax: (307) 332-7543

Northern Cheyenne, Claude Rowland, Northern Cheyenne Human Services Director, P.O. Box 128 Lame Deer, Montana 59043; Telephone: (406) 477-8321; Fax: (406) 477-8333; Email: crowland@mt.gov

10. Southern Plains Region

Dan Deerinwater, Regional Director, P.O. Box 368, Anadarko, OK 73005; Telephone: (405) 247-6673 Ext. 217; Fax: (405) 247-5611

Ofelia De La Rosa, Regional Social Worker, P.O. Box 368, Anadarko, Oklahoma 73005; Telephone: (405) 247-1585 Fax: (405) 247-2895

A

Absentee-Shawnee Tribe of Oklahoma Indians, Governor, 2025 S. Gordon Cooper Drive, Shawnee, Oklahoma 74801; Telephone: (405) 275-4030

Alabama-Coushatta Tribe of Texas, Aaron Williams, Social Service Director, 571 State Park Road, 56, Livingston, Texas, 77351; Telephone: (936) 563-1252; Fax: (936) 563-1254; Email: Williams.aaron@actribe.org

Apache Tribe of Oklahoma, Teresa Taylor, Indian Child Welfare Program Director, P.O. Box 1330 Anadarko, Oklahoma 73005; Telephone: (405) 247-9857; Cell Phone: (405) 933-6481; Fax: (405) 247-7617; Email: icw@apachetribe.org

C

Caddo Nation of Oklahoma, Mary Prentiss, ICW Caseworker, P.O. Box 487, Binger, Oklahoma 73009; Telephone: (405) 656-9222; Fax: (405) 656-3237; Email: mprentiss@caddonation.com

Cheyenne and Arapaho Tribes of Oklahoma, Mary Davenport, Executive Director and Michael Scott Burgett, ICW Coordinator P.O. Box 38, Concho, Oklahoma 73022; Telephone: (405) 422-7476/(405) 201-3188; Fax: (405) 422-8218 or (405) 422-3164; Email: mdavenport@c-a-tribes.org; mburgett@c-a-tribes.org

Citizen Potawatomi Nation, Janet Draper, Director, 1601 S. Gordon Cooper Drive, Shawnee, Oklahoma 74801; Telephone: (405) 878-4831; Fax: (405) 878-4659; Email: jdraper@potawatomi.org

Comanche Nation-Oklahoma, Mona Perea, ICW Director, P.O. Box 908, Lawton, Oklahoma 73502; Telephone: (580) 492-3374; Fax: (580) 354-3838; Email: ramonap@comanchenation.com

D

The Delaware Nation, Lydia Ramirez, ICW Director, P.O. Box 825, Anadarko, Oklahoma 73005; Telephone: (405) 247-2448 Ext: 1152; Fax (405) 247-5942; Email: lramirez@delawarenation.com

F

Fort Sill Apache Tribe of Oklahoma, Ramona Austin, ICWA Director, 43187 US Highway 281, Apache, Oklahoma 73006; Telephone: (580) 588-2298; Fax: (580) 588-2106

I

Iowa Tribe of Kansas, Chairperson, 3345 B. Thrasher Rd., White Cloud, Kansas 66094; Telephone: (785) 595-3258

Iowa Tribe of Oklahoma, Janice Rowe-Kurak, Chairman, 335588 E. 750 Road Perkins, Oklahoma 74059; Telephone: (405) 547-2402; Fax: (405) 547-1032; Email: row-kurak@iowanation.org

K

Kaw Nation, Chairperson, Drawer 50, Kaw City, Oklahoma 74641; Telephone: (580) 269-2552

Kickapoo Traditional Tribe of Texas, Connie Valenzuela, Director Indian Child Welfare, 286 Falcon Blvd., Eagle Pass, Texas 78852; Telephone: (830) 766-5601; Work Cell: (830) 513-2937; Fax: (830) 776-5605; Email: connie.valenzuela@ktttribe.org

Kickapoo Tribe of Indians of The Kickapoo Reservation in Kansas, Chairperson, P.O. Box 271, Horton, Kansas 66439; Telephone: (785) 486-2131

Kickapoo Tribe of Oklahoma, Jodi Michele Warrior, Indian Child Welfare Director, P.O. Box 469, McLoud, Oklahoma 74851; Telephone: (405) 964-5426; Fax: (405) 964-5431; Email: jwarrior@kickapootribeofoklahoma.com

Kiowa Tribe of Oklahoma, Richard Hernasy, ICWA Director, P.O. Box 369, Carnegie, Oklahoma 73015; Telephone: (580) 654-2300; Fax: (580) 654-2363

O

Otoe-Missouria Indian Tribe of Oklahoma, Ada Mehojah, Social Services Director, 8151 Highway 177 Red Rock, Oklahoma 74651; Telephone: (580) 723-4466 Ext: 256; Cell Phone: (580) 307-7303; Fax: (580) 723-1016; Email: amehojah@omtribe.org

P

Pawnee Nation of Oklahoma, Joanna (Jodi) Flanders, BSW, MSW, ICW Coordinator, P.O. Box 470, Pawnee, Oklahoma 74058; Telephone: (918) 763-3873; Fax: (918) 762-6453 Email: jflanders@pawneenation.org

Ponca Tribe of Oklahoma, Chairperson, 20 White Eagle Drive, Ponca City, Oklahoma 74601; Telephone: (580) 762-8104

Prairie Band of Potawatomi Nation, Chairperson, 16281 Q. Road, Mayetta, Kansas 66509; Telephone: (785) 966-2255

S

Sac and Fox Nation in Kansas and Nebraska, Michael Dougherty, Tribal Chairperson, 305 N. Main St., Reserve, Kansas 66434; Telephone: (785) 742-0053 Ext: 23; Fax: (785) 742-7146

Sac and Fox Nation, Principal Chief, Route 2, Box 246, Stroud, Oklahoma 74079; Telephone: (918) 968-3526

T

Tonkawa Tribe of Oklahoma, President, P.O. Box 70, Tonkawa, Oklahoma 74653; Telephone: (580) 628-2561

W

Wichita & Affiliated Tribes, Joan Williams, Family & Children Services Director, P.O. Box 729, Anadarko, Oklahoma 73005; Telephone: (405) 247-8627; Fax: (405) 247-8873; Email: joan.williams@wichitatribe.com

11. Southwest Region

William Tandy Walker, Regional Director, 1001 Indian School Road, NW., Albuquerque, NM 87104; Phone: (505) 563-3103; Fax: (505) 563-3101

Sandra McCook, Regional Social Worker, 1001 Indian School Road, NW., Albuquerque, NM 87104; Phone: (505) 563-3520; Fax: (505) 563-3058

A

Pueblo of Acoma, Colinda Garcia, Social Services Director, P.O. Box 309, Acoma, NM 87034; Phone: (505) 552-6604 Ext: 5154; Cell: (505) 382-4429; Fax: (505) 552-6206; Email: cvgarcia@puebloofacoma.org

C

Pueblo de Cochiti, Mary Dee Mody, ICWA Aide, P.O. Box 70 Cochiti Pueblo, NM 87072; Phone: (505) 465-2244; Fax: (505) 465-1135; Email: dee_mody@pueblodeconchiti.org

I

Pueblo of Isleta, Caroline Dailey, Acting ICWA Director, P.O. Box 1270, Isleta, NM 87022; Phone: (505) 869-2772; Fax (505) 869-5923

J

Pueblo of Jemez, Annette Chinana, Jemez Social Service Program-Child Advocate, P.O. Box 340, Jemez Pueblo, NM 87024; Phone: (575) 834-7117; Fax: (575) 834-7103; Email: Annette.chinana@jemezpueblo.us

Jicarilla Apache Nation, Monica L. Carrasco, Director, P.O. Box 546 Dulce, NM 87528; Phone: (575) 759-3162; Fax: (575) 759-3588; Email: mcarrasco@jbhd.org

L

Pueblo of Laguna, Marie A. Alarid, Program Manager and Rebecca Quam, Social Services Specialist II (back-up), P.O. Box 194, Laguna, NM 87026; Phone: (505) 552-9712 Fax: (505) 552-6484; Email: malarid@lagunatribe.org; rquam@launatribe.org

M

Mescalero Apache Tribe, Crystal Garcia, Tribal Census Clerk, P.O. Box 227 Mescalero, NM 88340; Phone (575) 464-9209; Fax: (575) 464-9191; Email: cgarcia@matisp.net

N

Pueblo of Nambe, Rhonda Padilla, ICWA Manager, Rte 1, Box 117-BB, Santa Fe, NM 87506; Phone (505) 0133; Fax (505) 455-4457; Email: rpadilla@nambepueblo.org

O

Ohkay Owingeh, Rochelle Thompson, ICWA Director, P.O. Box 1187, Ohkay Owingeh, NM 87566; Phone (575) 770-0033; Fax: (505) 852-1372; Email: Rochelle_thompson@ohkayowingeh-nsn.gov

P

Pueblo of Picuris, Jose Albert Valdez, P.O. Box 127, Penasco, NM 87553; Phone (575) 587-1003; Fax (575) 587-1003

Pueblo of Pojoaque, Shirley Catanach, Director, 58 Cities of Gold Rd. Suite 4, Santa Fe; NM 87506; Phone: (505) 455-0238; Fax: (505) 455-2363; Email: scatanach@puebloofpojoaque.org

R

Ramah Navajo School Board, Inc., Marlene Martinez, Administrative Services Director, P.O. Box 10, Pine Hill, NM 87357; Phone (505) 775-3256; Fax: (505) 775-3240; Email: marlene@rnsb.k12.nm.us

S

Pueblo of San Felipe, Darlene Valencia, MSW, Family Services Department Director, P.O. Box 4339, San Felipe Pueblo, NM 87004; Phone (505) 771-9900; Fax: (505) 867-6166; Email: dvalencia@sfpueblo.com

Pueblo of San Ildelfonso, Julie Bird, Family Support Advocate/ICWA Director, Route 5, P.O. Box 315-A, Santa Fe, NM 87506; Phone (505) 455-4164; Fax: (505) 455-7351; Email: jhbird@sanipueblo.org

Pueblo of Sandia, Marina Estrada, Behavioral Health & Social Services Manager, 481 Sandia Loop, Bernalillo, NM 87004; Phone: (505) 771-5131; Fax: (505) 867-4997; Email: mestrada@sandiapueblo.nsn.us

Pueblo of Santa Ana, Claire Pino, Social Services Aide, Santa Ana Pueblo, 02 Dove Road Santa Ana Pueblo, NM 87004; Phone: (505) 771-6775; Fax:(505) 771-6575; Email: claire.pino@santaana-nsn.gov

Santa Clara, Joe Naranjo, Tribal Administrator, P.O. Box 580, Espanola, NM 87532; Phone: (505) 753-7326; Fax: (505) 753-8819

Santo Domingo-Kewa, Arthur Lucero, ICWA Worker/Doris Bailon, Director, P.O. Box 129, Santo Domingo, NM 87052; Phone: (505) 465-0630; Fax (505) 465-2854; Email: Arthurlucero@kewa-nsn.gov or dbailon@kewa-nsn.gov

Southern Ute Indian Tribe, Jerri Sindelar, ICWA Caseworker II MS 40 P.O. Box 737, Ignacio, CO 81137; Phone (970) 769-2920; Fax (970) 563-0334; Email: jsindelar@southern-ute.nsn.us

T

Pueblo of Taos, Maxine Nakai, LISW, Division Director, P.O. Box 1846 Taos, NM 87571; Phone: (575) 758-7824; Fax: (575) 758-3347; Email: mnakai@taospueblo.com

Pueblo of Tesuque, Aria Ponciroli, LISW, Director Social Services Department, Route 42 Box 360-T, Santa Fe, NM 87506; Phone: (505) 955-7713; Fax: (505) 982-2331; Email: aponciroli@pueblooftesuque.org

U

Ute Mountain Ute Tribe, Cole McKinney, Acting Director CPS/CW, P.O. Box 309, Towaoc, CO, 81334; Phone: (970) 564-5307; Fax: (970) 564-5300; Email: cmckinney@utemountain.org

Y

Ysleta del Sur Pueblo, Sonia Ruedas, Social Services Eligibility Worker, 9314 Juanchido Ln., El Paso, TX 79907; Phone: (915) 860-6119; Fax: (915) 858-2367; Email: sruedas@ydsp-nsn.gov

Z

Pueblo of Zia, Pueblo of Zia, Governor's Office,135 Capital Square Drive, Zia Pueblo, NM 87053; Phone: (505) 867-3304 ext. 241; Fax: (505) 867-3308

Pueblo of Zuni, Betty Nez, Program Manager, P.O. Box 339, Zuni, NM 87327; Phone: (505) 782-7166; Fax: (505) 782-7172; Email: betnez@ashiwi.org

12. Western Region

Bryan Bowker, Regional Director, 2600 North Central Avenue, Phoenix, Arizona 85004; Telephone: (602) 379-6600; Fax: (602) 379-4413

Marjorie Eagleman, MSW, Regional Social Worker, 2600 North Central Avenue, Phoenix, Arizona 85004; Telephone: (602) 379-6785; Fax: (602) 379-3010

A

Ak-Chin Indian Community, Carole Lopez, Enrollment Specialist, 42507 West Peters Road + Nall Road, Maricopa, Arizona 85138; Telephone: (520) 568-1000; Fax: (520) 568-1001; Email: clopez@ak-chin.nsn.us

B

Battle Mountain Band Council, Rhonda Hicks, ICWA Coordinator, 37 Mountain View Drive, Battle Mountain, Nevada 89820; Telephone: (775) 635-9189; Fax: (775) 635-8528

C

Chemehuevi Indian Tribe, Ronald Escobar, Secretary/Treasurer, P.O. Box 1902 Havasu Lake, California 92363; Telephone: (760) 858-4219; Fax: (760) 858-5400

Cocopah Indian Tribe, Liz Manjarrez, ICWA Specialist, 14515 South Veterans Drive, Somerton, Arizona 85350; Telephone: (928) 627-3729; Fax: (928) 627-3316; Email: cocopahicwa@cocopah.com

Colorado River Indian Tribes, Daniel L. Barbara, M.ed., Executive Director, Department of Health and Social Services, 12302 Kennedy Drive Parker, Arizona 85344; Telephone: (928) 669-6577; Fax: (928) 669-8881; Email: daniel.barbara@crit-dhs.org

D

Duckwater Shoshone Tribe, Rose Mary Joe-Kingle, Social Worker, P.O. Box 140068, Duckwater, Nevada 89314; Telephone: (775) 863-0222; Fax: (775) 863-0142

E

Elko Band Council (AKA: Te Moak), Chesarae Christean, Social Worker; 1745 Silver Eagle Dr., Elko, Nevada 89801; Telephone: (775) 738-9310; Fax: (775) 778-3397; Email: elkobandsocial@frontiernet.net

Ely Shoshone Tribe, RaeJean Morrill, Social Services Worker II, 16 Shoshone Circle, Ely, Nevada 89301; Telephone: (775) 289-4133; Fax: (775) 289-3237

F

Fallon Paiute Shoshone Tribe, Bonnie Rushford, Social Service Director, 1007 Rio Vista, Fallon, Nevada 89406; Telephone: (775) 423-1215; Fax: (775) 423-8960; Email: ssdirector@fpst.org

Ft. McDermitt Paiute-Shoshone Tribe, Dee Crutcher, ICWA Advocate-Human Services Program, P.O. Box 68, McDermitt, Nevada 89421; Telephone: (775) 532-8263; Fax: (775) 532-8060

Fort McDowell Yavapai Nation, James Esquirell, CPS/ICWA Coordinator and Brian Holiday, Social Services Director Wassaja Family Services; P.O. Box 17779, Fountain Hills, Arizona 85268; Telephone: (480) 789-7820; Fax: (480) 837-4809; Email: jesquirell@ftmcdowell.org; bholiday@ftmojave.com

Fort Mojave Indian Tribe, Melvin Lewis Sr., Director, 500 Merriman Avenue, Needles, California 92363; Telephone: (928) 346-1550 or 866-346-6010; Fax: (928) 346-1552; Email: ssdir@ftmojave.com

G

Gila River Indian Community, Byron Donahue, ICWA Case Manager, P.O. Box 427 Sacaton, Arizona 85147; Telephone: (520) 562-3396; Fax: (520) 562-3633; Email: byron.donahue@gric.nsn.us

Confederated Tribes of the Goshute Reservation, Melissa Oppenhein, ICWA Worker, P.O. Box 6104, Ibapah, Utah 84034; Telephone: (435) 234-1178; Fax: (435) 234-1162; Email: melissaoppenhein@goshutetribe.com

H

Havasupai Tribe, Daphne Sierra, ICWA Coordinator, P.O. Box 10, Supai, Arizona 86435; Telephone: (928) 448-2661; Fax: (928) 448-2551

The Hopi Tribe, Loren Sekayumptewa, MSW, Ph.D. (ABD), Director of Social & Behavioral Health Services, P.O. Box 68 Second Mesa, Arizona 86043; Telephone: (928) 737-2685; Fax: (928) 737-2667

Hualapai Tribe, Carrie Imus, Director, Hualapai Human Services, P.O. Box 480, Peach Springs, Arizona 86434; Telephone: (928) 769-2383 or 2269; Fax: (928) 769-2659

K

Kaibab Band of Paiute Indians, Matt Lyons—Social Services Worker; Lisa Stanfield—Assistant; Lorraine Benn-Enrollment, HC 65 Box 2, Fredonia, Arizona 86022; Telephone: (928) 643-8320 (Matt) (928) 643-8336 (Lisa), and (928) 643-7245 (Lorraine); Fax: (928) 643-7245; Email: mlyons@kaibabpaiute-nsn.gov; lstanfield@kaibabpaiute-nsn.gov; lbenn@kaibabpaiute-nsn.gov

L

Las Vegas Paiute Tribe, Ruth Fite-Patrick, Social Service Caseworker, 1257 Paiute Circle, Las Vegas, Nevada 89106; Telephone: (702) 382-0784 Ext: 2236; Fax: (702) 384-5272; Email: rfitepatrick@lvpaiute.com

Lovelock Paiute Tribe, Victor Mann, Chairman, 201 Bowean Street, Lovelock, Nevada 89419; Telephone: (775) 273-7861; Fax: (775) 273-3802

M

Moapa Band of Paiutes, Dawn M. Bruce, Social Services Director, P.O. Box 340, Moapa, Nevada 89025; Telephone: (702) 865-2708; Fax: (702) 864-0408; Email: mbopsocialservices@mvdsl.com

P

Paiute Indian Tribe of Utah, Tyler Goddard, Behavioral Care Director, 440 North Paiute Drive, Cedar City, Utah 84721; Telephone: (435) 586-1112 Ext: 310; Fax: (435) 867-1516; Email: tyler.goddard@ihs.gov

Pascua Yaqui Tribe, Tamara Walters, Asst. Attorney General, 4725 West Calle Tetakusim, Bldg. B, Tucson, Arizona 85757; Telephone: (520) 883-5108; Fax: (520) 883-5084; Email: tamara.walters@pascuayaqui-nsn.gov

Pyramid Lake Paiute Tribe, Nikki Isaacs, Ph.D., Social Services Director, P.O. Box 256, Nixon, Nevada 89424; Telephone: (775) 574-1047; Fax: (775) 574-1052; Email: nisaacs@plpt.nsn.us

Q

Quechan Tribal Council, Mike Jackson, President, P.O. Box 1899, Yuma, Arizona 85366-1899; Telephone: (760) 572-0213; Fax: (760) 572-2102

R

Reno-Sparks Indian Colony, Jane Smith, Human Srvices Assistant, 405 Golden Lane, Reno, Nevada 89502; Telephone: (775) 329-5071; Fax: (775) 785-8758; Email: jsmith@rsic.org

S

Salt River Pima-Maricopa Indian Community, Office of General Cunsel, Cheryl Scott, Assistant General Counsel, 10,005 East Osborn Road, Scottsdale, Arizona 85256; Telephone: (480) 362-7448; Fax: (480) 362-7591; Email: cheryl.scott@SRPMIC-nsn.gov

San Carlos Apache Tribe, Aaron Begay, ICWA Coordinator, P.O. Box 0, San Carlos, Arizona 85550; Telephone: (928) 475-2313; Fax: (928) 475-2342; Email: abegay09@tss.scat-nsn.gov

San Juan Southern Paiute Tribe, Savania Tsosie, Social Worker, 180 North 200 East, Suite 111, St. George, Utah 84770; Telephone: (435) 674-9720; Fax: (435) 674-9714; Email: savania.tsosie@bia.gov

Shoshone-Paiute Tribes of Duck Valley, Lanette Bitsilly, Social Worker, P.O. Box 219, Owyhee, Nevada 89832; Telephone: (775) 757-2253; Fax: (775) 757-2910; Email: bitsilly.lanette@shopai.org

Skull Valley Band of Goshute Indians, Lori Bear, Chairwoman, P.O. Box 448 Grantsville, Utah 84029; Telephone: (435) 882-4532; Fax: (435) 882-4889; Email: ibear@svgoshutes.com

South Fork Band Council, Debbie Honeyestewa-Social Service Director, 21 Lee B-13, Spring Creek, Nevada 89815; Telephone: (775) 744-2412; Fax: (775) 744-2306

Summit Lake Paiute Tribe, Jerri Lynn Barlese, Council Secretary/Treasurer, 1708 H Street Sparks, Nevada 89431; Telephone: (775) 827-9670; Fax: (775) 827-9678; Email: jerrilynn.barlese@summitlaketribe.org

T

Te-Moak Tribe of Western Shoshone Indians (See Elko Band Council)

Tohono O'odham Nation, Jonathan L. Jantzen, Attorney General, P.O. Box 830 Sells, Arizona 85634; Telephone: (520) 383-3410; Fax: (520) 383-2689; Email: jonathan.jantzen@tonation-nsn.gov

Tonto Apache Tribe, Lyndsie Butler, Social Services Director, Tonto Apache Reservation # 30, Payson, Arizona 85541; Telephone: (928) 474-5000, Fax: (928) 474-9125; Email: lbutler@tontoapache.org

U

Ute Indian Tribe, Floyd M. Wyasket, Social Service Director, Box 190 Fort Duchesne, Utah 84026; Telephone: (435) 725-4026 or (435) 823-0141; Fax: (435) 722-5030; Email: floydw@utetribe.com

W

Walker River Paiute Tribe, Elliott Aguilar, ICWA Specialist, P.O. Box 146, Schurz, Nevada 89427; Telephone: (775) 773-2058 Ext: 11; Fax: (775) 773-2096; Email: eaguilar@wrpt.us

Washoe Tribe of Nevada and California, Wanda Batchelor, Chairwoman, 919 Hwy. 395 South Gardnerville, Nevada 89410; Telephone: (775) 265-8600; Fax: (775) 265-8651; Email: ktrovato@washoetribe.us

Wells Band Te-moak Shoshone, Alicia Aguilar, Social Services/ICWA Coordinator, P.O. Box 809, Wells, Nevada 89835; Telephone: (775) 345-3079; Fax: (775) 752-2474

White Mountain Apache Tribe, Cora Hinton, ICWA Representative/CPS Supervisor, P.O. Box 1870 Whiteriver, Arizona 85941; Telephone: (928) 338-4164, Fax: (928) 338-1469; Email: chinton@wmat.us

Winnemucca Tribe, Chairman, P.O. Box 1370, Winnemucca, Nevada 89446

Y

Yavapai-Apache Nation, Cora Phillips, Social Service Program Manager, 2400 W. Datsi Street Camp Verde, Arizona 86322; Telephone: (928) 649-7107; Fax: (928) 567-6832; Email: cphillips@yan-tribe.org

Yavapai-Prescott Indian Tribe, Elsie Watchman, Family Support Supervisor, 530 East Merritt, Prescott, Arizona 86301; Telephone: (928) 515-7351; Fax: (928) 541-7945; Email: ewatchman@ypit.com

Yerington Paiute Tribe, Stan Dodd, Human Services Director, 171 Campbell Lane Yerington, Nevada 89447; Telephone: (775) 463-7705; Fax: (775) 463-5929; Email: sdodd@ypt-nsn.gov

Yomba Shoshone Tribe, Elisha A. Mockerman, Eligibility Worker, HC 61 Box 6275 Austin, Nevada 89310; Telephone: (775) 964-2463; Fax: (775) 964-1352; Email: emockerman@yombatribe.org

B. List of Designated Tribal Agents by Tribal Affiliation

1. Tribes Other Than Alaska Native Tribes and Villages

Alabama-Quassarte (See Creek)

Alabama-Quassarte Tribal Town, Annie Merritt—ICWA Director, P.O. Box 187, 101 E. Broadway, Wetumka, Oklahoma 74883, Phone: (405) 452-3881, Fax: (405) 452-3889, Eastern Oklahoma Region

Apache

The Apache Tribe of Oklahoma, Teresa Taylor, Indian Child Welfare Program Director, P.O. Box 1330, Anadarko, Oklahoma 73005, Phone: (405) 247-9857, Cell: (405) 933-6481, Fax: (405) 247-7617, Email: icw@apachetribe.org, Southern Plains Region

Apache, (See Chiricahua)

Fort Sill Apache Tribe of Oklahoma, Ramona Austin—ICW Director, 43187 US Highway 281, Apache, Oklahoma 73006, Phone: (580) 588-2298, Fax: (580) 588-2106, Southern Plains Region

Apache

Jicarilla Apache Nation, Monica L. Carrasco—Director, P.O. Box 546, Dulce, New Mexico 87528, Phone: (505) 759-3162, Fax: (505) 759-3588, Email: mcarrasco@jbhd.org, Southwest Region

Mescalero Apache Tribe, Crystal Garcia—Tribal Census Clerk, P.O. Box 227, Mescalero, New Mexico 88340, Phone: (575) 464-9209, Fax: (575) 464-9191, Email: cgarcia@matisp.net, Southwest Region

San Carlos Apache Tribe, Aaron Begay—ICWA Coordinator, P.O. Box 0, San Carlos, Arizona 85550, Phone: (928) 475-2313, Fax: (928) 475-2342, Email: abegay09@tss.scat-nsn.gov, Western Region

Tonto Apache Tribe of Arizona, Lyndsie Butler—Social Services Director, Tonto Apache Reservation # 30, Payson, Arizona 85541, Phone: (928) 474-5000, Fax: (928) 474-9125, Email: lbutler@tontoapache.org, Western Region

White Mountain Apache Tribe, Cora Hinton, ICWA Rpresentative/CPS Supervisor, P.O. Box 1870, Whiteriver, Arizona 85941, Phone: (928)338-4164, Fax: (928) 338-1469, Email: chinton@wmat.us, Western Region

Apache, (See Yavapai)

Yavapai-Apache Nation, Cora Phillips—Social Service Program Manager, 2400 W. Datsi Street, Camp Verde, Arizona 86322, Phone: (928) 649-7107, Fax: (928) 567-6832, Email: cphillips@yan-tribe.org, Western Region

Arapahoe

Northern Arapahoe Tribe of the Wind River Reservation, Chairman, P.O. Box 396, Fort Washakie, Wyoming 82514, Phone: (406) 332-6120, Fax: (406) 332-7543, Rocky Mountain Region

Arapaho, (See Cheyenne)

Cheyenne-Arapaho Tribes of Oklahoma, Mary Davenport, Executive Director, Michael Scott Burgett, ICW Coordinator, P.O. Box 38, Concho, Oklahoma 73022, Telephone: (405) 422-7476/(405) 201-3188, Fax: (405) 422-8218 or (405) 422-3164, Email: mdavenport@c-a-tribes.org;, mburgett@c-a-tribes.org, Southern Plains Region

Arikara, (See Three Affiliated Tribes/Hidatsa/Mandan)

Three Affiliated Tribes, (Mandan, Arikara & Hidatsa), Katherine Felix, ICWA Specialist, 404 Frontage Road, New Town, North Dakota 58763, Phone: (701) 627-4781, Fax: (701) 627-5550, Email: kfelix@mhanation.com, Great Plains Region

Gros Ventre, (See Assiniboine)

Gros Ventre and Assiniboine, Fort Belknap Indian Community, Assiniboine & Gros Ventre Tribes, Myron L. Trottier, ICWA Case Manager/Acting Director, Fort Belknap Social Services, 656 Agency Main Street, Fort Belknap Agency, Harlem, Montana 59526, Phone: (406) 353-8346 or (406) 353-8370, Fax: (406) 353-4634, Email: mtrottier@ftbelknap.org, Rocky Mountain Region

Assiniboine, (See Sioux)

Assiniboine and Sioux Tribes, Fort Peck Indian Reservation, Ms. Lois Weeks—ICWA Case Manager, P.O. Box 1027, Popular, Montana 59255, Phone: (406) 768-2402, Fax: (406) 768-3710, Email: lweeks@fptc.org, Rocky Mountain Region

Blackfeet

Blackfeet Tribe of Montana, Raquel Vaile, Indian Child Welfare Act (ICWA) Coordinator, P.O. Box 588, Browning, Montana 59417, Phone: (406) 338-7806, Cell: (406) 470-0026, Fax: (406) 338-7726, Rocky Mountain Region

Caddo

Caddo Nation of Oklahoma, Mary Prentiss—ICW Caseworker, P.O. Box 487, Binger, Oklahoma 73009, Phone: (405) 656-9222, Fax: (405) 656-9237, Email: mprentiss@caddonation.com, Southern Plains Region

Cahuilla

Agua Caliente Band of Cahuilla Indians, Michelle A. Carr, Esq.—Attorney, 5401 Dinah Shore Drive, Palm Springs, California 92264, Phone: (760) 699-6862, Fax: (760) 699-6863, Email: mcarr@aguacaliente.net, Pacific Region

Cahuilla, (See Mission)

Augustine Band of Cahuilla Indians, Mary Ann Green—Chairperson, P.O. Box 846, Coachella, California 92236, Phone: (760) 398-4722, Pacific Region

Cahuilla, (See Mission)

Cabazon Band of Mission Indians, Chairman, 84-245 Indio Springs Drive, Indio, California 92201, Phone: (760) 342-2593, Pacific Region

Cahuilla, (See Mission)

Cahuilla Band of Mission Indians, Executive Director, Indian Child & Family Services, P.O. Box 2269, Temecula, California 92590, Phone: (951) 676-8832, Pacific Region

Cahuilla, (See Mission/Cupeno)

Los Coyotes Band of Cahuilla & Cupeno Indians, Tribal Family Services, Manager, Indian Health Council, Inc., P.O. Box 406, Pauma Valley, California 92061, Phone: (760) 749-1410, Pacific Region

Cahuilla, (See Mission)

Morongo Band of Cahuilla Mission Indians, Duke Steppe—Social Worker, 11581 Potrero Road, Banning, California 92220, Phone: (951) 849-4697, Pacific Region

Cahuilla, (See Mission)

Ramona Band or Village of Cahuilla, Susan Reckker—Tribal Administrator, P.O. Box 391670, Anza, California 92539, Phone: (951) 763-4105, Fax: (951) 763-4325, Email: sreckker@ramonatribe.com, Pacific Region

Cahuilla, (See Mission)

Santa Rosa Band of Cahuilla Indians, Mayme Estrada—Chair, P.O. Box 609, Hemet, California 92546, Phone: (951) 658-5311, Fax: (951) 658-6733, Pacific Region

Cahuilla, (See Mission)

Soboba Band of Luiseno Indians, Tribal Social Worker, Sobboba Social Services Department, P.O. Box 487, San Jacinot, California 92581, Phone: (707) 463-2644, Fax: (707) 487-1738, Pacific Region

Cahuilla

Torres Martinez Desert Cahuilla Indians, Annette Chihuahua, ICWA Case Assistant/Tribal Delegate TMDCI, 66-725 Martinez Rd., Thermal, California 92274, Phone: (760) 578-8334, Phone: (760) 397-0455 Ext: 1101, Fax: (760) 397-3925, Email: achihuahua@tmdci.org, Pacific Region

Catawba

Catawba Indian Nation, Carla Hudson—ICWA Representative, 996 Avenue of Nations, Rock Hill, South Carolina 29730, Phone: (803) 366-4792 Ext: 245, Fax: (803) 325-1242, Email: carla.hudson@catawbaindian.net, Eastern Region

Cayuga, (See Iroquois/Seneca)

Cayuga Nation of New York, Anita Thompson—Assistant Administration, P.O. Box 803, Versailles, New York 14168, Phone: (315) 568-0750, Fax: (315) 568-0752, Email: anita.thompson@cayuganation-nsn.gov, Eastern Region

Cayuga, (See Seneca)

Seneca-Cayuga Tribe of Oklahoma, Curtis Lawrence, Indian Child Welfare Case Worker, 23701 South 655 Road, Grove, Oklahoma 74344, Phone: (918) 787-5452 Ext: 19, Fax: (918) 787-5521, Email: clawrence@sctribe.com, Eastern Oklahoma Region

Chehalis

Confederated Tribes of the Chehalis Reservation, Tracy Bray—Family Services Director, 420 Howanut Road, Oakville, Washington 98568, Phone: (360) 709-1871, Fax: (360) 273-5207, Email: tbray@chehalistribe.org, Northwest Region

Chemehuevi

Chemehuevi Indian Tribe, Ronald Escobar—Secretary/Treasurer, P.O. Box 1902, Havasu Lake, California 92363, Phone: (760) 858-4219, Fax: (760) 858-5400, Western Region

Chemehuevi, (See Colorado River/Hopi/Mojave/Navajo)

Colorado River Indian Tribes, Daniel L. Barbara, M.Ed.—Executive Director, Dept. of Health & Social Services, 12302 Kennedy Drive, Parker, Arizona 85344, Phone: (928) 669-6577, Fax: (928) 669-8881, Email: daniel.barbara@crit-dhs.org, Western Region

Chemehuevi, (See Luiseno/Mission)

Twenty-Nine Palms Band of Mission Indians, Executive Director, Indian Child & Family Services, P.O. Box 2269, Temecula, California 92590, Phone: (951) 676-8832, Fax: (951) 676-3950, Pacific Region

Cherokee

Cherokee Nation of Oklahoma, Linda Woodward—Director, Children & Family Services, P.O. Box 948, Tahlequah, Oklahoma 74465, Phone: (918) 458-6900, Fax: (918) 458-6146, Email: lwoodward@cherokee.org, Eastern Oklahoma Region

Eastern Band of Cherokee Indians, Barbara Jones—Program Manager, Family Support Services, 508 Goose Creek Road, P.O. Box 507, Cherokee, North Carolina 28719, Phone: (828) 497-6092, Fax: (828) 497-3322, Email: barbjone@nc-cherokee.com, Eastern Region

United Keetoowah Band of Cherokee Indians in Oklahoma, Joyce Fourkiller-Hawk, P.O. Box 746, Tahlequah, Oklahoma 74465, Phone: (918) 431-1818, Fax: (918) 453-9345, Email: jfourkiller@unitedkeetoowahband.org, Eastern Oklahoma Region

Cheyenne

Northern Cheyenne, Claude Rowland, Northern Cheyenne Human Services Director, P.O. Box 128, Lame Deer, Montana 59043, Phone: (406) 477-8321, Fax: (406) 477-8333, Email: crowland@mot.gov, Rocky Mountain Region

Cheyenne, (See Arapaho)

Cheyenne-Arapaho Tribes of Oklahoma, Mary Davenport, Executive Director, Michael Scott Burgett, ICW Coordinator, P.O. Box 38, Concho, Oklahoma 73022, Telephone: (405) 422-7476/(405) 201-3188, Fax: (405) 422-8218 or (405) 422-3164, Email: mdavenport@c-a-tribes.org;, mburgett@c-a-tribes.org, Southern Plains Region

Chickasaw

The Chickasaw Nation, Bill Anoatubby—Governor, P.O. Box 1548, Ada, Oklahoma 74821-1548, Phone: (580) 436-7216, Fax: (580) 436-4287, Email: jay.keel@chickasaw.net, Eastern Oklahoma Region

Chitimacha

Chitimacha Tribe of Louisiana, Karen Matthews, MSW, LMSW, Social Services Director, P.O. Box 520, Charenton, Louisiana 70523, Phone: (337) 923-7000, Fax: (337) 923-2475, Email: Karen@chitimacha.gov, Eastern Region

Chippewa, (See Ojibwe)

Bad River Band of Lake Superior Chippewa, Esie Leoso-Corbine—ICWA Director, P.O. Box 55, Odanah, Wisconsin 54861, Phone: (715) 682-7135 Ext: 1414, Fax: (715) 685-7888, Email: bricw@badriver-nsn.gov, Midwest Region

Chippewa

Bay Mills Indian Community, Phyllis Kinney—Tribal Court Administrator, 12140 W. Lakeshore Dr., Brimley, MI 49715, Phone: (906) 248-3241, Fax: (906) 248-5817, EMAIL phyllisk@baymills.org, Midwest Region

Bois Fort Band, Angela Wright, Indian Child Welfare Supervisor, 13071 Nett Lake Road, Suite A, Nett Lake, Minnesota 55771, Phone: (218) 757-3476 or (218) 757-3916, Fax: (218) 757-3335, Email: amwright@boisforte.nsn.gov, Midwest Region

Chippewa, (See Cree)

Chippewa Cree Tribe of the Rocky Boy's Reservation of Montana, Bruce Sunchild—Tribal Chairman, Brenda Gardipee—Social Services Director, Rural Route 1, P.O. Box 544, Box Elder, Montana 59521, Phone: (406) 395-5705 (Bruce), (406) 395-4176 (Brenda), Fax: (406) 395-5702, Rocky Mountain Region

Fond du Lac Band of Lake Superior Chippewa, Karen Diver—Chairwoman, 1720 Big Lake Road, Cloquet, Minnesota 55720, Phone: (218) 879-4593, Fax: (218) 878-2189, Email: karendiver@fdlrez.com, Midwest Region

Grand Portage Reservation, Patti Foley—Social Worker, P.O. Box 428, Grand Portage, Minnesota 55605, Phone: (218) 475-2169, Fax: (218) 475-2455, Email: pfoley@grandportage.com, Midwest Region

Chippewa, (See Ottawa/Peshawbestown)

Grand Traverse Band of Ottawa and Chippewa Indians, Helen Cook, Anishinaabek Family Services Supervisor, 2605 N. West Bay Shore Drive, Peshawbestown, Michigan 49682-9275, Phone: (231) 534-7681, Fax: (231) 534-7706, Email: helen.cook@gtbindians.com, Midwest Region

Chippewa, (See Keweenaw)

Keweenaw Bay Indian Community, Judy Heath—Social Service Director, 16429 Beartown Road, Baraga, Michigan 49908, Phone: (906) 353-4201, Fax: (906) 353-8171, Email: judy@kbic-nsn.gov, Midwest Region

Chippewa

Lac Courte Oreilles, LuAnn Kolumbus, Director of Indian Child Welfare, 13394 W. Trepania Road, Hayward, Wisconsin 54843, Phone: (715) 634-8934, Fax: (715) 634-2981, Midwest Region

Lac du Flambeau, Kristin Allen—ICW Director, P.O. Box 189, Lac du Flambeau, Wisconsin 54538, Phone: (715) 588-1511, Fax: (715) 588-3903, Email: kallen@nnex.net, Midwest Region

Lac Vieux Desert, Dee Dee McGeshick—Social Services Director, P.O. Box 249, Watersmeet, Michigan 49969, Phone: (906) 358-4940, Fax: (906) 358-4900, Email: dee.mcgeshick@lvdtribal.com, Midwest Region

Chippewa, (See Ojibwe)

Leech Lake Band of Ojibwe, Tammie Finn—Child Welfare Director, 115 Sixth Street NW, Suite E, Cass Lake, Minnesota 56633, Phone: (218) 335-8240, Fax: (218) 335-3779, Email: tamie.finn@llojibwe.com, Midwest Region

Chippewa, (See Ojibwe)

Mille Lacs Band of Ojibwe, Ryan Champagne—Director of Family Services, MilleLacs Band Government Center, 43408 Oodena Drive, Onamia, Minnesota 56359, Phone: (320) 532-7776 Ext: 7762, Fax: (320) 532-7583, Email: ryan.champagne@millelacsband.com, Midwest Region

Chippewa

Minnesota Chippewa Tribe, Linda Johnson, Human Services Director, (Includes Six Component Reservations:, Bois Forte Band, Fond Du Lac band; Grand Portage Band; Leech Lake Band; Mille Lacs Band; White Earth Band), Adrienne Adkins, Human Services Director, P.O. Box 217, Cass Lake, Minnesota 56633, Phone: (218) 335-8585, Fax: (218) 335-8080, Email: ljohnston@mnchippewatribe.org, Midwest Region

Red Cliff Band of, Lake Superior Chippewa, Susan Crazy Thunder, Director, Indian Child Welfare Dept., 88385 Pike Road, Highway 13, Bayfield, Wisconsin 54814, Phone: (715) 779-3747, Fax: (715) 779-3783, Email: susie.crazythunder@redcliff-nsn.gov, Midwest Region

Red Lake Band of Chippewa Indians, Sheila Stately—ICWA Advocate, Box 427, Red Lake, Minnesota 56671, Phone: (218) 679-2122, Fax: (218) 679-2929, Midwest Region

Chippewa

Saginaw Chippewa Indian Tribe of Michigan, Kimberly Crampton—Director, 7070 East Broadway, Mt. Pleasant, MI 48858, Phone: (989) 775-4909, Fax: (989) 775-4912, Email: kcrampton@sagchip.org, Midwest Region

Chippewa, (See Ojibwe)

St. Croix Tribe of Wisconsin, Donna Churchill—Director, 24663 Angeline Avenue, Webster, Wisconsin 54893, Phone: (715) 349-2195, Fax: (715) 349-8665, Email: donnac@stcroixtribalcenter.com, Midwest Region

Chippewa

Sault Ste. Marie Tribe of Chippewa Indians, Juanita Bye—ACFS Division Director, 2218 Shunk Rd., Sault Ste Marie, Michigan 49783, Phone: (906) 632-5250, Fax: (906) 632-5266, Email: jbye@saulttribe.net, Midwest Region

Sokaogon Chippewa Community of Wisconsin, Angela Ring—ICWA Director, 10808 Sokaogon Drive, Crandon, Wisconsin 54520, Phone: (715) 478-2520, Fax: (715) 478-7623, Email: angelaring@sokaogonchippewa.com, Midwest Region

Turtle Mountain Band of Chippewa Indians, Marilyn Poitra, Indian Child Welfare Specialist, Child Welfare and Family Services, P.O. Box 900, Belcourt, North Dakota 58316, Phone: (701) 477-5688, Fax: (701) 477-5797, Email: marilynp@tmcwfs.net, Great Plains Region

White Earth Reservation Business Committee, Jeri Jasken—ICWA Coordinator, P.O. Box 358, White Earth, Minnesota 56591, Phone: (218) 983-4647, Fax: (218) 983-3712, Email: jeri@whiteearth.com, Midwest Region

Chiricahua, (See Apache)

Fort Sill Apache Tribe of Oklahoma, Ramona Austin—ICW Director, 43187 US Highway 281, Apache, Oklahoma 73006, Phone: (580) 588-2298, Fax: (580) 588-2106, Southern Plains Region

Choctaw

Choctaw Nation of Oklahoma, Billy Stephens—Senior Director, P.O. Box 1210, Durant, Oklahoma 74701, Phone: (580) 924-8280, Fax: (580) 920-3197, Email: bstephens@choctawnation.com, Eastern Oklahoma Region

Jena Band of Choctaw Indians, Mona Maxwell—Social Services Director, P.O. Box 14, Jena, Louisiana 71342, Phone: (318) 992-0136, Cell: (318) 419-8432, Fax: (318) 992-4162, Eastern Region

Mississippi Band of Choctaw Indians, Kirsten L. Clegg, Child Welfare Supervisor, Department of Family & Community Services, Children & Family Services Program, P.O. Box 6050, Choctaw, Mississippi 39350, Phone: (601) 650-1741, Fax: (601) 656-8817, Email: kclegg@choctaw.org, Eastern Region

Chukchansi

Picayune Rancheria of the Chukchansi Indians, Orianna C.Walker—ICWA Coordinator, 46575 Road 417, Coarsegold, California 93614, Phone: (559) 683-6633 Ext: 212, Fax: (559) 683-0599, Email: orianna.walker@chukchansi.net, Pacific Region

Chimash, (See Mission)

Santa Ynez Band of Chumash Indians, Caren Romero, Jess Montoya, ICWA Representative, Executive Director, Santa Ynez, California 93460, Phone: (805) 694-2671, Fax: (805) 686-2060, Email: cromero@sythc.com, Pacific Region

Cocopah

Cocopah Indian Tribe, Liz Manjarrez—ICWA Specialist, 14515 South Veterans Drive, Somerton, Arizona 85350, Phone: (928) 627-3729, Fax: (928) 627-3316, Email: cocopahicwa@cocopah.com, Western Region

Coeur D'alene

Coeur D' Alene Tribal Council, Leona M. Flowers—Social Worker Lead, Box 408, Plummer, Idaho 83851, Phone: (208) 686-8106, Fax: (208) 686-4410, Email: lflowers@cdatribe-nsn.gov, Northwest Region

Chemehuevi, (See Colorado River/Hopi/Mojave/Navajo)

Colorado River Indian Tribes, Daniel L. Barbara, M.Ed.—Executive Director, Dept. of Health & Social Services, 12302 Kennedy Drive, Parker, Arizona 85344, Phone: (928) 669-6577, Fax: (928) 669-8881, Email: daniel.barbara@crit-dhs.org, Western Region

Colville

Colville Business Council, ICWA, P.O. Box 150, Nespelem, Washington 99155-011, Phone: (509) 634-2200, Fax: (509) 634-2663, Northwest Region

Comanche

Comanche Nation-Oklahoma, Mona Perea—ICW Director, P.O. Box 908, Lawton, Oklahoma 73502, Phone: (580) 492-3347, Fax: (508) 354-3838, Email: ramonap@comanchenation.com, Southern Plains Region

Coquille

Coquille Indian Tribe, Bridgett Wheeler—ICWA Worker, 3050 Tremont St., North Bend, Oregon 97459, Phone: (541) 888-9494, Fax: (541) 888-6701, Email: bridgett@uci.net, Northwest Region

Coushatta

Alabama-Coushatta Tribe of Texas, Aaron Williams—Social Service Director, 571 State Park Road 56, Livingston, Texas 77351, Telephone: (936) 563-1252, Fax: (936) 563-1254, Email: Williams.aaron@actribe.ord, Southern Plains Region

Coushatta

Coushatta Tribe of Louisiana, Milton Hebert, MSW, CADC, CGAC, Social Service Director, 2003 CC Bel Road, Elton, Louisiana 70532, Phone: (337) 584-1439, Fax: (337) 584-1473, Email: mhebert@caushattatribela.org, Eastern Region

Cowlitz

Cowlitz Indian Tribe, Carolee Morris—ICWA Director, P.O. Box 2547, Longview, Washington 98632-8594, Phone: (360) 577-8140, Fax: (360) 577-7432, Northwest Region

Chippewa, (See Cree)

Chippewa Cree Tribe of the Rocky Boy's Reservation of Montana, Bruce Sunchild—Tribal Chairman, Brenda Gardipee—Social Services Director, Rural Route 1, P.O. Box 544, Box Elder, Montana 59521, Phone: (406) 395-5705 (Bruce), (406) 395-4176 (Brenda), Fax: (406) 395-5702, Rocky Mountain Region

Creek, (See Alabama-Quassarte)

Alabama-Quassarte Tribal Town, Annie Merritt—ICWA Director, P.O. Box 187, 101 E. Broadway, Wetumka, Oklahoma 74883, Phone: (405) 452-3881, Fax: (405) 452-3889, Eastern Oklahoma Region

Creek

Kialegee Tribal Town, Augusta Anderson—ICW Director, P.O. Box 332, Wetumka, Oklahoma 74883, Phone: (405) 452-5388, Fax: (405) 452-3413, Eastern Oklahoma Region

Muscogee (Creek) Nation, George Tiger—Principal Chief, P.O. Box 580, Okmulgee, Oklahoma 74447, Phone: (918) 732-7604, Fax: (918) 758-1434, Email: lapaulding@mekkotiger.com, Eastern Oklahoma Region

Poarch Band of Creek Indians, Michealine Deese, Family Services Coordinator, 5811 Jack Springs Road, Atmore, Alabama 36502, Phone: (251) 368-9136 Ext. 2600, Fax: (251) 368-0828, Email: cwhite@pci-nsn.gov, Eastern Region

Thlopthlocco Tribal Town, Janet Wise, Manager, P.O. 188, Okemah, Oklahoma 74859, Phone: (918) 560-6130, Fax: (918) 623-3023, Email: jwise@tttown.org, Eastern Oklahoma Region

Crow

Crow Tribe, Director of Tribal Social Services, P.O. Box 159, Crow Agency, Montana 59022, Phone: (406) 638-4202, Fax: (406) 638-4283, Rocky Mountain Region

Cupeno, (See Cahuilla/Mission)

Los Coyotes Band of Cahuilla & Cupeno Indians, Tribal Family Services, Manager, Indian Health Council, Inc., P.O. Box 406, Pauma Valley, California 92061, Phone: (760) 749-1410, Pacific Region

Delaware, (See Lenapi/Munsee)

The Delaware Nation, Lydia Ramirez, ICW Director, P.O. Box 825, Anadarko, Oklahoma 73005, Phone: (405) 247-2448 Ext: 1152, Fax: (405) 247-5942, Email: lramirez@delawarenation.com, Southern Plains Region

Delaware

Dalaware Tribe of Indians, Paula Pechonick—Chief, 170 N.E. Barbar, Bartlesville, OK 74003, Phone: (918)336-5272, Fax: (918) 337-6591, Email: ppechonick@delawaretribe.org, Eastern Oklahoma Region

Diegueno, (See Mission)

Barona Band of Mission Indians, Charity White-Voth, Kumeyaay Family Services Director, Southern Indian Health Council, Inc., 4058 Willow Road, Alpine California 91903, Phone: (619) 445-1188, Fax: (619) 445-0765, Pacific Region

Diegueno, (See Mission)

Campo Band of Mission Indians, Charity White-Voth, Kumeyaay Family Services Director, Southern Indian Health Council, Inc., 4058 Willow Road, Alpine California 91903, Phone: (619) 445-1188, Fax: (619) 445-0765, Pacific Region

Diegueno, (See Kumeyaay)

Ewiiaapaayp Band of Kumeyaay Indians, Will Micklin, CEO, Ewiiaapaayp Tribal Government, 4054 Willow Road, Alpine, California 91903, Phone: (619) 445-6315, FaxL (619) 445-9126, Pacific Region

Diegueno, (See Mission)

Inaja & Cosmit Band of Mission Indians, Tribal Family Services, Manager, Indian Health Services, Inc., P.O. Box 406, Pauma Valley, California 92061, Phone: (706) 749-1410, Email: n/a, Pacific Region

Diegueno, (See Kumeyaay)

Jamul Indian Village, Program Director, Kumeyaay Family Services, Southern Indian Health Council, Inc., 4058 Willow Road, Alpine California 91903, Phone: (619) 445-1188, Pacific Region

Diegueno, (See Mission)

La Posta Band of Mission Indians, Charity White-Voth, Kumeyaay Family Services Director, Southern Indian Health Council, Inc., 4058 Willow Road, Alpine California 91903, Phone: (619) 445-1188, Fax: (619) 445-0765, Pacific Region

Diegueno, (See Mission)

Manzanita Band of Mission Indians, Chairperson, P.O. Box 1302, Boulevard, California 91905, Phone: (619) 766-4930, Pacific Region

Mesa Grande Band of Mission Indians, Tribal Family Services, Manager, Indian Health Services, Inc., P.O. Box 406, Pauma Valley, California 92061, Phone: (706) 749-1410, Pacific Region

Diegueno, (See Mission)

Rincon Band of Mission Indians, Tribal Family Services, Manager, Indian Health Services, Inc., P.O. Box 406, Pauma Valley, California 92061, Phone: (706) 749-1410, Pacific Region

Diegueno

San Pasqual Band of Diegueno Indians, Tribal Family Services, Manager, Indian Health Services, Inc., P.O. Box 406, Pauma Valley, California 92061, Phone: (706) 749-1410, Pacific Region

Diegueno, (See Mission)

Santa Ysabel Band of Mission Indians, Iipay Nation, Linda Ruis—Director, Santa Ysabel Social Services Department, P.O. Box 701, Santa Ysabel, California 92070, Phone: (760) 765-1106, Fax: (760) 765-0312, Pacific Region

Diegueno, (See Mission)

Sycuan Band of Mission Indians, Charity White-Voth, Kumeyaay Family Services Director, Southern Indian Health Council, Inc., 4058 Willow Road, Alpine California 91903, Phone: (619) 445-1188, Fax: (619) 445-0765, Pacific Region

Diegueno, (See Mission)

Viejas (Baron Long), Charity White-Voth, Kumeyaay Family Services Director, Southern Indian Health Council, Inc., 4058 Willow Road, Alpine California 91903, Phone: (619) 445-1188, Fax: (619) 445-0765, Pacific Region

Flathead, (See Kootenai/Salish)

Confederated Salish & Kootenai Tribes, Lena Young Running Crane—ICWA Specialist, Box 278, Pablo, Montana 59855, Phone: (406) 675-2700, Fax: (406) 275-2883, Northwest Region

Kootenai

Kootenai Tribal Council, Velma Bahe—ICWA Contact, P.O. Box 1269, Bonners Ferry, ID 83805-1269, Telephone: (208) 267-8451, Northwest Region

Goshute

Goshute Business Council (Nevada and Utah), Confederated Tribes of the Goshute Reservation, Melissa Oppenhein—ICWA Worker, P.O. Box 6104, Ibapah, Utah 84034, Phone: (435) 234-1178, Fax: (435) 234-1162, Email: melissaoppenhein@gashutetribe.com, Western Region

Skull Valley Band of Goshute Indians, Lori Bear, Chairwoman, P.O. Box 448, Grantsville, Utah 84029, Phone: (435) 882-4532, Fax: (435) 882-4889, Email: lbear@svgoshutes.com, Western Region

Grand Ronde, (See Shasta/Siletz)

Confederated Tribes of the Grande Ronde Community of Oregon, Dana Ainma—ICWA Contact, 9615 Grand Ronde Road, Grand Ronde, Oregon 97347-0038, Phone: (503) 879-2034, Fax: (503) 879-2142, Northwest Region

Gros Ventre, (See Assiniboine)

Gros Ventre and Assiniboine, Fort Belknap Indian Community, Assiniboine & Gros Ventre Tribes, Myron L. Trottier, ICWA Case Manager/Acting Director, Fort Belknap Social Services, 656 Agency Main Street, Fort Belknap Agency, Harlem, Montana 59526, Phone: (406) 353-8346 or (406) 353-8370, Fax: (406) 353-4634, Email: mtrottier@ftbelknap.org, Rocky Mountain Region

Havasupai

Havasupai Tribe, Daphne Sierra—ICWA Coordinator, P.O. Box 10, Supai, Arizona 86435, Phone: (928) 448-2661, Fax: (928) 448-2551, Western Region

Hidatsa, (See Arikara/Mandan/Three Affiliated Tribes)

Three Affiliated Tribes, (Mandan, Arikara & Hidatsa), Katherine Felix—ICWA Specialist, 404 Frontage Road, New Town, North Dakota 58763, Phone: (701) 627-4781, Fax: (701) 627-5550, Email: kfelix@mhanation.com, Great Plains Region

Ho-Chunk, (See Winnebago)

The Ho-Chunk Nation, Valerie Blackdeer—ICWA Coordinator, P.O. Box 40, Black River Falls, Wisconsin 54615, Phone: (715) 284-9851, Fax: (715) 284-0097, Email: valerie.blackdeer@ho-chunk.com, Midwest Region

Hoh

Hoh Indian Tribe, Annette Pen—ICW, P.O. Box 2196, Forks, Washington 98331, Phone: (360) 374-5022, Fax: (360) 374-5039, Email: milab@hohtribe-nsn.org, Northwest Region

Hoopa

Hoopa Valley Tribe, Millie Grant—Director Human Services, P.O. Box 1267, Hoopa, California 95546, Phone: (530) 625-4236 x 19, Pacific Region

Chemehuevi, (See Colorado River/Hopi/Mojave/Navajo)

Colorado River Indian Tribes, Daniel L. Barbara, M.Ed.—Executive Director, Dept. of Health & Social Services, 12302 Kennedy Drive, Parker, Arizona 85344, Phone: (928) 669-6577, Fax: (928) 669-8881, Email: daniel.barbara@crit-dhs.org, Western Region

Hopi

The Hopi Tribe, Loren Sekayumptewa, MSW, Ph.D. (ABD), Director of Social & Behavioral Health Services, P.O. Box 68, Second Mesa, Arizona 86043, Phone: (928) 737-2685, Fax: (928) 737-2667, Western Region

Hualapai

Hualapai Tribe, Carrie Imus, Director, Hualapai Human Services, P.O. Box 480, Peach Springs, Arizona 86434, Phone: (928) 769-2383/2269, Fax: (928) 769-2659, Email: cimus@frontiernet.net, Western Region

Huron, (See Potawatomi)

Nottawaseppi Huron Band of the Potawatomi, Meg Fairchild, LMSW, CAAC, Clinical Social Worker, 1474 Mno Bmadzewen Way, Fulton, Michigan 49052, Phone: (269) 729-4422, Fax: (269) 729-4460, Email: socialwpc@nhbp.org, Midwest Region

Wyandotte, (See Huron)

Wyandotte Nation, Kate Randall—Director of Family Services, 64700 E. Hwy 60, Wyandotte, Oklahoma 74370, Phone: (918) 678-2297, Fax: (918) 678-3087, Email: krandall@wyandotte-nation.org, Eastern Oklahoma Region

Iowa

Iowa Tribe of Kansas, Chairperson, 3345 B. Thrasher Road, White Cloud, Kansas 66094, Phone: (785) 595-3258, Southern Plains Region

Iowa Tribe of Oklahoma, Janice Rowe-Kurak, Chairman, 335588 E. 750 Road, Perkins, Oklahoma 74059, (405) 547-2402, (405) 547-1032, Email: rowe-kurak@iowanation.org, Southern Plains Region

Iroquois, (See Cayuga/Seneca)

Cayuga Nation of New York, Anita Thompson—Assistant Administration, P.O. Box 803, Versailles, New York 14168, Phone: (315) 568-0750, Fax: (315) 568-0752, Email: anita.thompson@cayuganation-nsn.gov, Eastern Region

Iroquois, (See Oneida)

Oneida Indian Nation, Kim Jacobs—Nation Clerk, Box 1, Vernon, New York 13476, Phone: (315) 829-8337, Fax: (315) 829-8392, Email: kjacobs@oneida.nation.org, Eastern Region

Iroquois, (See Onondaga)

Onondaga Nation of New York, Council of Chiefs, P.O. Box 85, Nedrow, New York 13120, Phone: (315) 469-9196, Fax: (315) 492-4822, Eastern Region

Iroquois, (See Mohawk)

Saint Regis Mohawk Tribe, Clarissa Chatland—ICWA Program Coordinator, 412 State, Route 37, Akwesasne, New York 13655, Phone: (518) 358-4516, Fax: (518) 358-9258, Email:, clarissa.terrance-chatland@SRMT-nsn.gov, Eastern Region

Iroquois, (See Seneca)

Seneca Nation of Indians, Tracy Pacini, Child and Family Services Coordinator, 987 RC Hoag Drive, P.O. Box 500, Salamanca, New York 14779, Phone: (716) 945-5894, Fax: (716) 945-7881, Email: tracy.pacini@senecahealth.org, Eastern Region

Iroquois, (See Seneca/Tonawanda)

Tonawanda Band of Seneca, Roger Hill, Chief—Council of Chiefs, 7027 Meadville Road, Basom, New York 14013, Phone: (716) 542-4244, Fax: (716) 542-4008, Eastern Region

Iroquois, (See Tuscarora)

Tuscarora Nation of New York, Chief Leo Henry, Clerk, 206 Mount Hope Road, Lewistown, New York 14092, Phone: (716) 297-1148, Fax: (716) 297-7355, Eastern Region

Kalispel

Kalispel Tribe of Indians, Wendy L. Thomas, MSW, Support Services Director, 934 S. Gargeld Rd., Airway Heights, Washington 99001, Phone: (509) 789-7634, Cell: (509) 671-6972, Fax: (509) 789-7659, Email:, wthomas@camashealth.com, Northwest Region

Karuk, (See Tolowa/Yurok)

Elk Valley Rancheria, Chairperson, 2332 Howland Hill Road, Crescent City, California 95531, Phone: (707) 464-4680, Fax: (707) 465-2638, Email: evrlibrary@elk-valley.com, Pacific Region

Karuk

Karuk Tribe, Mike Edwards, Child and Family Services Director, Karuk Health Clinic, 1519 S. Oregon Street, Yreka, California 96097, Phone: (530) 842-9200 Ext: 6301, Fax: (530) 841-5150, Email: medwards@karuk.us, Pacific Region

Karuk, (See Shasta)

Quartz Valley Indian Tribe, Mary Gowen—ICWA Director, 13601 Quartz Valley Road, Fort Jones, California 96032, Phone: (530) 468-5907 Ext: 314, Fax: (530) 468-5608, Email: icwa@qvir.com, Pacific Region

Kashia, (See Pomo)

Kashia Band of Pomo Indians of the Stewarts Point Rancheria, Melissa Cerda—Administrative Assistant, 3535 Industrial Drive, Suite B-2, Santa Rosa, CA 95403, Telephone: (707) 591-0580, Fax: (707) 591-0583, Email: melissa@stewartspoint.org, Pacific Region

Kaw

Kaw Nation, Chairperson, Drawer 50, Kaw City, Oklahoma 74641, Phone: (580) 269-2552, Southern Plains Region

Keweenaw, (See Chippewa)

Keweenaw Bay Indian Community, Judy Heath, Social Service Director, 16429 Beartown Road, Baraga, Michigan 49908, Phone: (906) 353-4201, Fax: (906) 353-8171, Email: judy@kbic-nsn.gov, Midwest Region

Kickapoo

Kickapoo Tribe of Indians of the, Kickapoo Reservation in Kansas, Chairperson, P.O. Box 271, Horton, Kansas 66439, Phone: (785) 486-2131, Southern Plains Region

Kickapoo Tribe of Oklahoma, Jodi Michele Warrior, Indian Child Welfare Director, P.O. Box 469, McLoud, Oklahoma 74851, Phone: (405) 964-5426, Fax: (405) 964-5431, Email: jwarrior@kickapootribeofoklahoma.com, Southern Plains Region

Kickapoo Traditional Tribe of Texas, Connie Valenzuela—Indian Child Welfare Director, 286 Falcon Blvd., Eagle Pass, Texas 78852, Phone: (830) 776-5601, Fax: (830) 776-5605, Work Cell: (830) 513-2937, Email: connie.valenzuela@ktttribe.org, Southern Plains Region

Kiowa

Kiowa Tribe of Oklahoma, Richard Hernasy—ICWA Director, P.O. Box 369, Carnegie, Oklahoma 73015, Phone: (580) 654-2300, (580) 654-2363, Southern Plains Region

Klamath, (See Modoc/Yahooskin)

The Klamath Tribe, Jim Collins,—ICWA Specialist, P.O. Box 436, Chiloquin, Oregon 97624, Phone: (541) 783-2219 Ext: 137, Fax: (541) 783-7783, Email: jim.collins@klamathtribes.com, Northwest Region

Klamath, (See Modoc)

Modoc Tribe of Oklahoma, Regina Shelton—Tribal Protection, 625 6th SE, Miami, Oklahoma 74354, Phone: (918) 542-7890, Fax: (918) 542-7878, Eastern Oklahoma Region

Kootenai, (See Flathead/Salish)

Confederated Salish & Kootenai Tribes, Lena Young Running Crane—ICWA Specialist, Box 278, Pablo, Montana 59855, Phone: (406) 675-2700, Fax: (406) 275-2883, Northwest Region

Kumeyaay, (See Diegueno)

Ewiiaapaayp Band of Kumeyaay Indians, Will Micklin, CEO, Ewiiaapaayp Tribal Government, 4054 Willow Road, Alpine, California 91903, Phone: (619) 445-6315, Fax: (619) 445-9126, Pacific Region

Kumeyaay, (See Diegueno)

Jamul Indian Village, Charity White-Voth, Kumeyaay Family Services Director, Southern Indian Health Council, Inc., 4058 Willow Road, Alpine California 91903, Phone: (619) 445-1188, Fax: (619) 445-0765, Pacific Region

Lenapi, (See Delaware/Munsee)

The Delaware Nation, Lydia Ramirez, ICW Director, P.O. Box 825, Anadarko, Oklahoma 73005, Phone: (405) 247-2448 Ext: 1152, Fax: (405) 247-5942, Email: lramirez@delawarenation.com, Southern Plains Region

Luiseno

La Jolla Band of Luiseno Indians, Manager Tribal Family Services, Indian Health Council, Inc., P.O. Box 406, Pauma Valley, CA 92061, Telephone: (760) 749-1410, Fax: (760) 749-5518, Pacific Region

Pauma & Yuima Band of Mission Indians, Maria Garcia—ICWA Manager, Department of Social Services, 35008 Pala-Temecula Road, PMB 50, Pala, California 92059, Phone: (760) 891-3542, Pacific Region

Pechanga Band of Mission Indians, Mark Macarro—Spokesman, P.O. Box 1477, Temecula, California 92593, Phone: (951) 676-2768, Pacific Region

Luiseno, (See Cahuilla/Mission)

Soboba Band of Luiseno Indians, Tribal Social Worker, Sobboba Social Services Department, P.O. Box 487, San Jacinot, California 92581, Phone: (707) 463-2644, Fax: (707) 487-1738, Pacific Region

Luiseno, (See Chemehuevi/Mission)

Twenty-Nine Palms Band of Mission Indians, Executive Director, Indian Child & Family Services, P.O. Box 2269, Temecula, California 92590, Phone: (951) 676-8832, Fax: (951) 676-3950, Pacific Region

Lummi

Lummi Nation, Amy Finkbonner, Lummi Children's Services Manager, P.O. Box 1024, Ferndale, Washington 98248, Phone: (360) 384-2324, Fax: (360) 380-2157, Email: amyf@lummi-nsn.gov, Northwest Region

Maidu

Tyme Maidu Tribe (Berry Creek Rancheria), Terilynn Steele—ICWA Supervisor, 5 Tyme Way, Oroville, California 95966, Phone: (530) 534-3859, Fax: (530) 534-1151, Email: jessebrown@berrycreekrancheria.com, Pacific Region

Maidu, (See Me-Wuk/Miwok)

Enterprise Rancheria, Shari Ghalayini, ICWA Representative, 2133 Monte Vista Ave., Oroville, California 95966, Phone: (530) 532-9214, Fax: (530) 532-1768, Email: sharig@enterpriserancheria.org, Pacific Region

Maidu

Greenville Rancheria, Dr. Gonzalo Gonzalez, Behavioral Health, Patty Allen, Chief Financial Officer, Crystal Rios, Tribal Secretary/Tresurer, Faustina Lopez, Tribal Representative, P.O. Box 279, Greenville, California 95947, Phone: (530) 284-7990, Fax: (530) 284-7299, Email: ggonzalez@greenvillerancheria.com, pallen@greenvillerancheria.com, crios@greenvillerancheria.com, flopez@greenvillerancheria.com, Pacific Region

Maidu, (See Mechoopda)

Mechoopda Tribe, Susan Bromley—Office Manager, 125 Mission Ranch Boulevard, Chico, California 95926, Phone: (530) 899-8922 Ext: 210, Fax: (530) 899-8517, Email: sbromley@mechoopda-nsn.gov, Pacific Region

Maidu

Mooretown Rancheria, Francine McKinley—ICWA Director, 1 Alverda Drive, Oroville, California 95966, Phone: (530) 533-3625, Fax: (530) 533-3625, Email: icwa@mooretown.org, Pacific Region

Maidu, (See Paiute/Pit River)

Susanville Rancheria, Chairperson—ICWA Director, 745 Joaquin Street, Susanville, California 96130, Phone: (530) 257-6264, Fax: (530) 257-7986, Pacific Region

Maidu, (See Miwok/Me-Wuk)

Auburn Rancheria, Vevila Hussey, United Auburn Indian Community, 935 Indian Rancheria Road, Auburn, California 95603, Phone: (916) 251-1550, Fax: (530) 887-1028, Pacific Region

Makah

Makah Indian Tribal Council, Robin Denney, Social Service Manager, Sandy Soeneke, ICW Caseworker, P.O. Box 115, Neah Bay, Washington 98357, Phone: (360) 645-3251/3257, Fax: (360) 645-2685/2806, Northwest Region

Maliseet

Houlton Band of Maliseet Indians, Tiffany Randall—ICWA Director, 13-2 Clover Court, Hourton, Maine 04730, Phone: (207) 694-0213, Fax: (207) 532-7287, Email: icwa.director@maliseets.com, Eastern Region

Mandan, (See Arikara/Three Affiliated), Tribes/Hidatsa

Three Affiliated Tribes, (Mandan, Arikara & Hidatsa), Katherine Felix—ICWA Specialist, 404 Frontage Road, New Town, North Dakota 58763, Phone: (701) 627-4781, Fax: (701) 627-5550, Email: kfelix@mhanation.com, Great Plains Region

Maricopa, (See Pima)

Gila River Indian Community, Byron Donahue, ICWA Case Manager, P.O. Box 427, Sacaton, Arizona 85147, Phone: (520) 562-3396, Fax: (520) 562-3633, Email: byron.donahue@gric.nsn.us, Western Region

Maricopa, (See Pima)

Salt River Pima-Maricopa Indian Community, Office of fGeneral Counsel, Cheryl Scott—Asst. Attorney General Counsel, 10,005 East Osborn Road, Scottsdale, Arizona 85256, Phone: (480) 362-7448, Fax: (480) 362-7591, Email: cheryl.scott@SRPMIC-nsn.gov, Western Region

Maidu, (See Mechoopda)

Mechoopda Tribe, Susan Bromley—Office Manager, 125 Mission Ranch Boulevard, Chico, California 95926, Phone: (530) 899-8922 Ext: 210, Fax: (530) 899-8517, Email: sbromley@mechoopda-nsn.gov, Pacific Region

Menominee

Menominee Indian Tribe of Wisconsin, Mary Husby—Director of Social Services, P.O. Box 910, Keshena, Wisconsin 54135, Phone: (715) 799-5161, Fax: (715) 799-6061, Email: mhusby@mitw.org, Midwest Region

Maidu, (See Miwok/Me-Wuk)

Auburn Rancheria, Vevila Hussey, United Auburn Indian Community, 935 Indian Rancheria Road, Auburn, California 95603, Phone: (916) 251-1550, Fax: (530) 887-1028, Pacific Region

Pomo, (See Me-Wuk/Miwok)

Buena Vista Rancheria of Me-Wuk Indians, Penny Arciniaga—Tribal Member Services, 1418 20th Street, Suite 200, Sacramento, California 95811, Phone: (916) 491-0011, Fax: (916) 491-0012, Email: penny@buenavistatribe.com, Pacific Region

Me-Wuk, (See Miwok)

California Valley Miwok Tribe, As of date, there is no recognized gervernment ofr this federally recognized tribe.

Me-Wuk, (See Miwok)

Cher-Ae Heights Indian Community of the Trinidad Rancheria, Amy Atkins—ICWA Representative, P.O. Box 630, Trinidad, California 95570, Phone: (707) 677-0211, Fax: (707) 677-3921, Email: aatkins@trinidadrancheria.com, Pacific Region

Miwok, (See Me-Wok)

Chicken Ranch Rancheria, Jan Costa—Tribal Administrator, P.O. Box 1159, Jamestown, California 95327, Phone: (209) 984-4806, Fax: (209) 984-5606, Email: chixrnch@mlode.com, Pacific Region

Maidu, (See Me-Wuk/Miwok)

Enterprise Rancheria, Shari Ghalayini—ICWA Representative, 2133 Monte Vista Ave., Oroville, California 95966, Phone: (530) 532-9214, Fax: (530) 532-1768, Email: sharig@enterpriserancheria.org, Pacific Region

Me-Wuk, (See Miwok/Pomo)

Federated Indians—Graton Rancheria, Lara Walker-Human Services, 6400 Redwood Drive, Suite 300, Rohnert Park, California 94928, Phone: (707) 566-2288, Fax: (707) 566-2291, Email: lwalker@gratonrancheria.com, Pacific Region

Me-Wuk, (See Miwok)

Ione Band of Miwok Indians, Pamela Baumgartner—Tribal Administrator, P.O. Box 699, Plymouth, California 95669, Phone: (209) 245-5800 Ext: 5801, Email: pam@ionemiwok.org, Pacific Region

Me-Wuk

Jackson Rancheria, Kimberly Heffron—Tribal Secretary, P.O. Box 1090, Jackson, California 95642, Phone: (209) 223-1935, Fax: (209) 223-5366, Email: kheffron@jacksonrancheria-nsn.gov, Pacific Region

Shingle Springs Band of Miwok Indians, (Shingle Springs Rancheria), Malissa Tayaba, Director Social Services, P.O. Box 1340, Shingle Springs, California 95682, Phone: (530) 698-1400 or (530) 698-1436, Fax: (530) 676-8033, Email: mtayaba@ssband.org, Pacific Region

Tuolumne Band of Me-wuk Indians, Kevin Day, Tribal Chair, P.O. Box 699, Tuolumne, California 95379, Phone: (209) 928-5300, Fax: (209) 928-1677, Pacific Region

Wilton Rancheria, Mary Tarango, Tribal Chairperson, 9300 West Stockton Blvd. Ste., 205 Elk Grove, California 95758, Telephone: (916) 683-6000, Fax: (916) 683-6015, Pacific Region

Miami

Miami Tribe of Oklahoma, Callie Lankford, MSW, Social Services Director, P.O. Box 1326, Miami, Oklahoma 74355, Phone: (918) 541-1381, Fax: (918) 540-2814, Email: clankford@miamination.com, Eastern Oklahoma Region

Miccosukee

Miccosukee Tribe of Indians of Florida, J. Degaglia, Ph.D., N.C.C., L.M.H.C., Director Social Service Department, P.O. Box 440021, Miami, Florida 33144, Phone: (305) 223-8380 Ext: 2267, Fax: (305) 223-1011, Email: jd@miccosukeetribe.com, Eastern Region

Micmac

Aroostook Band of Micmacs, Tania M. Morey—ICWA Coordinator, 7 Northern Road, Presque Isle, Maine 04769, Phone: (207) 764-1972, Fax: (207) 764-7667, Email: tmorey@micmac-nsn.gov, Eastern Region

Mission, (See Cahuilla)

Augustine Band of Cahuilla Indians, Mary Ann Green—Chairperson, P.O. Box 846, Coachella, California 92236, Phone: (760) 398-4722, Pacific Region

Mission, (See Diegueno)

Barona Band of Mission Indians, Charity White-Voth, Kumeyaay Family Services Director, Southern Indian Health Council, Inc., 4058 Willow Road, Alpine California 91903, Phone: (619) 445-1188, Fax: (619) 445-0765, Pacific Region

Mission, (See Cahuilla)

Cabazon Band of Mission Indians, Chairman, 84-245 Indio Springs Drive, Indio, California 92201, Phone: (760) 342-2593, Pacific Region

Mission, (See Cahuilla)

Cahuilla Band of Mission Indians, Executive Director, Indian Child & Family Services, P.O. Box 2269, Temecula, California 92590, Phone: (951) 676-8832, Pacific Region

Mission, (See Diegueno)

Campo Band of Mission Indians, Charity White-Voth, Kumeyaay Family Services Director, Southern Indian Health Council, Inc., 4058 Willow Road, Alpine California 91903, Phone: (619) 445-1188, Fax: (619) 445-0765, Pacific Region

Mission

Inaja & Cosmit Band of Mission Indians, Tribal Family Services, Manager, Indian Health Services, Inc., P.O. Box 406, Pauma Valley, California 92061, Phone: (706) 749-1410, Pacific Region

Mission, (See Cahuilla/Cupeno)

Los Coyotes Band of Cahuilla & Cupeno Indians, Tribal Family Services, Manager, Indian Health Council, Inc., P.O. Box 406, Pauma Valley, California 92061, Phone: (760) 749-1410, Pacific Region

Mission, (See Diegueno)

La Posta Band of Mission Indians, Charity White-Voth, Kumeyaay Family Services Director, Southern Indian Health Council, Inc., 4058 Willow Road, Alpine California 91903, Phone: (619) 445-1188, Fax: (619) 445-0765, Pacific Region

Mission, (See Cahuilla/Cupeno)

Los Coyotes Band of Cahuilla &, Cupeno Indians, Tribal Family Services, Manager, Indian Health Council, Inc., P.O. Box 406, Pauma Valley, California 92061, Phone: (760) 749-1410, Pacific Region

Mission, (See Diegueno)

Manzanita Band of Mission Indians, Chairperson, P.O. Box 1302, Boulevard, California 91905, Phone: (619) 766-4930, Pacific Region

Mission, (See Diegueno)

Mesa Grande Band of Mission Indians, Tribal Family Services, Manager, Indian Health Services, Inc., P.O. Box 406, Pauma Valley, California 92061, Phone: (706) 749-1410, Pacific Region

Mission, (See Cahuilla)

Morongo Band of Cahuilla Mission Indians, Duke Steppe—Social Worker, 11581 Potrero Road, Banning, California 92220, Phone: (951) 849-4697, Pacific Region

Mission, (See Luiseno)

Pala Band of Mission Indians, Maria Garcia—ICWA Manager, Department of Social Services, 35008 Pala-Temecula Road, PMB 50, Pala, California 92059, Phone: (760) 891-3542, Pacific Region

Mission, (See Luiseno)

Pala Band of Mission Indians, Maria Garcia—ICWA Manager, Department of Social Services, 35008 Pala-Temecula Road, PMB 50, Pala, California 92059, Phone: (760) 891-3542, Pacific Region

Mission, (See Luiseno)

Pauma & Yuima Band of Mission Indians, Tribal Family Services, Manager, Indian Health Council, Inc., P.O. Box 406, Pauma Valley, California 92061, Phone: (760) 749-1410, Pacific Region

Mission, (See Luiseno)

Pechanga Band of Mission Indians, Mark Macarro—Spokesman, P.O. Box 1477, Temecula, California 92593, Phone: (951) 676-2768, Pacific Region

Mission, (See Cahuilla)

Ramona Band or Village of Cahuilla, Susan Reckker—Tribal Administrator, P.O. Box 391670, Anza, California 92539, Phone: (951) 763-4105, Fax: (951) 763-4325, Email: sreckker@ramonatribe.com, Pacific Region

Mission, (See Diegueno)

Rincon Band of Mission Indians, Tribal Family Services, Manager, Indian Health Services, Inc., P.O. Box 406, Pauma Valley, California 92061, Phone: (706) 749-1410, Pacific Region

Mission, (See Cahuilla)

Santa Rosa Band of Cahuilla Indians, Mayme Estrada—Chair, P.O. Box 609, Hemet, California 92546, Phone: (951) 658-5311, Fax: (951) 658-6733, Pacific Region

Mission, (See Chimash)

Santa Ynez Band of Chumash Indians, Caren Romero, Jess Montoya, ICWA Representative, Executive Director, Santa Ynez, California 93460, Phone: (805) 694-2671, Fax: (805) 686-2060, Email: cromero@sythc.com, Pacific Region

Mission, (See Diegueno)

Santa Ysabel Band of Mission Indians, Iipay Nation, Linda Ruis—Director, Santa Ysabel Social Services Department, P.O. Box 701, Santa Ysabel, California 92070, Phone: (760) 765-1106, Fax: (760) 765-0312, Pacific Region

Mission, (See Cahuilla/Luiseno)

Soboba Band of Luiseno Indians, Tribal Social Worker, Sobboba Social Services Department, P.O. Box 487, San Jacinot, California 92581, Phone: (707) 463-2644, Fax: (707) 487-1738, Pacific Region

Mission, (See Diegueno)

Sycuan Band of Mission Indians, Charity White-Voth, Kumeyaay Family Services Director, Southern Indian Health Council, Inc., 4058 Willow Road, Alpine California 91903, Phone: (619) 445-1188, Fax: (619) 445-0765, Pacific Region

Mission, (See Chemehuevi/Luiseno)

Twenty-Nine Palms Band of Mission Indians, Executive Director, Indian Child & Family Services, P.O. Box 2269, Temecula, California 92590, Phone: (951) 676-8832, Fax: (951) 676-3950, Pacific Region

Mission, (See Diegueno)

Viejas (Baron Long) Band of Mission Indians, Charity White-Voth, Kumeyaay Family Services Director, Southern Indian Health Council, Inc., 4058 Willow Road, Alpine California 91903, Phone: (619) 445-1188, Fax: (619) 445-0765, Pacific Region

Maidu, (See Miwok/Me-Wuk)

Auburn Rancheria, Vevila Hussey, United Auburn Indian Community, 935 Indian Rancheria Road, Auburn, California 95603, Phone: (916) 251-1550, Fax: (530) 887-1028, Pacific Region

Pomo, (See Me-Wuk/Miwok)

Buena Vista Rancheria of Me-Wuk Indians, Penny Arciniaga, Tribal Member Services, 1418 20th Street, Suite 200, Sacramento, California 95811, Phone: (916) 491-0011, Fax: (916) 491-0012, Email: penny@buenavistatribe.com, Pacific Region

Miwok, (See Me-Wok)

California Valley Miwok Tribe, As of date, there is no recognized gervernment ofr this federally recognized tribe., Pacific Region

Miwok, (See Me-Wuk)

Cher-Ae Heights Indian Community of the Trinidad Rancheria, Amy Atkins—ICWA Representative, P.O. Box 630, Trinidad, California 95570, Phone: (707) 677-0211, Fax: (707) 677-3921, Email: aatkins@trinidadrancheria.com, Pacific Region

Miwok, (See Me-Wok)

Chicken Ranch Rancheria, Jan Costa—Tribal Administrator, P.O. Box 1159, Jamestown, California 95327, Phone: (209) 984-4806, Fax: (209) 984-5606, Email: chixrnch@mlode.com, Pacific Region

Maidu, (See Me-Wuk/Miwok)

Enterprise Rancheria, Shari Ghalayini—ICWA Representative, 2133 Monte Vista Ave., Oroville, California 95966, Phone: (530) 532-9214, Fax: (530) 532-1768, Email: sharig@enterpriserancheria.org, Pacific Region

Me-Wuk, (See Miwok/Pomo)

Federated Indians—Graton Rancheria, Lara Walker-Human Services, 6400 Redwood Drive, Suite 300, Rohnert Park, California 94928, Phone: (707) 566-2288, Fax: (707) 566-2291, Email: lwalker@gratonrancheria.com, Pacific Region

Me-Wuk, (See Miwok)

Ione Band of Miwok Indians, Pamela Baumgartner—Tribal Administrator, P.O. Box 699, Plymouth, California 95669, Phone: (209) 245-5800 Ext: 5801, Email: pam@ionemiwok.org, Pacific Region

Miwok, (See Me-Wok)

Jackson Rancheria, Kimberly Heffron—Tribal Secretary, P.O. Box 1090, Jackson, California 95642, Phone: (209) 223-1935, Fax: (209) 223-5366, Email: kheffron@jacksonrancheria-nsn.gov, Pacific Region

Miwok

Shingle Springs Band of Miwok Indians, (Shingle Springs Rancheria), Malissa Tayaba—Director Social Services, P.O. Box 1340, Shingle Springs, California 95682, Phone: (530) 698-1400 or (530) 698-1436, Fax: (530) 676-8033, Email: mtayaba@ssband.org, Pacific Region

Me-Wuk, (See Miwok)

Tuolumne Band of Me-wuk Indians, Kevin Day, Tribal Chair, P.O. Box 699, Tuolumne, California 95379, Phone: (209) 928-5300, Fax: (209) 928-1677, Pacific Region

Me-Wuk, (See Miwok)

Wilton Rancheria, Mary Tarango, Tribal Chairperson, 9300 West Stockton Blvd. Ste., 205 Elk Grove, California 95758, Telephone: (916) 683-6000, Fax: (916) 683-6015, Pacific Region

Klamath, (See Modoc/Yahooskin)

The Klamath Tribe, Jim Collins,—ICWA Specialist, P.O. Box 436, Chiloquin, Oregon 97624, Phone: (541) 783-2219 Ext: 137, Fax: (541) 783-7783, Email: jim.collins@klamathtribes.com, Northwest Region

Modoc, (See Klamath)

Modoc Tribe of Oklahoma, Regina Shelton—Tribal Protection, 625 6th SE, Miami, Oklahoma 74354, Phone: (918) 542-7890, Fax: (918) 542-7878, Eastern Oklahoma Region

Mohawk, (See Iroquois)

Saint Regis Mohawk Tribe, Clarissa Chatland, ICWA Program Coordinator, 412 State, Route 37, Akwesasne, New York 13655, Phone: (518) 358-4516, Fax: (518) 358-9258, Email:, clarissa.terrance-chatland@SRMT-nsn.gov, Eastern Region

Mohegan

Mohegan Indian Tribe, Irene Miller—APRN, Director, Family Services, 5 Crow Hill Road, Uncasville, Connecticut 06382, Phone: (860) 862-6236, Eastern Region

Mohican, (See Munsee)

Stockbridge Munsee Community, Stephanie Bowman—ICWA Manager, Stockbridge Munsee Health and Wellness Center, W12802 County A, Bowler, Wisconsin 54416, Phone: (715) 793-4580, Fax: (715) 793-1312, Email: stephanie.bowman@mohican.com, Midwest Region

Chemehuevi, (See Colorado River/Hopi/Mojave/Navajo)

Colorado River Indian Tribes, Daniel L. Barbara, M.Ed.—Executive Director, Dept. of Health & Social Services, 12302 Kennedy Drive, Parker, Arizona 85344, Phone: (928) 669-6577, Fax: (928) 669-8881, Email: daniel.barbara@crit-dhs.org, Western Region

Mojave

Fort Mojave Indian Tribe, Melvin Lewis Sr.—Director, 500 Merriman Avenue, Needles, California 92363, Phone: (760) 629-3745, Western Region

Mono

Big Sandy Rancheria Band of Western Mono Indians, Dorothy Barton, MSW, ICWA/Social Services Coordinator, P.O. Box 337, Auberrry , California 93602, Phone: (559) 855-4003 Ext: 215, Fax: (559) 855-4129, Email: dbarton@bsrnation.com, Pacific Region

Cold Springs Rancheria, Terri Works—ICWA Director, 32861 Sycamore Rd., Suite #300, Tollhouse, California 93667, Phone: (559) 855-5043/(559) 855-8360, Fax: (559) 855-4445, Email: csrancheriaterri@tc.net, Pacific Region

North Fork Rancheria of Mono Indians, Elaine Fink—Tribal Chairwoman, P.O. Box 929, North Fork, California 93643, Phone: (559) 877-2484, Fax: (559) 877-2461, Email: efink@northforkrancheria-nsn.gov, Pacific Region

Mono, (See Yokut)

Tule River Reservation, Lolita Garfield, MSW, Director Family Social Services, 340 North Reservation Road, Porterville, California 93258, Phone: (559) 781-4271 ext: 1013, Fax: (559) 791-2122, Email: icwadir@tulerivertribe-nsn.gov, Pacific Region

Muckleshoot

Muckleshoot Indian Tribe, Sharon Hamilton-Curley, Human Services Division Director, 39015 172nd Avenue, SE, Auburn, Washington 98092, Phone: (253) 876-3155, Fax: (253) 876-2855, Email: Sharon.curley@muckleshoot.nsn.us, Northwest Region

Munsee, (See Delaware/Lenapi)

The Delaware Nation, Lydia Ramirez, ICW Director, P.O. Box 825, Anadarko, Oklahoma 73005, Phone: (405) 247-2448 Ext: 1152, Fax: (405) 247-5942, Email: lramirez@delawarenation.com, Southern Plains Region

Munsee, (See Mohican)

Stockbridge Munsee Community, Stephanie Bowman—ICWA Manager, Stockbridge Munsee Health and Wellness Center, W12802 County A, Bowler, Wisconsin 54416, Phone: (715) 793-4580, Fax: (715) 793-1312, Email: stephanie.bowman@mohican.com, Midwest Region

Narragansett

Narragansett Tribe of Rhode Island, Wenoah Harris—Director, Tribal Child and Family Services, 4375B South County Trail, P.O. Box 268, Charlestown, Rhode Island 02813, Phone: (401) 364-1100 ext: 233, Cell: (401) 862-8863, Fax: (401) 364-1104, Email: Wenonah@nithpo.com, Eastern Region

Chemehuevi, (See Colorado River/Hopi/Mojave/Navajo)

Colorado River Indian Tribes, Daniel L. Barbara, M.Ed.—Executive Director, Dept. of Health & Social Services, 12302 Kennedy Drive, Parker, Arizona 85344, Phone: (928) 669-6577, Fax: (928) 669-8881, Email: daniel.barbara@crit-dhs.org, Western Region

Navajo

Navajo Nation, Regina Yazzie M.S.W., Program Director, Navajo Children and Family Services (ICWA), P.O. Box 1930, Window Rock, Arizona 86515, Phone: (928) 871-6806, Fax: (928) 871-7667, Email: reginayazzie@nndss.org, Navajo Region

Ramah Navajo School Board, Inc., Ms. Marlene Martinez, Administrative Services Director, P.O. Box 10, Pine Hill, New Mexico 87357, Phone; (505) 775-3256, Fax: (505) 775-3240, Email: marlene@rnsb.k12.nm.us, Navajo Region

Nez Perce

Nez Perce Tribe, Janet Bennett—ICWA Caseworker, P.O. Box 365, Lapwai, Idaho 83540, Phone: (208) 843-2463, Fax: (208) 843-9401, Northwest Region

Nisqually

Nisqually Indian Community, Raymond Howell—ICWA Contact, 4820 She-Nah-Num Drive, SE, Olympia, Washington 98513, Phone: (360) 456-5221, Fax: (360) 407-0017, Northwest Region

Nomlaki, (See Wintun)

Cortina Rancheria, (Cortina Indian Rancheria), Charlie Wright—Tribal Chairman, P.O. Box 1630, Williams, California 95987, Phone: (530) 473-3274, Fax: (530) 473-3301, Pacific Region

Nomlaki, (See Wintun)

Paskenta Band of Nomlaki Indians, Ines Crosby—Tribal Administrator, P.O. Box 398, 1012 South Street, Orland, California 95963, Phone: (530) 865-2010, Fax: (530) 865-1870, Email: office@paskenta.org, Pacific Region

Nomlaki, (See Pit River/Pomo/Wintun/, Wailaki/Yuki

Round Valley Indian Tribes, Kenneth Wright—Tribal President, 77826 Covelo Road, Covelo, California 95428, Phone: (707) 983-6126, Fax: (707) 983-6128, Email: administrator@rvit.org, Pacific Region

Nooksack

Nooksack Indian Tribe, Bernadine Roberts—ICW Program Manager, 5061 Deming Road, Deming, Washington 98244, Phone: (360) 306-5090, Fax: (360) 306-5099, Email: broberts@nooksack-nsn.gov, Northwest Region

Odawa

Little Traverse Bay Band of Odawa Indians, Denneen Smith—Human Services Director, 7500 Odawa Circle, Harbor Springs, Michigan 49740, Phone: (213) 242-1620, Fax: (213) 242-1635, Midwest Region

Ojibwe, (See Chippewa)

Bad River Band of Lake Superior Chippewa, Esie Leoso-Corbine—ICWA Director, P.O. Box 55, Odanah, Wisconsin 54861, Phone: (715) 682-7135 Ext: 1414, Fax: (715) 685-7888, Email: bricw@badriver-nsn.gov, Midwest Region

Ojibwe, (See Chippewa)

Leech Lake Band of Ojibwe, Tammie Finn—Child Welfare Director, 115 Sixth Street NW, Suite E, Cass Lake, Minnesota 56633, Phone: (218) 335-8240, Fax: (218) 335-3779, Email: tamie.finn@llojibwe.com, Midwest Region

Ojibwe, (See Chippewa)

Mille Lacs Band of Ojibwe, Ryan Champagne, Director of Family Services, MilleLacs Band Government Center, 43408 Oodena Drive, Onamia, Minnesota 56359, Phone: (320) 532-7776 Ext: 7762, Fax: (320) 532-7583, Email: ryan.champagne@millelacsband.com, Midwest Region

Ojibwe, (See Chippewa)

St. Croix Tribe of Wisconsin, Donna Churchill—Director, 24663 Angeline Avenue, Webster, Wisconsin 54893, Phone: (715) 349-2195, Fax: (715) 349-8665, Email: donnac@stcroixtribalcenter.com, Midwest Region

Omaha

Omaha Tribe of Nebraska, Gwen Vargas Porter—ICWA Specialist, P.O. Box 500, Macy, Nebraska 68039, Phone: (402) 837-5261, Fax: (402) 837-5263, Email: gporter@omahatribe.com, Gwen.porter@nebraska.gov, Great Plains Region

Oneida

Oneida Tribe of Indians of Wisconsin, Rhonda Tousey—Assistant Director, Children and Family Services, P.O. Box 365, Oneida, Wisconsin 54155, Phone: (920) 490-3724, Fax: (920) 490-3820, Email: rtousey@oneidanation.org, Midwest Region

Oneida, (See Iroquois)

Oneida Indian Nation, Kim Jacobs—Nation Clerk, Box 1, Vernon, New York 13476, Phone: (315) 829-8337, Fax: (315) 829-8392, Email: kjacobs@oneida.nation.org, Eastern Region

Onondaga, (See Iroquois)

Onondaga Nation of New York, Council of Chiefs, P.O. Box 85, Nedrow, New York 13120, Phone: (315) 469-9196, Fax: (315) 492-4822, Eastern Region

Osage

Osage Nation, Ann Davis—Social Work Supervisor, 255 Senior Drive, Pawhuska, Oklahoma 74056, Phone: (918) 287-5218, Fax: (918) 287-5231, Email: edavis@osagetribe.org, Eastern Oklahoma Region

Otoe

Otoe-Missouria Indian Tribe of Oklahoma, Ada Mohojah—Social Services Director, 8151 Highway 177, Red Rock, Oklahoma 74651, Phone: (580) 723-4466 Ext: 256, Cell: (580) 307-7303, Fax: (580) 723-1016, Email: amehojah@omtribe.org, Southern Plains Region

Ottawa, (See Chippewa/, Peshawbestown)

Grand Traverse Band of Ottawa and Chippewa Indians, Helen Cook, Anishinaabek Family Services Supervisor, 2605 N. West Bay Shore Drive, Peshawbestown, Michigan 49682-9275, Phone: (231) 534-7681, Fax: (231) 534-7706, Email: helen.cook@gtbindians.com, Midwest Region

Ottawa

Little River Band of Ottawa Indians, Inc. Eugene Zeller—Tribal Prosecutor, 3031 Domres Road, Manistee, Michigan 49660, Phone: (231) 398-3384, Fax: (231) 398-3387, Email: gzeller@lrboi.com, Midwest Region

Ottawa Tribe of Oklahoma, Roy A. Ross—Social Service/CPS Director, P.O. Box 110, Miami, Oklahoma 74354, Phone: (918) 540-1536, Fax: (918) 542-3214, Eastern Oklahoma Region

Paiute, (See Shoshone)

Big Pine Paiute Tribe, Rita Mendoza, Tribal Court Clerk/ICWA Representative, P.O. Box 700, 825 S. Main Street, Big Pine, California 93513, Phone: (760) 938-2003, Fax: (760) 938-2942, Email: r.mendoza@bigpinepaiute.org, Pacific Region

Paiute, (See Shoshone)

Bishop Paiute Tribe, Margaret L. Romero—ICWA Specialist, 50 TuSu Lane, Bishop, California 93514, Phone: (760) 873-3584, Fax: (760) 873-4143, Email: Margaret.romero@bishoppaiute.org, Pacific Region

Paiute

Bridgeport Indian Colony, Ron Eagleye Johnny—Tribal Administrator, P.O. Box 37, 355 Sage Brush Drive, Bridgeport, California 93517, Phone: (760) 932-7083, Fax: (760) 932-7846, Email: admin@bridgeportindiancolony.com, Pacific Region

Burns Paiute Tribe, Mazie Googles—ICWA Coordinator, 100 Pasigo Street, Burns, Oregon 97720, Phone: (541) 573-7312 Ext: 228, Fax: (541) 573-1542, Email: GogglesMG@burnspaiute-nsn.gov, Northwest Region

Cedarville Rancheria, Duanna Knighton—Tribal Administrator, 300 West First Street, Alturas, California 96101, Phone: (530) 223-3969, Fax: (530) 223-4776, Email: cedranch@citlink.net, Pacific Region

Paiute, (See Warm Springs/Wasco/, Washoe)

Confederated Tribes of Warm Springs Reservation, Warms Springs Tribal Court, Chief Judge Lola Sohappy, ICWA Contact, P.O. Box 850, Warm Springs, Oregon 97761, Phone; (541) 553-3454, Fax: (541) 553-3281, Northwest Region

Paiute, (See Shoshone)

Fallon Paiute Shoshone Tribe, Fallon Business Council, Bonnie Rushford—Social Service Director, 1007 Rio Vista, Fallon, Nevada 89406, Phone: (775) 423-1215, Fax: (775) 423-8960, Email: ssdirector@fpst.org, Western Region

Paiute

Fort Bidwell Indian Community, Mariellen Sam, ICWA Representative/Enrollment Officer, P.O. Box 129, Fort Bidwell, California 96112, Phone: (530) 279-6310, Fax: (530) 279-2233, Pacific Region

Fort Independence Indian Reservation, Israel Naylor—Tribal Chairman, P.O. Box 67, 131 North Hwy 395, Independence, California 93526, Phone: (760) 878-5160, Fax: (760) 878-2311, Email: israel@fortindependence.com, Pacific Region

Paiute, (See Shoshone)

Ft. McDermitt Paiute-Shoshone Tribes, Dee Crutcher, ICWA Advocate-Human Services Program, P.O. Box 68, McDermitt, Nevada 89421, Phone: (775) 532-8263, Fax: (775) 532-8060, Email: deecrutcher@gmail.com, Western Region

Paiute

Kaibab Band of Paiute Indians, Matt Lyons-Social Services, Lisa Stanfield—Secretary, Lorraine Benn—Enrollment, HC 65- Box 2, Fredonia, Arizona 86022, Phone: (928) 643-8320 (Matt), (928) 643-8336 (Lisa), (928) 643-7245 (Lorraine), Fax: (928) 643-7245, Email: mlyons@kaibabpaiute-nsn.gov; lstanfield@kaibabpaiute-nsn.gov; lbenn@kaibabpaiute-nsn.gov, Western Region

Las Vegas Paiute Tribe, Ruth Fite-Patrick, Social Service Caseworker, 1257 Paiute Circle, Las Vegas, Nevada 89106, Phone: (702) 382-0784 Ext: 2236, Fax: (702) 384-5272, Email: rfitepatrick@lvpaiute.com, Western Region

Paiute, (See Shoshone)

Lone Pine Paiute Shoshone Reservation, Kathy Bancroft, Enrollment Committee Chairperson, P.O. Box 747, Lone Pine, California 96545, Phone: (760) 876-1034, Fax: (760) 876-8302, Pacific Region

Paiute

Lovelock Paiute Tribe, Victor Mann—Chairman, 201 Bowean Street, Lovelock, Nevada 89419, Phone: (775) 273-7861, Fax: (775) 273-3802, Western Region

Moapa Band of Paiutes, Dawn M. Bruce—Social Services Director, P.O. Box 340, Moapa, Nevada 89025, Phone: (702) 865-2708, Fax: (702) 864-0408, Email: mbopsocialservices@mvdsl.com, Western Region

Paiute, (See Shoshone)

Northwestern Band of Shoshoni Nation, Lawrence Honena—ICWA Contact, 427 North Main, Suite 101, Pcatello, Idaho 83204, Phone: (208) 478-5712, Fax: (208) 478-5713, Northwest Region

Paiute

Paiute Indian Tribe of Utah, Tyler Goddard—Behavioral Care Director, 440 North Paiute Drive, Cedar City, Utah 84721, Phone: (435) 586-1112 Ext: 310, Fax: (435) 867-1516, Email: tyler.goddard@ihs.gov, Western Region

Pyramid Lake Paiute Tribe, Nikki Isaacs, Ph.D.—Social Service Director, P.O. Box 256, Nixon, Nevada 89424, Phone: (775) 574-1047, Fax: (775) 574-1052, Email: nisaacs@plpt.nsn.us, Western Region

Paiute, (See Shoshone/Washoe)

Reno-Sparks Indian Colony, Jane Smith—Human Services Assistant, 405 Golden Lane, Reno, Nevada 89502, Phone: (775) 329-5071, Fax: (775) 785-8758, Email: jsmith@rsic.org, Western Region

Paiute

San Juan Southern Paiute Tribe, Savania Tsosie—Social Worker, 180 North 200 East, Suite 111, St. George, UT 84770, Phone: (435) 674-9720, Fax: (435) 674-9714, Email: savania.tsosie@bia.gov, Western Region

Paiute, (See Shoshone)

Shoshone-Paiute Tribes of Duck Valley, Lanette Bitsilly—Social Worker, P.O. Box 219, Owyhee, Nevada 89832, Phone: (775) 757-2253, Fax: (775) 757-2910, Email: bitsilly.lanette@shopai.org, Western Region

Summit Lake Paiute Tribe, Jerri Lynn Barlese—Council Secretary/Treasurer, 1708 H Street, Sparks, Nevada 89431, (775) 827-9670, (775) 827-9678, Email: jerrilynn.barlese@summitlaketribe.org, Western Region

Paiute, (See Maidu/Pit River)

Susanville Rancheria, Chairperson—ICWA Director, 745 Joaquin Street, Susanville, California 96130, Phone: (530) 257-6264, Fax: (530) 257-7986, Pacific Region

Paiute, (See Shoshone)

Timbi-sha Shoshone Tribe, Wally Eddy, 621 West Line Street, Suite 109 Bishop, CA 93514, Telephone: (760) 872-3614, Fax: (760) 872-3670, Email: icwa@timbisha.com, Pacific Region

Paiute

Utu Utu Gwaitu Paiute Tribe, Adora L. Saulque—Vice-Chairperson, 25669 Hwy 6 PMB I, Benton, California 93512, Phone: (760) 933-2321, Fax: (760) 933-2412, Email: bentonpaiutetribe@hughes.net, adorasaulque@hughes.net, Pacific Region

Walker River Paiute Tribe, Elliott Aguilar—ICWA Specialist, P.O. Box 146, Schurz, Nevada 89427, Phone: (775) 773-2058 Ext: 11, Email: eaguilar@wrpt.us, Western Region

Paiute, (See Shoshone)

Winnemucca Tribe, Chairman, P.O. Box 1370, Winnemucca, Nevada 89446, Western Region

Paiute

Yerington Paiute Tribe, Stan Dodd—Human Services Director, 171 Campbell Lane, Yerington, Nevada 89447, Phone: (775) 463-7705, Fax: (775) 463-5929, Email: sdodd@ypt-nsn.gov, Western Region

Papago

Ak-Chin Indian Community, Carole Lopez—Enrollment Specialist, 42507 West Peters + Nall Road, Maricopa, Arizona 85318, Phone: (520) 568-1000, (520) 568-1001, Email: clopez@ak-chin.nsn.us, Western Region

Papago, (See Tohono O'odham)

Tohono O'Odham Nation, Jonathan L. Jantzen—Attorney General, P.O. Box 830, Sells, Arizona 85634, Phone: (520) 383-3410, Fax: (520) 383-2689, Email: jonathan.jantzen@tonation-nsn.gov, Western Region

Passamaquoddy

Passamaquaddy Indian Township, Dolly Barnes, LCSW—Director, Child and Family Services, P.O. Box 301, Princeton, Maine 04668, Phone: (207) 796-6134, Fax: (207) 796-5606, Eastern Region

Passamaquaddy Tribe-Pleasant Point, Molly Newell, Sipayik Human Services Director, P.O. Box 343, Perry, Maine 04667, Phone: (207) 853-2600 Ext: 258, Fax: (207) 853-9618, Email: molly@wabanaki.com, Eastern Region

Pawnee

Pawnee Tribe of Oklahoma, Joanna (Jodi) Flanders, BSW, MSW, ICW Coordinator, P.O. Box 470, Pawnee, Oklahoma 74058, Phone: (918) 763-3873, Fax: (918) 762-6453, Email: jflanders@pawneenation.org, Southern Plains Region

Penobscot

Penobscot Indian Nation of Maine, Sonya LaCoute-Dana, Director of Social Services, P.O. Box 446, Old Town, Maine 04468, Phone: (207) 817-3164, Fax: (207) 817-3166, Email: sonyallacoute-dana@penobscotnation.org, Eastern Region

Peoria

Peoria Tribe of Indians of Oklahoma, Doug Journeycake, Indian Child Welfare Director, P.O. Box 1527, Miami, Oklahoma 74354, Phone: (918) 540-2535, Fax: (918) 540-3538, Email: djourneycake@peoriatribe.com, Eastern Oklahoma Region

Pequot

Mashantucket Pequot Tribal Nation, Valerie Burgess—Director, Child Protective Services, 102 Muhshee Mahchaq, P.O. Box 3313, Mashantucket, Connecticut 06338, Phone: (860) 396-2007, Fax: (860) 396-2144, Email: vburgess@mptn-nsn.gov, Eastern Region

Peshawbestown, (See Chippewa/Ottawa)

Grand Traverse Band of Ottawa and Chippewa Indians, Helen Cook, Anishinaabek Family Services Supervisor, 2605 N. West Bay Shore Drive, Peshawbestown, Michigan 49682-9275, Phone: (231) 534-7681, Fax: (231) 534-7706, Email: helen.cook@gtbindians.com, Midwest Region

Maricopa, (See Pima)

Gila River Indian Community, Byron Donahue, ICWA Case Manager, P.O. Box 427, Sacaton, Arizona 85147, Phone: (520) 562-3396, Fax: (520) 562-3633, Email: byron.donahue@gric.nsn.us, Western Region

Maricopa, (See Pima)

Salt River Pima-Maricopa Indian Community, Office of fGeneral Counsel, Cheryl Scott—Asst. Attorney General Counsel, 10,005 East Osborn Road, Scottsdale, Arizona 85256, Phone: (480) 362-7448, Fax: (480) 362-7591, Email: cheryl.scott@SRPMIC-nsn.gov, Western Region

Pit River

Alturas Rancheria, Chairperson, 900 Running Bear Rd., Yreka, California 96097, Phone: (530) 949-9877, Pacific Region

Pit River Reservation, Coordinator—ICWA Program, 36970 Park Avenue, Burney, California 96013, Phone: (530) 335-5530, Fax: (530) 335-3140, Pacific Region

Pit River, (See Wintun/Yana)

Redding Rancheria, Director, Social Services, 2000 Rancheria Road, Redding, California 96001-5528, Phone: (530) 225-8979, Pacific Region

Nomlaki, (See Pit River/Pomo/Wintun/, Wailaki/Yuki

Round Valley Indian Tribes, Kenneth Wright, Tribal President, 77826 Covelo Road, Covelo, California 95428, Phone: (707) 983-6126, Fax: (707) 983-6128, Email: administrator@rvit.org, Pacific Region

Pit River, (See Maidu/Paiute)

Susanville Rancheria, Chairperson—ICWA Director, 745 Joaquin Street, Susanville, California 96130, Phone: (530) 257-6264, Fax: (530) 257-7986, Pacific Region

Pomo

Big Valley Rancheria, ICWA, 2726 Mission Rancheria Road, Lakeport, California 95453, Phone: (707) 263-3924, Fax: (707) 263-3977, Email: resparza@big-valley.net, Pacific Region

Pomo, (See Me-Wuk/Miwok)

Buena Vista Rancheria of Me-Wuk Indians, Penny Arciniaga—Tribal Member Services, 1418 20th Street, Suite 200, Sacramento, California 95811, Phone: (916) 491-0011, Fax: (916) 491-0012, Email: penny@buenavistatribe.com, Pacific Region

Pomo, (See Me-Wuk/Miwok)

California Valley Miwok Tribe, As of date, there is no recognized gervernment ofr this federally recognized tribe., Pacific Region

Pomo

Cloverdale Rancheria, Marcellena Becerra—ICWA Advocate, 555 S. Cloverdale Blvd., Cloverdale, California 95425, Phone: (707) 894-5775, Cell: (707) 953-9954, Fax: (707) 894-5727, Pacific Region

Coyote Valley Band of Pomo Indians, Melinda Hunter, Health & Human Service Director, 7601 North State Street, P.O. Box 39, Redwood Valley, California 95470, Phone: (707) 472-2202, Fax: (707) 485-1416, Email: tribalcouncilmember@coyotevalleytribe.com, Pacific Region

Dry Creek Rancheria, Percy Tejada—ICWA Advocate, P.O. Box 607, Geyserville, California 95441, Phone: (707) 522-4248, Fax: (707) 5224287, Email: percyt@drycreekrancheria.com, Pacific Region

Elem Indian Colony, Nathan M. Brown II, Chairman, P.O. Box 757, Clearlake Oaks, California 95423, Phone: (707) 295-6131, Fax: (707) 263-0120, Email: nathanmbrown@hughes.net, Pacific Region

Me-Wuk, (See Miwok/Pomo)

Federated Indians—Graton Rancheria, Lara Walker-Human Services, 6400 Redwood Drive, Suite 300, Rohnert Park, California 94928, Phone: (707) 566-2288, Fax: (707) 566-2291, Email: lwalker@gratonrancheria.com, Pacific Region

Pomo

Guidiville Band of Pomo Indians, Merlene Sanchez—Tribal Chairperson, P.O. Box 339, Talmage, California 95481, Phone: (707) 462-3682, (707) 462-3183, Email: admin@guidiville.net, Pacific Region

Habematolel Pomo of Upper Lake, Angelina Arroyo—ICWA Advocate, 375 E. Hwy 20, Suite “I”, Upper lake, California 95485, Phone: (707) 275-0737, Fax: (707) 275-0757, Email: tribaladmin@upperlakepomo.com, Executive_secretary@upperlakepomo.com, Pacific Region

Hopland Band of Pomo Indians, Kathy Fisher, Director Health & Social Services, 3000 Shanel Road, Hopland, California 95449, Phone: (707) 472-2100 Ext: 1107, Fax: (707) 472-2110, Email: kfisher@hoplandtribe.com, Pacific Region

Laytonville Rancheria, Cherie Smith-Gibson, Tribal Administrator, P.O. Box 1239, Laytonville, California 95454, Phone: (707) 984-6197 Ext: 104, Fax: (707) 984-6201, Email: ta@cahto.org, Pacific Region

Lower Lake Rancheria, Chairperson, P.O. Box 3162, Santa Rosa, California 95402, Phone: (707) 575-5586, Pacific Region

Lytton Rancheria, Margie Mejia—Chairwoman, 437 Aviation Blvd., Santa Rosa, California 95403, Phone: (707) 575-5917, Fax: (707) 575-6974, Pacific Region

Machester-Point Arena Band of Pomo Indians, Christine Dukatz, ICWA Director/Tribal Administrator, P.O. Box 623, Point Arena, California 95468, Phone: (707) 882-2788, Fax: 707) 882-3417, Email: christimarie@earthlink.net, Pacific Region

Middletown Rancheria, Ursula Simon—ICWA Director, P.O. Box 1829, Middletown, California 65461, Phone: (707) 987-8288, Fax: (707) 987-8205, Email: usimon@middletownrancheria.com, Pacific Region

Pinoleville Pomo Nation, Lenora Steele—Self Governance Director, 500 B Pinoleville Drive, Ukiah, California 95482, Phone: (707) 463-1454, Fax: (707) 463-6601, Email: lenora@penoleville-nsn.us, Pacific Region

Potter Valley Tribe, Salvador Rosales—Tribal Chairman, 2251 South State St., Ukiah, California 95482, Phone: (707) 462-1213, Fax: (707) 462-1240, Email: pottervalleytribe@pottervalleytribe.com, Pacific Region

Redwood Valley Rancheria-Band of Pomo, Josie Loomis—ICWA Coordinator, 3250 Road I “B” Building, Redwood Valley, California 95470, Phone: (707) 485-0361, Fax: (707) 485-5726, Pacific Region

Robinson Rancheria, Marsha Lee—ICWA Coordinator, P.O. Box 4015, Nice, California 95464, Phone: (707) 275-9363, Fax: (707) 275-9001, Email: mlee@robinsonrancheria.org, Pacific Region

Nomlaki, (See Pit River/Pomo/Wintun/, Wailaki/Yuki

Round Valley Indian Tribes, Kenneth Wright—Tribal President, 77826 Covelo Road, Covelo, California 95428, Phone: (707) 983-6126, Fax: (707) 983-6128, Email: administrator@rvit.org, Pacific Region

Pomo, (See Wailaki)

Scotts Valley Band of Pomo Indians, Gabe Ray—Triabal ICWA Worker, 301 Industrial Avenue, Lakeport, California 95453, Phone: (707) 263-4220, Fax: (707) 263-4345, Email: gray@svpomo.org, Pacific Region

Wailaki, (See Pomo)

Sherwood Valley Band of Pomo Indians, Michael Fitzgerral—Tribal Chairman, 190 Sherwood Hill Drive, Willits, California 95490, Phone: (707) 459-9690, Fax: (707) 459-6936, Email: svrchair@sbcglobal.net, Pacific Region

Kashia, (See Pomo)

Kashia Band of Pomo Indians of the Stewarts Point Rancheria, Melissa Cerda—Administrative Assistant, 3535 Industrial Drive, Suite B-2, Santa Rosa, CA 95403, Telephone: (707) 591-0580, Fax: (707) 591-0583, Email: melissa@stewartspoint.org, Pacific Region

Ponca

Ponca Tribe of Nebraska, Jill Holt—ICWA Specialist, 2602 J Street, Omaha, Nebraska 68107, Phone: (402) 734-5275, Email: (402) 734-5708, Great Plains Region

Ponca Tribe of Oklahoma, Chairperson, 20 White Eagle Drive, Ponca City, Oklahoma 74601, Phone: (580) 762-810, Southern Plains Region

Potawatomi

Citizen Potawatomi Nation, Janet Draper, Director, 1601 S. Gordon Copper Drive, Shawnee, Oklahoma 74801, Phone: (405) 878-4831, Fax: (405) 878-4659, Email: jdraper@potawatomi.org, Southern Plains Region

Forest County Potawatomi Community of Wisconsin, Vickie Lynn Valenti, ICWA Department Supervisor, 5415 Everybody's Road, Crandon, Wisconsin 54520, Phone: (715) 478-4812, Fax: (715) 478-7442, Email: vickie.valenti@fcpotawatomi-nsn.gov, Midwest Region

Hannahville Indian Community of Michigan, Jessica White—ICWA Worker, N15019 Hannahville B1 Road, Wilson, Michigan 49896, Phone: (906) 723-2514, Fax: (906) 466-7397, Email: Jessica.white@hichealth.org, Midwest Region

Potawatomi, (See Chippewa)

Nottawaseppi Huron Band of the Potawatomi, Meg Fairchild, LMSW, CAAC, Clinical Social Worker, 1474 Mno Bmadzewen Way, Fulton, Michigan 49052, Phone: (269) 729-4422, Fax: (269) 729-4460, Email: socialwpc@nhbp.org, Midwest Region

Potawatomi

Match-E-Be-Nash-She-Wish Band of Potawatomi Indians of Michigan, (Gun Lake Tribe), Leslie Pigeon, Behavioral Health/Human Services Coordinator, P.O. Box 306, Dorr, Michigan 49323, Phone: (616) 681-0360 Ext: 316, Fax: (616) 681-0380, Midwest Region

Pokagon Band of Potawatomi, Mark Pompey—Director of Social Services, 58620 Sink Road, Dowagiac, Michigan 49047, Phone: (269) 782-8998, Fax: (269) 782-4295, Email: mark.pompey@pokagonband-nsn.gov, Midwest Region

Prairie Band of Potawatomi Nation, Chairperson, 16281 Q. Road, Mayetta, Kansas 66509, Phone: (785) 966-2255, Southern Plains Region

Pueblo

Pueblo of Acoma, Colinda Garcia, Social Services Director, P.O. Box 354, Acoma, New Mexico 87034, Phone: (505) 552-6604 Ext: 5154, Cell: (505) 382-4429, Fax: (505) 552-6206, Email: cvgarcia@puebloofacoma.org, Southwest Region

Pueblo de Cochiti, Dee Mody—ICWA Aide, P.O. Box 70, Cochiti Pueblo, New Mexico 87072, Phone: (505) 465-2244, Fax: (505) 465-1135, Email: dee_mody@pueblodeconchiti.org, Southwest Region

Pueblo, (See Tigua)

Pueblo of Isleta, Caroline Dailey—Acting ICWA Director, P.O. Box 1270, Isleta, New Mexico 87022, Phone: (505) 869- 2772, Southwest Region

Pueblo

Pueblo of Jemez, Annette Chinana, Jemez Social Services Program-Child Advocate, P.O. Box 340, Jemez Pueblo, New Mexico 87024, Phone: (505) 834-7117, Fax: (505) 834-7103, Email: Annette.chinana@jemezpueblo.us, Southwest Region

Pueblo of Laguna, Marie A. Alarid, Program Manager, Rebecca Quam, Soc. Services Specialist II, P.O. Box 194, Laguna, New Mexico 87026, Phone: (505) 552-9712, Fax: (505) 552-6484, Email: malarid@lagunatribe.org, rquam@lagunatribe.org, Southwest Region

Pueblo of Nambe, Rhonda Padilla, ICWA Manager, Rte. 1, Box 117-BB, Santa Fe, New Mexico 87506, Phone: (505) 455-0133, Fax: (505) 455-4457, Email: rpadilla@nambepueblo.org, Southwest Region

Ohkay Owingeh, Rochelle Thompson, ICWA Director, P.O. Box 1187, Ohkay Owingeh, NM 87566, Phone (575) 770-0033, Fax: (505) 852-1372, Email: Rochelle_thompson@ohkayowingeh-nsn.gov, Southwest Region

Pueblo of Picuris, Jose Albert valdez, P.O. Box 127, Penasco, New Mexico 87553, Phone: (505) 587-1003, Fax: (505) 587-1003, Southwest Region

Pueblo of Pojoaque, Shirley Catanach—Director, 58 Cities of Gold Road, Suite 4, Santa Fe, New Mexico 87506, Phone: (505) 455-0238, Fax: (505) 455-2363, Email: scatanach@puebloofpojoaque.org, Southwest Region

Pueblo of San Felipe, Darlene Valencia, MSW, Family Services Department Director, P.O. Box 4339, San Felipe Pueblo, New Mexico 87004, Phone: (505) 771-9900, Fax: (505) 867-6166, Email: dvalencia@sfpueblo.com, Southwest Region

Pueblo of San Ildelfonso, Julie Bird, Family Support Advocate/ICWA Director, Route 5, P.O. Box 315-A, Santa Fe, New Mexico 87506, Phone: (505) 455-4164, Fax: (505) 455-7351, Email: jhbird@sanipueblo.org, Southwest Region

Pueblo of Sandia, Marina Estrada, Behavioral Health & Social Services Manager, 481 Sandia Loop, Bernalillo, New Mexico 87004, Phone: (505) 771-5131, Fax: (505) 867-4997, Email: mestrada@sandiapueblo.nsn.us, Southwest Region

Pueblo of Santa Ana, Claire Pino—Social Services Aide, Santa Ana Pueblo 02 Dove Road, Santa Ana Pueblo, New Mexico 87004, Phone: (505) 771-6775, Fax: (505) 771-6575, Email: claire.pino@santaana-nsn.gov, Southwest Region

Pueblo of Santa Clara, Joe Naranjo—Tribal Administrator, P.O. Box 580, Espanola, New Mexico 87532, Phone: (505) 747-7326, Southwest Region

Santo Domingo-Kewa, Arthur Lucero/Doris Bailon, ICWA Worker/Director, P.O. Box 129, Santo Domingo, New Mexico 87052, Phone: (505) 465-0630, Fax: (505) 465-2854, Email: arthurlucero@kewa-nsn.us, Email: dbailon@kewa-nsn.com, Southwest Region

Pueblo of Taos, Maxine Nakai, LISW—Division Director, P.O. Box 1846, Taos, New Mexico 87571, Phone: (575) 758-7824, Fax: (575) 758-3347, Email: mnakai@taospueblo.com, Southwest Region

Pueblo of Tesuque, Aria Ponciroli, LISW, Director of Social Services Department, Route 42, Box 360-T, Santa Fe, New Mexico 87506, Phone: (505) 955-7713, Fax: (505) 982-2331, Email: aponciroli@pueblooftesuque.org, Southwest Region

Pueblo of Zia, Eileen Gachupin/Mark Medina, ICWA Director/ICWA Coordinator, 135 Capital Square Drive, Zia Pueblo, New Mexico 87053, Phone: (505) 867-3304 Ext. 241, Southwest Region

Pueblo of Zuni, Betty Nez—Program Manager, P.O. Box 339, Zuni, New Mexico 87327, Phone: (505) 782-7166, Fax: (505) 782-7172, Email: betnez@ashiwi.org, Southwest Region

Ysleta Del Sur Pueblo, Sonia Ruedas, Social Services Eligibilty Worker, 9314 Juanchido Ln., El Paso, Texas 79907, Phone: (915) 860-6119, Fax: (915) 858-2367, Email: sruedas@ydsp-nsn.gov, Southwest Region

Puyallup

Puyallup Tribe, Sandra Cooper—ICWA Liason, 1850 Alexander Avenue, Tacoma, Washington 98421, Phone: (253) 573-7827, Fax: (253) 680-5998, Northwest Region

Quapaw

Quapaw Tribe of Oklahoma, John Berrey—Chairperson, P.O. Box 765, Quapaw, Oklahoma 74363, Phone: (918) 542-1853, Eastern Oklahoma Region

Quechan

Quechan Tribal Council, Mike Jackson Sr.—President, P.O. Box 1899, Yuma Arizona 85366-1899, Phone: (760) 572-0213, Fax: (760) 572-2102, Western Region

Quileute

Quileute Tribe, Tracy Kelley-Rios, ICW Case Manager, P.O. Box 279, LaPush, Washington 98350, Phone: (360) 374-4340, Fax: (360) 374-7796, Email: Tracy.kelley@quileutenation.org, Northwest Region

Quinault

Quinault Indian Nation Business Committee, William (Bill) Lay, Quinault Family Services Supervisor, QFS, P.O. Box 189, Taholah, Washington 98587, Phone: (360) 276-8215 Ext. 355, Fax: (360) 267-4152, Email: wlay@quinault.org, Northwest Region

Sac & Fox

Sac & Fox Tribe of the Mississippi in Iowa Meskwaki, Allison W. Lasley, ICWA Consultant/Coordinator, 349 Meskwaki Road, P.O. Box 245, Tama, Iowa 52339, Phone: (641) 484-4444, Fax: (641) 484-2103, Email: icwaconsult.mfs@meskwaki-nsn.gov, Midwest Region

Sac and Fox Nation in Kansas and Nebraska, Michael Dougherty—Tribal Chairperson, 305 N. Main Street, Reserve, Kansas 66434, Phone: (785) 742-0053 Ext: 23, Fax: (785) 742-7146, Southern Plains Region

Sac & Fox Nation, Principal Chief, Route 2, Box 246, Stroud, Oklahoma 74079, Phone: (918) 968-3526, Southern Plains Region

Salish, (See Flathead/Kootenai)

Confederated Salish & Kootenai Tribes, Lena Young Running Crane, ICWA Specialist, Box 278, Pablo, Montana 59855, Phone: (406) 675-2700, Fax: (406) 275-2883, Northwest Region

Samish

Samish Indian Nation, Robert Ludgate, Samish Nation Social Services, Family Services Specialist, P.O. Box 217, Anacortes, Washington 98221, Phone: (360) 899-5282, Fax: (360) 299-4357, Email: rludgate@samishtribe.nsn.us, Northwest Region

Sauk-Suiattle

Sauk-Suiattle Indian Tribe of Washington, Raju A.T. Dahlstrom, MSW, Program Administrator for Indian Child Welfare, 5318 Chief Brown Lane, Darrington, Washington 98241, Phone: (425) 760-0306, Fax: (360) 436-0242, Email: rdahlstrom@sauk-suiattle.com, Northwest Region

Seminole

Seminole Tribe of Florida, Kristi Hill, Family Preservation Administrator, 3006 Josie Billie Avenue, Hollywood, Florida 33024, Phone: (954) 965-1314, Fax: (945) 965-1304, Email: kristihill@semtribe.com, Eastern Region

Seminole

Seminole Nation of Oklahoma, Glenna VanZant, Acting Indian Child Welfare Director, P.O. Box 1498, Wewoka, Oklahoma 74884, Phone: (405) 257-7273, Fax: (405) 257-7284, Email: glenna_icw@seminolenation.com, Eastern Oklahoma Region

Seneca, (See Cayuga/Iroquois)

Cayuga Nation of New York, Anita Thompson—Assistant Administration, P.O. Box 803, Versailles, New York 14168, Phone: (315) 568-0750, Fax: (315) 568-0752, Email: anita.thompson@cayuganation-nsn.gov, Eastern Region

Seneca, (See Cayuga)

Seneca-Cayuga Tribe of Oklahoma, Curtis Lawrence, Indian Child Welfare Case Worker, 23701 South 655 Road, Grove, Oklahoma 74344, Phone: (918) 787-5452 Ext: 19, Fax: (918) 787-5521, Email: clawrence@sctribe.com, Eastern Oklahoma Region

Iroquois, (See Seneca)

Seneca Nation of Indians, Tracy Pacini, Child and Family Services Coordinator, 987 RC Hoag Drive, P.O. Box 500, Salamanca, New York 14779, Phone: (716) 945-5894, Fax: (716) 945-7881, Email: tracy.pacini@senecahealth.org, Eastern Region

Seneca, (See Iroquois/Tonawanda)

Tonawanda Band of Seneca, Roger Hill, Chief, Council of Chiefs, 7027 Meadville Road, Basom, New York 14013, Phone: (716) 542-4244, Fax: (716) 542-4008, Eastern Region

Iroquois, (See Seneca)

Seneca Nation of Indians, Tracy Pacini, Child and Family Services Coordinator, 987 RC Hoag Drive, P.O. Box 500, Salamanca, New York 14779, Phone: (716) 945-5894, Fax: (716) 945-7881, Email: tracy.pacini@senecahealth.org, Eastern Region

Serrano

San Manuel Band of Mission Indians, Tribal Secretary, 26569 Community Center Drive, Highland, California 92346, Phone: (909) 864-8933, Fax: (909) 864-3370, Pacific Region

Shasta, (See Grand Ronde/Siletz)

Confederated Tribes of the Grande Ronde Community of Oregon, Dana Ainma—ICWA Contact, 9615 Grand Ronde Road, Grand Ronde, Oregon 97347-0038, Phone: (503) 879-2034, Fax: (503) 879-2142, Northwest Region

Shasta, (See Karuk)

Quartz Valley Indian Reservation, Director—ICWA Program, 13601 Quartz Valley Road, Fort Jones, California 96032, Phone: (530) 468-5907, Fax: (530) 468-5608, Email: lkent@qvir.com, Pacific Region

Shawnee

Absentee Shawnee Tribe of Oklahoma Indians, Governor, 2025 S. Gordon Cooper Drive, Shawnee, Oklahoma 74801, Phone: (405) 275-4030, Southern Plains Region

Eastern Shawnee Tribe of Oklahoma, Jennifer Austin—Indian Child Welfare Specialist, 10100 S. Bluejacket Rd., Suite 1120, Wyandotte, OK 74370, Phone: (918) 666-7710, Fax: (918) 666-7716, Email: jaustin@estoo.net, Eastern Oklahoma Region

Shawnee Tribe, Jodi Hayes, Tribal Administrator, P.O. Box 189, Miami, Oklahoma 74355-0189, Telephone: (918) 542-2441, Fax: (918) 542-2922, Email: shawneetribe@shawnee-tribe.com

Shoalwater

Shoalwater Bay Tribal Council, Katherine Horne—ICWA Contact, P.O. Box 130, Tokeland, Washington 98590, Phone: (360) 267-6766, Fax: (360) 267-0247, Northwest Region

Shoshone

Battle Mountain Band Council, Rhonda Hicks—ICWA Coordinator, 37 Mountain View Drive, Battle Mountain, Nevada 89820, Phone: (775) 635-9189, Fax: (775) 635-8528, Western Region

Paiute, (See Shoshone)

Big Pine Paiute Tribe, Rita Mendoza, Tribal Court Clerk/ICWA Representative, P.O. Box 700, 825 S. Main Street, Big Pine, California 93513, Phone: (760) 938-2003, Fax: (760) 938-2942, Email: r.mendoza@bigpinepaiute.org, Pacific Region

Shoshone, (See Paiute)

Bishop Paiute Tribe, Margaret L. Romero—ICWA Specialist, 50 TuSu Lane, Bishop, California 93514, Phone: (760) 873-3584, Fax: (760) 873-4143, Email: Margaret.romero@bishoppaiute.org, Pacific Region

Shoshone

Duckwater Shoshone Tribe, Rose Mary Joe-Kingle—Social Worker, P.O. Box 140068, Duckwater, Nevada 89314, Phone: (775) 863-0222, Fax: (775) 863-0142, Western Region

Eastern Shoshone Tribe of the Wind River Reservation, ICWA Coordinator, P.O. Box 945, Fort Washakie, Wyoming 82514, Phone: (307) 332-6591, Fax: (307) 332-6593, Rocky Mountain Region

Elko Band Council Te-moak, Chesarae Christean—Social Worker, 1745 Silver Eagle Drive, Elko, Nevada 89801, Phone: (775) 738-9310, Fax: (775) 778-3397, Email: elkobandsocial@frontiernet.net, Western Region

Ely Shoshone Tribe, RaeJean Morrill—Social Services Worker II, 16 Shoshone Circle, Ely, Nevada 89301, Phone: (775) 289-4133, Fax: (775) 289-3237, Western Region

Paiute, (See Shoshone)

Fallon Paiute Shoshone Tribe, Fallon Business Council, Bonnie Rushford, Social Service Director, 1007 Rio Vista, Fallon, Nevada 89406, Phone: (775) 423-1215, Fax: (775) 423-8960, Email: ssdirector@fpst.org, Western Region

Shoshone, (See Paiute)

Ft. McDermitt Paiute-Shoshone Tribes, Dee Crutcher, ICWA Advocate-Human Services Program, P.O. Box 68, McDermitt, Nevada 89421, Phone: (775) 532-8263, Fax: (775) 532-8060, Email: deecrutcher@gmail.com, Western Region

Shoshone, (See Paiute)

Lone Pine Paiute Shoshone Reservation, Kathy Bancroft, Enrollment Committee Chairperson, P.O. Box 747, Lone Pine, California 96545, Phone: (760) 876-1034, Fax: (760) 876-8302, Pacific Region

Shoshone, (See Paiute)

Northwestern Band of Shoshoni Nation, Lawrence Honena—ICWA Contact, 427 North Main, Suite 101, Pcatello, Idaho 83204, Phone: (208) 478-5712, Fax: (208) 478-5713, Northwest Region

Shoshone, (See Paiute/Washoe)

Reno-Sparks Indian Colony, Jane Smith—Human Services Assistant, 405 Golden Lane, Reno, Nevada 89502, Phone: (775) 329-5071, Fax: (775) 785-8758, Email: jsmith@rsic.org, Western Region

Shoshone, (See Shoshone-Bannock)

Shoshone-Bannock Tribes, Terry Racehorse, Tribal Enrollment Director, P.O. Box 306, Fort Hall, Idaho 83203, Phone: (208) 478-3748, Fax: (208) 478-3839, Email: tracehorse@sbtribes.com, Northwest Region

Paiute, (See Shoshone)

Shoshone-Paiute Tribes of Duck Valley, Lanette Bitsilly—Social Worker, P.O. Box 219, Owyhee, Nevada 89832, Phone: (775) 757-2253, Fax: (775) 757-2910, Email: bitsilly.lanette@shopai.org, Western Region

Shoshone

South Fork Band Council, Debbie Honeyestewa—Social Service Director, 21 Lee, B-13, Spring Creek, Nevada 89815, Phone: (775) 744-2412, Fax: (775) 744-2306, Western Region

Elko Band Council Te-moak, Chesarae Christean—Social Worker, 1745 Silver Eagle Drive, Elko, Nevada 89801, Phone: (775) 738-9310, Fax: (775) 778-3397, Email: elkobandsocial@frontiernet.net, Western Region

Paiute, (See Shoshone)

Timbi-sha Shoshone Tribe, Wally Eddy, 621 West Line Street, Suite 109 Bishop, CA 93514, Telephone: (760) 872-3614, Fax: (760) 872-3670, Email: icwa@timbisha.com, Pacific Region

Shoshone

Wells Band Te-moak Shoshone, Alicia Aguilar, Social Services/ICWA Coordinator, P.O. Box 809, Wells, Nevada 89835, Phone: (775) 345-3079, Fax: (775) 752-2474, Western Region

Shoshone, (See Paiute)

Winnemucca Tribe, Chairman, P.O. Box 1370, Winnemucca, Nevada 89446, Western Region

Shoshone, (See Yomba)

Yomba Shoshone Tribe, Elisha A. Mockerman—Eligibility Worker, HC 61 Box 6275, Austin, Nevada 89310, Phone: (775) 964-2463, Fax: (775) 964-1352, Email: emockerman@yombatribe.org, Western Region

Shoshone, (See Shoshone-Bannock)

Shoshone-Bannock Tribes, Terry Racehorse, Tribal Enrollment Director, P.O. Box 306, Fort Hall, Idaho 83203, Phone: (208) 478-3748, Fax: (208) 478-3839, Email: tracehorse@sbtribes.com, Northwest Region

Siletz, (See Grand Ronde/Shasta)

Confederated Tribes of the Grande Ronde Community of Oregon, Dana Ainma—ICWA Contact, 9615 Grand Ronde Road, Grand Ronde, Oregon 97347-0038, Phone: (503) 879-2034, Fax: (503) 879-2142, Northwest Region

Siletz

Confederated Tribes of Siletz Indians, Cathern Tufts—Staff Attorney, P.O. Box 549, Siletz, Oregon 97380, Phone: (541) 444-8211, Fax; (541) 444-2307, Email: cathernt@ctsi.nsn.us, Northwest Region

Assiniboine, (See Sioux)

Assiniboine and Sioux Tribes, Fort Peck Indian Reservation, Ms. Lois Weeks—ICWA Case Manager, P.O. Box 1027, Popular, Montana 59255, Phone: (406) 768-2402, Fax: (406) 768-3710, Email: lweeks@fptc.org, Rocky Mountain Region

Sioux

Cheyenne River Sioux Tribe, Ms. Dianne Garreau, Indian Child Welfare Act Program Director, P.O. Box 590, Eagle Butte, South Dakota 57625, Phone: (605) 964-6460, Fax: (605) 964-6463, Great Plains Region

Crow Creek Sioux Tribe, Dave Valandra, ICWA Specialist, P.O. Box 139, Fort Thompson, South Dakota 57339, Phone: (605) 245-2322, Fax: (605) 245-2343, Email: david.valandra@bia.gov, Great Plains Region

Flandreau Santee Sioux Tribe, Celeste Honomichl—ICWA Adminstrator, Flandreau Santee Sioux Tribal Social Services, P.O. Box 283, Flandreau, South Dakota 57028, Phone: (605) 997-5055, Fax: (605) 997-3694, Great Plains Region

Lower Brule Sioux Tribe, Greg Miller, LBST Counseling Service Director, 187 Oyate Circle, Lower Brule, South Dakota 57528, Phone: (605) 473-5584, Fax: (605) 473-8051, Email: greg.miller@lbst.org, Great Plains Region

Lower Sioux, Linette Tellinghuisen—ICWA Advocate, 39527 Res Highway 1, Morton, Minnesota 56270, Phone: (507) 697-9108, Fax: (507) 697-9111, Email: ltellinghuisen@lowersioux.com, Midwest Region

Oglala Sioux Tribe, Juanita Sherick—Director ONTRAC, P.O. Box 2080, Pine Ridge, South Dakota 57770, Phone: (605) 867-5805, Fax: (605) 867-1893, Email: ontrac@gwtc.net, Great Plains Region

Prairie Island Indian Community Mdewakanton Dakota Sioux of Minnesota, Nancy Anderson—Family Services Manager, 5636 Sturgeon Lake Road, Welch, Minnesota 55089, Phone: (651) 385-4185, Fax: (651) 385-4183, Email: nanderson@piic.org, Midwest Region

Rosebud Sioux Tribe, Shirley J. Bad Wound, MSW, Indian Child Welfare Act Specialist, Rosebud Sioux Tribe ICWA Program, P.O. Box 609, Mission, South Dakota 57555, Phone: (605) 856-5270, Fax: (605) 856-5268, Great Plains Region

Santee Sioux Nation, Clarissa LaPlante, ICWA Specialist, Dakota Tiwahe Service Unit, Route 2, Box 5191, Niobrara, Nebraska 68760, Phone: (402) 857-2342, Fax: (402) 857-2361, Email: clarissa.laplante@nebraska.gov, Great Plains Region

Shakopee Mdewakanton Sioux Community, Karen Ross—ICWA Representative, 2330 Sioux Trail NW, Prior Lake, Minnesota 55372, Phone: (952) 445-8900 or (952) 496-6112, Fax: (952) 445-8906, Midwest Region

Sisseton-Wahpeton Oyate, Evelyn Pilcher—ICWA Specialist, P.O. Box 509, Agency Village, South Dakota 57262, Phone: (605) 698-3992, Fax: (605) 698-3999, Email: evelyn.pilcher@state.sd.us, Great Plains Region

Spirit Lake Nation, Jani Adams—ICWA Director, P.O. Box 356, Fort Totten, North Dakota 58335, Phone: (701) 766-4855, Fax: (701) 766-4273, Email: icwadirector@spiritlakenation.com, Great Plains Region

Standing Rock Sioux Tribe, Terrance Yellow Fat, Dirctor, Indian Child Welfare Program, P.O. Box 770, Fort Yates, North Dakota 58538, Phone: (701) 854-3095, Fax: (701) 854-5575, Email: tyellowfat@standingrock.org, Great Plains Region

Upper Sioux Community, Tanya Ross—ICWA Manager, P.O. Box 147, 5744 Hwy, 67 East, Granite Falls, Minnesota 56241, Phone: (320) 564-6315, Fax: (320) 564-2550, Email: tanya@uppersiouxcommunity-nsn.gov, Midwest Region

Yankton Sioux Tribe, Raymond Cournoyer—ICWA Director, P.O. Box 1153, Wagner, South Dakota 57380, Phone: (605) 384-5712, Fax: (605) 384-5014, Great Plains Region

S'kllalam

Jamestown S'Kllalam Tribal Council, Liz Mueller—ICWA Specialist, 1033 Old Blyn Hwy, Squim, Washington 98382, Phone: (360) 681-4628, Fax: (360) 681-3402, Northwest Region

Lower Elwha Tribal Community Council, Patricia Elofson—ICWA Contact, 2851 Lower Elwha Road, Port Angeles, Washington 98363-9518, Phone: (360) 452-8471, Fax: (360) 457-8429, Northwest Region

Port Gamble S'Klallam, David Delmendo, ICWA Program Manager, 31912 Little Boston Road, NE, Kingston, Washington 98346, Phone: (360) 297-7623, Fax: (360) 297-9666, Email: davidd@pgst.nsn.us, Northwest Region

Skokomish

Skokomish Tribal Council, Renee Guy/Kim Thomas, ICWA Contact, N. 80 Tribal Center Road, Shelton, Washington 98584-9748, Phone: (360) 426-7788, Fax: (360) 462-0082, Northwest Region

Snoqualmie

Snoqualmie Tribe, Marie Ramirez, MSW, ICWA Contact, P.O. Box 280, Carnation, Washington 98014, Phone: (425) 333-5425, Fax: (425) 333-5428, Northwest Region

Spokane

Spokane Tribe of Indians, Tawhnee Colvin, Program Manager/Case Manager, P.O. Box 540, Wellpinit, Washington 99040, Phone: (509) 258-7502, Fax: (509) 258-7029, Email: tawhneec@spokanetribe.com, Northwest Region

Squaxin

Squaxin Island Tribe, Donald Whitener—Tribal Administrator, 10 SE Squaxin Lane, Shelton, Washington 98584-9200, Phone: (360) 432-3900, Fax: (360) 426-6577, Email: dwhitener@squaxin.us, Northwest Region

Stillaguamish

Stillaguamish Tribe of Indians, Gloria Green—ICW Director, 17014 59th Ave NE, P.O. Box 3782, Arlington, Washington 98223, Phone: (360) 435-3985 Ext: 21, Fax: (360) 435-2867, Northwest Region

Suquamish

Suquamish Tribe of the Port Madison Reservation, Dennis Deaton—ICWA Contact, P.O. Box 498, Suquamish, Washington 98392, Phone: (360) 394-8478, Fax: (360) 697-6774, Northwest Region

Swinomish

Swinomish Indians, Tracy Parker, Swinomish Family Services Coordinator, 17337 Reservation Rd., LaConner, Washington 98257, Phone: (360) 466-7222, Fax: (360) 466-1632, Email: tparker@swinomish.nsn.us, Northwest Region

Tachi, (See Yokut)

Santa Rosa Rancheria Tachi-Yokut Tribe, Janice Cuara—Tribal Administrator, 16835 Alkali Drive, P.O. Box 8, Lemoore, California 93245, Phone: (559) 924-1278 Ext. 4051, Cell: (559) 381-4928, Fax: (559) 925-2931, Email: jcuara@tachi-yokut.com, Pacific Region

Three Affiliated Tribes, (See Arikara/Hidatsa/Mandan)

Three Affiliated Tribes, (Mandan, Arikara & Hidatsa), Katherine Felix—ICWA Specialist, 404 Frontage Road, New Town, North Dakota 58763, Phone: (701) 627-4781, Fax: (701) 627-5550, Email: kfelix@mhanation.com, Great Plains Region

Tigua, (See Pueblo)

Pueblo of Isleta, Caroline Dailey—Acting ICWA Director, P.O. Box 1270, Isleta, New Mexico 87022, Phone: (505) 869- 2772, Southwest Region

Papago, (See Tohono O'odham)

Tohono O'Odham Nation, Jonathan L. Jantzen—Attorney General, P.O. Box 830, Sells, Arizona 85634, Phone: (520) 383-3410, Fax: (520) 383-2689, Email: jonathan.jantzen@tonation-nsn.gov, Western Region

Tolowa, (See Me-Wuk/Miwok)

Cher-Ae Heights Indian Community of the Trinidad Rancheria, Amy Atkins—ICWA Representative, P.O. Box 630, Trinidad, California 95570, Phone: (707) 677-0211, Fax: (707) 677-3921, Email: aatkins@trinidadrancheria.com, Pacific Region

Tolowa, (See Karuk/Yurok)

Elk Valley Rancheria, Chairperson, 2332 Howland Hill Road, Crescent City, California 95531, Phone: (707) 464-4680, Fax: (707) 465-2638, Email: evrlibrary@elk-valley.com, Pacific Region

Tolowa

Smith River Rancheria, Dorothy Perry, Director—Community & Family Services, 110 W. First Street, Smith River, California 95567, Phone: (707) 487-9255, Fax: (707) 487-0137, Email: dperry@tolowa.com, Pacific Region

Tonawanda, (See Iroquois/Seneca)

Tonawanda Band of Seneca, Roger Hill, Chief, Council of Chiefs, 7027 Meadville Road, Basom, New York 14013, Phone: (716) 542-4244, Fax: (716) 542-4008, Eastern Region

Tonkawa

Tonkawa Tribe of Oklahoma, President, P.O. Box 70, Tonkawa, Oklahoma 74653, Phone: (580) 628-2561, Southern Plains Region

Tulalip

Tulalip Tribe, Elishia Stewart—ICWA Contact, 6700 Totem Beach Road, Marysville, Washington 98271, Phone: (360) 651-3290, Fax: (360) 651-4742, Northwest Region

Tunica-Biloxi

Tunica Biloxi Indian Tribe of Louisiana, Betty Pierite Logan, Registered Social Worker, P.O. Box 493, Marksville, Louisiana 71351, Telephone: (318) 240-6442, Fax: (318) 253-9791, Email: blogan@tunica.org, Eastern Region

Tuscarora, (See Iroquois)

Tuscarora Nation of New York, Chief Leo Henry—Clerk, 206 Mount Hope Road, Lewistown, New York 14092, Phone: (716) 297-1148, Fax: (716) 297-7355, Eastern Region

Umatilla

Confederated Tribes of the Umatilla Indian Reservation, M. Brent Leonhard, Deputy Attorney General, 46411 Timine Way, Pendleton, Oregon 97801, Phone: (541) 429-7406, Fax: (541) 429-7406, Email: brentleonhard@ctuir.org, Northwest Region

Umpqua

Cow Creek Band of Umpqua Tribe of Indians, Rhonda Malone—Human Services Director, 2371 NE Stephens Road, Roseburg, Oregon 97470, (541) 672-9405, Fax: (541) 677-5576, Email: rmalone@cowcreek.com, Northwest Region

Umpqua & Siuslaw

Confederated Tribes of Coos, Lower Umpqua & Siuslaw Indians, Roni Jackson, Family Case Worker/ICWA Specialist, 1245 Fulton Avenue, Coos Bay, Oregon 97420, Phone: (541) 888-9577, Fax: (541) 888-1027, Email: rjackson@ctclusi.org, Northwest Region

Upper Skagit

Upper Skagit Indian Tribe of Washington, Felice Keegahn, Indian Child Welfare Coordinator, 2284 Community Plaza Way, Sedro Woolley, Washington 98284, Phone: (360) 854-7077, Fax: (360) 854-7125, Email: felicek@upperskagit.com, Northwest Region

Ute

Southern Ute Indian Tribe, Jerri Sindelar, ICWA Caseworker II, MS 40, P.O. Box 737, Ignacio, Colorado 81137, Phone: (970) 769-2920, Fax: (970) 563-0334, Email: jsindelar@southern-ute.nsn.us, Southwest Region

Ute Indian Tribe, Floyd Wyasket—Social Service Director, Box 190 or Box 736, Fort Duschesne, Utah 84026, Phone: (435) 725-4026 or (435) 823-0141, Fax: (435) 722-5030, Email: floydw@utetribe.com, Western Region

Ute Mountain Ute Tribe, Cole McKinney—Acting Director CPS/CW, P.O. Box 309, Towaoc, Colorado 81334, Phone: (970) 564-5307, Fax: (970) 564-5300, Email: cmckinney@utemountain.org, Southwest Region

Wailaki, (See Wintun)

Grindstone Indian Rancheria, Aaston Bill—ICWA, P.O. Box 63, Elk Creek, California 95939, Phone: (530) 968-5365, Fax: (530) 968-5366, Pacific Region

Nomlaki, (See Pit River/Pomo/Wintun/, Wailaki/Yuki

Round Valley Indian Tribes, Kenneth Wright—Tribal President, 77826 Covelo Road, Covelo, California 95428, Phone: (707) 983-6126, Fax: (707) 983-6128, Email: administrator@rvit.org, Pacific Region

Pomo, (See Wailaki)

Scotts Valley Band of Pomo Indians, Gabe Ray—Tribal ICWA Worker, 301 Industrial Avenue, Lakeport, California 95453, Phone: (707) 263-4220, Fax: (707) 263-4345, Email: gray@svpomo.org, Pacific Region

Wailaki, (See Pomo)

Sherwood Valley Band of Pomo Indians, Michael Fitzgerral—Tribal Chairman, 190 Sherwood Hill Drive, Willits, California 95490, Phone: (707) 459-9690, Fax: (707) 459-6936, Email: svrchair@sbcglobal.net, Pacific Region

Wampanoag

Mashpee Wampanoag Tribe, Yvonne Avant,Councilwoman, Human and Social Services Liaison, 483 Great Neck Road South, Mashpee, MA 02649, Phone: (508) 419-6017 Ext: 1, Cell: (774) 238-8388, Fax: (508) 477-0508, Email: yavant@mwtribe.com, Eastern Region

Wampanoag Tribe of Gay Head (Aquinnah), Bonnie Chalifoux—Director of Human Services, 20 Black Brook Road, Aquinnah, Massachusetts 02535, Phone: (508) 645-9265 Ext: 133, Fax: (508) 645-2755, Email: bonnie@wampanoagtribe.net, Eastern Region

Warm Springs, (See Paiute/Wasco/Washoe)

Confederated Tribes of Warm Springs Reservation, Warms Springs Tribal Court, Chief Judge Lola Sohappy, ICWA Contact, P.O. Box 850, Warm Springs, Oregon 97761, Phone; (541) 553-3454, Fax: (541) 553-3281, Northwest Region

Wasco, (See Paiute/Warm Springs/, Washoe)

Confederated Tribes of Warm Springs Reservation, Warms Springs Tribal Court, Chief Judge Lola Sohappy, ICWA Contact, P.O. Box 850, Warm Springs, Oregon 97761, Phone; (541) 553-3454, Fax: (541) 553-3281, Northwest Region

Washoe, (See Paiute/Warm Springs/, Wasco)

Confederated Tribes of Warm Springs Reservation, Warms Springs Tribal Court, Chief Judge Lola Sohappy, ICWA Contact, P.O. Box 850, Warm Springs, Oregon 97761, Phone; (541) 553-3454, Fax: (541) 553-3281, Northwest Region

Washoe, (See Paiute/Shoshone)

Reno-Sparks Indian Colony, Jane Smith, Human Services Assistant, 405 Golden Lane, Reno, Nevada 89502, Phone: (775) 329-5071, Fax: (775) 785-8758, Email: jsmith@rsic.org, Western Region

Washoe

Washoe Tribe of Nevada and California, Wanda Batchelor—Chairwoman, 919 HWY. 395 South, Gardnerville, Nevada 89410, Phone: (775) 265-8600, Fax: (775) 265-8651, Email: ktrovato@washoetribe.us, Western Region

Wichita

Witchita & Affiliated Tribes, Joan Williams, Family & Children Services Director, P.O. Box 729, Anadarko, Oklahoma 73005, Phone: (405) 247-8627, Fax: (405) 247-8873, Email: joan.williams@wichitatribe.com, Southern Plains Region

Winnebago, (See Ho-Chunk)

The Ho-Chunk Nation, Valerie Blackdeer—ICWA Coordinator, P.O. Box 40, Black River Falls, Wisconsin 54615, Phone: (715) 284-9851, Fax: (715) 284-0097, Email: valerie.blackdeer@ho-chunk.com, Midwest Region

Winnebago

Winnebago Tribe of Nebraska, Barbara Eagle—ICWA Specialist, #1 Mission Drive Box 723, Winnebago, Nebraska 68071, Phone: (402) 878-2378, Fax: (402) 878-2228, Email: baeagle@winnebagotribe.com, Great Plains Region

Wintun

Colusa Indian Community Council, Daniel Gomez Sr.—Chairman, 3730 Highway 45, Colusa, California 95932, Phone: (530) 458-8231, Fax: (530) 458-4186, Email: dgomez@colusa-nsn.gov, Pacific Region

Nomlaki, (See Wintun)

Cortina Rancheria, (Cortina Indian Rancheria), Charlie Wright—Tribal Chairman, P.O. Box 1630, Williams, California 95987, Phone: (530) 473-3274, Fax: (530) 473-3301, Pacific Region

Wailaki, (See Wintun)

Grindstone Indian Rancheria, Aaston Bill—ICWA, P.O. Box 63, Elk Creek, California 95939, Phone: (530) 968-5365, Fax: (530) 968-5366, Pacific Region

Nomlaki, (See Wintun)

Paskenta Band of Nomlaki Indians, Ines Crosby—Tribal Administrator, P.O. Box 398, 1012 South Street, Orland, California 95963, Phone: (530) 865-2010, Fax: (530) 865-1870, Email: office@paskenta.org, Pacific Region

Wintun, (See Pit River/Yana)

Redding Rancheria, Director, Social Services, 2000 Rancheria Road, Redding, California 96001-5528, Phone: (530) 225-8979, Pacific Region

Nomlaki, (See Pit River/Pomo/Wintun/, Wailaki/Yuki

Round Valley Indian Tribes, Kenneth Wright—Tribal President, 77826 Covelo Road, Covelo, California 95428, Phone: (707) 983-6126, Fax: (707) 983-6128, Email: administrator@rvit.org, Pacific Region

Wintun

Yocha Dehe Wintun Nation, Rumsey Rancheria, James Kinter—Tribal Council Secretary, P.O. Box 18, Brooks, California 95606, Phone: (530) 796-3400, Fax: (530) 796-2143, Email: djones@yochadehe-nsn.gov, Pacific Region

Wiyot

Bear River Band of Rhonerville Rancheria, Karen Cahill—Social Services Director, 27 Bear River Drive, Loleta, California 95551, Phone: (707) 733-1900 Ext: 290, Fax: (707) 733-1972, Email: kcahill@bearrivertribe.com, Pacific Region

Wiyot, (See Huron)

Blue Lake Rancheria, Bonnie Mobbs—Exec. Assistant, P.O. Box 428, Blue Lake, California 95525, Phone: (707) 668-5101, Fax: (707) 668-4272, Email: bmobbs@bluelakerancheria-nsn.gov, Pacific Region

Wiyot

Wiyot Tribe, Michelle Vassel—Director of Social Services, 1000 Wiyot Drive, Loleta, California 95551, Phone: (707) 733-5055, Fax: (707) 733-5601, Email: www.wiyot.com, Pacific Region

Wyandotte, (See Huron)

Wyandotte Nation, Kate Randall—Director of Family Services, 64700 E. Hwy 60, Wyandotte, Oklahoma 74370, Phone: (918) 678-2297, Fax: (918) 678-3087, Email: krandall@wyandotte-nation.org, Eastern Oklahoma Region

Klamath, (See Modoc/Yahooskin)

The Klamath Tribe, Jim Collins,—ICWA Specialist, P.O. Box 436, Chiloquin, Oregon 97624, Phone: (541) 783-2219 Ext: 137, Fax: (541) 783-7783, Email: jim.collins@klamathtribes.com, Northwest Region

Yana, (See Pit River/Wintun)

Redding Rancheria, Director, Social Services, 2000 Rancheria Road, Redding, California 96001-5528, Phone: (530) 225-8979, Pacific Region

Yakama

Confederated Tribes & Bands of the, Yakama Nation, David Lees, Esq., P.O. Box 1190, Toppenish, Washington 98948, Phone: (509) 865-5121 Ext: 4558, Fax: (509) 865-7078, Email: lees@yakama.com, Northwest Region

Yaqui

Pascua Yaqui Tribe, Tamara Walters, Assisstant Attorney General, 4725 West Calle Tetakusim, Bldg. B, Tucson, Arizona 85757, Phone: (520) 883-5108, Fax: (520) 883-5084, Email: tamara.walters@pascuayaqui-nsn.gov, Western Region

Yavapai

Fort McDowell Yavapai Nation, James Esquirell—CPS/ICWA Coordinator, Brian Holiday—Social Servies Director, Wassaja Family Services, P.O. Box 17779, Fountain Hills, Arizona 85268, Phone: (480) 789-7820, Fax: (480) 837-4809, Email: jesquirell@ftmcdowell.org, bholiday@ftmcdowell.org, Western Region

Apache, (See Yavapai)

Yavapai-Apache Nation, Cora Phillips—Social Service Program Manager, 2400 W. Datsi Street, Camp Verde, Arizona 86322, Phone: (928) 649-7107, Fax: (928) 567-6832, Email: cphillips@yan-tribe.org, Western Region

Yavapai

Yavapai-Prescott Indian Tribe, Elsie Watchman—Family Support Supervisor, 530 East Merritt, Prescott, Arizona 86301, Phone: (928) 515-7351, Fax: (928) 541-7945, Email: ewatchman@ypit.com, Western Region

Tachi, (See Yokut)

Santa Rosa Rancheria Tachi-Yokut Tribe, Janice Cuara—Tribal Administrator, 16835 Alkali Drive, P.O. Box 8, Lemoore, California 93245, Phone: (559) 924-1278 Ext. 4051, Cell: (559) 381-4928, Fax: (559) 925-2931, Email: jcuara@tachi-yokut.com, Pacific Region

Yokut

Table Mountain Rancheria, Frank Marquez Jr.—Tribal Chief of Police, 23736 Sky Harbour Rd., Friant, California 93626, Phone: (559) 822-6336, Fax: (559) 822-6340, Email: fmarquezjr@tmr.org, Pacific Region

Tejon Indian Tribe, Kathryn Montes Morgan, Tribal Chair, 1731 Hasti-Acres Drive #108, Bakersfield, CA 93309, Telephone: (661) 834-8566, Email: kmorgan@bak.rr.com, Pacific Region

Yokut, (See Mono)

Tule River Reservation, Lolita Garfield, MSW, Director Family Social Services, 340 North Reservation Road, Porterville, California 93258, Phone: (559) 781-4271 Ext: 1013, Fax: (559) 791-2122, Email: icwadir@tulerivertribe-nsn.gov, Pacific Region

Yomba, (See Shoshone)

Yomba Shoshone Tribe, Elisha A. Mockerman—Eligibility Worker, HC 61 Box 6275, Austin, Nevada 89310, Phone: (775) 964-2463, Fax: (775) 964-1352, Email: emockerman@yombatribe.org, Western Region

Nomlaki, (See Pit River/Pomo/Wintun/, Wailaki/Yuki

Round Valley Indian Tribes, Kenneth Wright—Tribal President, 77826 Covelo Road, Covelo, California 95428, Phone: (707) 983-6126, Fax: (707) 983-6128, Email: administrator@rvit.org, Pacific Region

Yurok

Big Lagoon Rancheria, Chairperson, P.O. Box 3060, Trinidad, California 95570, Phone: (707) 826-2079, Fax: (707) 826-0495, Email: jstmartin@yuroktribe.nsn.us, Pacific Region

Yurok, (See Wiyot)

Blue Lake Rancheria, Bonnie Mobbs—Exec. Assistant, P.O. Box 428, Blue Lake, California 95525, Phone: (707) 668-5101, Fax: (707) 668-4272, Email: bmobbs@bluelakerancheria-nsn.gov, Pacific Region

Yurok, (See Me-Wok/Miwok/Tolowa)

Cher-Ae Heights Indian Community of the Trinidad Rancheria, Amy Atkins—ICWA Representative, P.O. Box 630, Trinidad, California 95570, Phone: (707) 677-0211, Fax: (707) 677-3921, Email: aatkins@trinidadrancheria.com, Pacific Region

Yurok, (See Karuk/Tolowa)

Elk Valley Rancheria, Chairperson, 2332 Howland Hill Road, Crescent City, California 95531, Phone: (707) 464-4680, Fax: (707) 465-2638, Email: evrlibrary@elk-valley.com, Pacific Region

Yurok

Resighini Rancheria, Rick Dowd, Chairperson, Keshan Dowd, Social Service/ICWA, P.O. Box 529, Klamath, California 95548, Phone: (707) 482-2431, Fax: (707) 482-3425, Pacific Region

Yurok Tribe, Stephanie Weldon, Social Services Director, 190 Klamath Blvd., P.O. Box 1027, Klamath, California 95548, Phone: (707) 482-1350, Fax: (707) 482-1368, Email: sweldon@yuroktribe.nsn.us, Pacific Region

2. Alaska Native Tribes and Villages

Aleut

Agdaagux Tribe of King Cove, Grace Smith, Family Programs Coordinator, Aleutian/Pribilof Islands Association, 1131 E. International Airport Rd., Anchorage, AK 99518-1408, Phone: (907) 276-2700/(907) 222-4236, Fax: (907) 222-9735, Email: graces@apiai.org, Alaska Region

Aleut, (See Alutiiq)

Native Village of Akhiok 1, Rachelle Joy, Kodiak Area Native Association, 3449 Rezanof Drive East, Kodiak, Alaska 99615, Phone: (907) 486-9800, Fax: (907) 486-4829, Email: rachelle.joy@kanaweb.org, Alaska Region

Aleut, (See Alutiiq)

Native Village of Akhiok 2, James Tucker—ICWA Advocate, P.O. Box 5030, Akhiok, Alaska 99615, Phone: (907) 486-4829, Fax: (907) 836-2345, Alaska Region

Aleut

Native Village of Akutan, Grace Smith, Family Programs Coordinator, Aleutian/Pribilof Islands Association, 1131 East International Airport Road, Anchorage, Alaska 99518-1408, Phone: (907) 276-2700, Fax: (907) 279-4351, Email: graces@apiai.org, Alaska Region

Native Village of Atka, Grace Smith, Family Programs Coordinator, Aleutian/Pribilof Islands Association, 1131 East International Airport Road, Anchorage, Alaska 99518-1408, Phone: (907) 276-2700, Fax: (907) 279-9735, Email: graces@apiai.org, Alaska Region

Native Village of Belkofski, Grace Smith, Family Programs Coordinator, Aleutian/Pribilof Islands Association, 1131 East International Airport Road, Anchorage, Alaska 99518-1408, Phone: (907) 276-2700, Fax: (907) 222-9735, Email: graces@apiai.org, Alaska Region

Aleut, (See Alutiiq)

Native Village of Chanega (aka: Chenega), Norma Selanoff, ICWA Worker, GayDell Trumblee, Tribal Administrator, P.O. Box 8079, Chenega Bay, Alaska 99574, Phone: (907) 573-5386/5130, Fax: (907) 573-5387/5120, Email: g.trumblee@nativevillageofchanega.com, Alaska Region

Aleut, (See Alutiiq)

Chignik Bay Tribal Council¹, Debbie Carlson—Administrator, P.O. Box 50, Chignik, Alaska 99564, Phone: (907) 749-2445, Fax: (907) 749-2423, Alaska Region

Aleut, (See Alutiiq)

Chignik Bay Tribal Council², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

Native Village of Chignik Lagoon¹, Nancy Anderson—ICWA, P.O. Box 09, Chignik Lagoon, Alaska 99565, Phone: (907) 840-2281, Fax: (907) 840-2217, Email: clagoon@gci.net, Alaska Region

Aleut, (See Alutiiq)

Native Village of Chignik Lagoon², Children's Services Program Manager, Bristol Bay Native Association, P.O. Box 310, 1500 Kanakanak Road, Dillingham, Alaska 99576, Phone: (907) 842-4139, Fax: (907) 842-4106, cnixon@bbna.com, Alaska Region

Aleut, (See Alutiiq)

Chignik Lake Village¹, Crystal Kalmakoff—Caseworker II, P.O. Box 33, Chignik Lake, Alaska 99548, Phone: (907) 845-2358, Fax: (907) 845-2246, Alaska Region

Aleut, (See Alutiiq)

Chignik Lake Village², Children's Services Program Manager, Bristol Bay Native Association, P.O. Box 310, 1500 Kanakanak Road, Dillingham, Alaska 99576, Phone: (907) 842-4139, Fax: (907) 842-4106, cnixon@bbna.com, Alaska Region

Aleut, (See Alutiiq)

Cordova (See Eyak)

Aleut, (See Alutiiq)

Egegik Village¹, Marcia Abalama, ICWA Team Leader, P.O. Box 154, Egegik, Alaska 99579, Phone: (907) 233-2207, Fax: (907) 233-2212, Alaska Region

Aleut, (See Alutiiq)

Egegik Village², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

English Bay (See Native Village of Nanwalek)

Aleut, (See Alutiiq)

Native Village of Afognak, (Formerly the Village of Afognak), Denise Malutin—ICWA Worker, 323 Carolyn Street, Kodiak, Alaska 99615, Phone: (907) 486-6357, Email: denise@afognak.org, Alaska Region

Aleut, (See Alutiiq)

Native Village of Eyak (Cordova), Erin Kurz—ICWA Worker, P.O. Box 1388, Cordova, Alaska 99574, Phone: (907) 424-7738/2236, Fax: (907) 424-7809, Email: erin@eyak-nsn.org, Alaska Region

Aleut

Native Village of False Pass, Grace Smith, Family Programs Coordinator, Aleutian/Pribilof Islands Association, 1131 East International Airport Road, Anchorage, Alaska 99518-1408, Phone: (907) 276-2700, Fax: (907) 279-9735, Email: graces@apiai.org, Alaska Region

Aleut, (See Alutiiq)

Ivanoff Bay Village¹, Edgar Shangin—Tribal President, 7926 Old Seward Hwy, Suite B-5, Anchorage, Alaska 99518, Phone: (907) 522-2263, Fax: (907) 522-2363, Email: ibvc@ivanofbay.com, Alaska Region

Aleut, (See Alutiiq)

Ivanoff Bay Village², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

Kaguyak Village, Margie Bezona, Community Development Director, Kodiak Area Native Association, 3449 E. Rezanof Drive, Kodiak, Alaska 99615, Phone: (907) 486-9816, Fax: (907) 486-9886, Email: Margie.bezona@kanaweb.org, Alaska Region

Aleut, (See Alutiiq)

Native Village of Kanatak, Tony Olivera, Tribal Administrator/ICWA Director, P.O. Box 872231, Wailla, Alaska 99687, Phone: (907) 357-5991, Fax: (907) 357-5992, Email: kanatak@mtaonline.net, Alaska Region

Aleut, (See Alutiiq)

Native Village of Karluk, Joyce Jones—ICWA Worker, P.O. Box 22, Karluk, Alaska 99608, Phone: (907) 241-2228, Fax: (907) 241-2208, Alaska Region

Aleut

King Cove (See Agdaagux)

King Salmon Tribe, Ralph Angasan, Jr.—Tribal Administrator, Ruth Monsen—ICWA Worker, P.O. Box 68, King Salmon, Alaska 99613, Phone: (907) 246-3553/3447, Fax: (907) 246-3449, Email: kstvc@starbans.net, Windsong1@starband.net, Alaska Region

Aleut, (See Alutiiq)

Kodiak Tribal Council, (See Sun'aq Tribe of Kodiak)

Aleut, (See Alutiiq)

Native Village of Larsen Bay, Rachelle Joy, Kodiak Area Native Association, 3449 Rezanof Drive East, Kodiak, AK 99615, Phone: (907) 486-9800, Fax: (907) 486-4829, Email: rachelle.joy@kanaweb.org, Alaska Region

Aleut, (See Alutiiq)

Lesnoi Village (aka Woody Island), Margaret Roberts—President, 3248 Mill Bay Road, Kodiak, Alaska 99615, Phone: (907) 486-2821, Fax: (907) 486-2738, Email: village@alaska.com, Alaska Region

Aleut, (See Alutiiq)

Native Village of Nanwalek (aka English Bay), Mandy Wood—ICWA Program, P.O. Box 8028, Nanwalek, Alaska 99603-6021, Phone: (907) 281-2307, Fax: (907) 281-2252, Alaska Region

Aleut

Native Village of Nelson Lagoon, Grace Smith, Family Programs Coordinator, Aleutian/Pribilof Islands Association, 1131 East International Airport Road, Anchorage, Alaska 99518-1408, Phone: (907) 276-2700, Fax: (907) 279-9735, Email: graces@apiai.org, Alaska Region

Native Village of Nikolski, Grace Smith, Family Programs Coordinator, Aleutian/Pribilof Islands Association, 1131 East International Airport Road, Anchorage, Alaska 99518-1408, Phone: (907) 276-2700, Fax: (907) 222-9735, Email: graces@apiai.org, Alaska Region

Aleut, (See Alutiiq)

Village of Old Harbor, Fred Brooks—Tribal Administrator, P.O. Box 62, Old Harbor, Alaska 99643-0062, Phone: (907) 286-2215, Fax: (907) 286-2277, Email: fred.brooks@ohtcmail.org, Alaska Region

Aleut, (See Alutiiq)

Native Village of Ouzinkie, Theresa L. Squartsoff—ICWA Worker, P.O. Box 130, Ouzinkie, Alaska 99644-0130, Phone: (907) 680-2359, Fax: (907) 680-2214/2359, Email: icwa@ouzinkie.org, Alaska Region

Aleut

Pauloff Harbor Village, Grace Smith, Family Programs Coordinator, Aleutian/Pribilof Islands Association, 1131 East International Airport Road, Anchorage, Alaska 99518-1408, Phone: (907) 276-2700 or (907) 222-4236, Fax: (907) 222-9735, Email: graces@apiai.org, Alaska Region

Aleut, (See Alutiiq)

Native Village of Perryville¹, Bernice O'Domin—Case Manager II, P.O. Box 97, Perryville, Alaska 99648-0089, Phone: (907) 853-2242, Fax: (907) 853-2229, Alaska Region

Aleut, (See Alutiiq)

Native Village of Perryville², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

Native Village of Pilot Point¹, Suzanne Evanoff—Village Administrator, P.O. Box 449, Pilot Point, Alaska 99649, Phone: (907) 797-2208, Fax: (907) 797-2258, Alaska Region

Aleut, (See Alutiiq)

Native Village of Pilot Point², Bristol Bay Native Association, Children's Services Program Manager, P.O. Box 310, 1500 Kanakanak Road, Dillingham, Alaska 99559, Phone: (907) 842-4139, Fax: (907) 842-4106, Email: cnixon@bbna.com, Alaska Region

Aleut, (See Alutiiq)

Native Village of Port Graham, Patrick Norman, Chief, P.O. Box 5510, Port Graham, Alaska 99603, Phone: (907) 284-2227, Fax: (907) 284-2222, Alaska Region

Aleut, (See Alutiiq)

Native Village of Port Heiden¹, Gerda Kosbruk—Tribal Administrator, Samantha Holm-Tribal Children Service Worker, 2200 James Street, Port Heiden, Alaska 99549, Phone: (907) 837-2225/2296, Fax: (907) 837-2297, Email: sholm@portheidenalaska.com, Alaska Region

Aleut, (See Alutiiq)

Native Village of Port Lions, Lisa Squartsoff—Tribal Services Coordinator, P.O. Box 69, Port Lions, Alaska 99550-0069, Phone: (907) 454-2234, Fax: (907) 454-2434, Alaska Region

Aleut

Qagan Tayagungin Tribe of Sand Point Village, Grace Smith, Family Programs Coordinator, Aleutian/Pribilof Islands Association, 1131 East International Airport Road, Anchorage, Alaska 99518-1408, Phone: (907) 276-2700, Fax: (907) 279-9735, Email: graces@apiai.org, Alaska Region

Qawalangin Tribe of Unalaska, Grace Smith, Family Programs Coordinator, Aleutian/Pribilof Islands Association, 1131 East International Airport Road, Anchorage, Alaska 99518-1408, Phone: (907) 276-2700, Fax: (907) 279-9735, Email: graces@apiai.org, Alaska Region

Aleut, (See Alutiiq)

Seldovia Village Tribe, Laurel Hilts—ICWA Worker, Drawer L, Seldovia, Alaska 99663, Phone: (907) 435-3252 or (907) 234-7898, Fax: (907) 234-7865, Email: lhilts@svt.org, Alaska Region

Aleut, (See Alutiiq)

Sun'aq Tribe of Kodiak, Linda Resoff—Social Services Director, 312 W. Marine Way, Kodiak, Alaska 99615, Phone: (907) 486-4449, Fax: (907) 486-3361, Email: socialservices@sunaq.org, Alaska Region

Aleut

Saint George Island, Aleutian/Pribilof Islands Association, Grace Smith, Family Programs Coordinator, 1131 East International Airport Road, Anchorage, Alaska 99518-1408, Phone: (907) 276-2700, Fax: (907) 222-9735, Email: graces@apiai.org, Alaska Region

Saint Paul Island,¹ Emily Melovidov-Child Welfare & Enrollment Caseworker; Charlene Naulty-DVSA & Family Programs Manager, P.O. Box 86, St. Paul Island, Alaska 99660, Phone: (907) 546-3242/2103, Phone: (907) 546-3254, Email: emmelovidov@tgspi.com; cjnaulty@tgspi.com, Alaska Region

St. Paul Island,² Grace Smith, Family Programs Coordinator, Aleutian/Pribilof Islands Association, 1131 East International Airport Road, Anchorage, Alaska 99518-1408, Phone: (907) 276-2700 or (907) 222-4236, Fax: (907) 279-4351, Email: graces@apiai.org, Alaska Region

Aleut, (See Alutiiq)

Native Village of Tatitlek, Victoria Lee Vlasoff—Tribal Administrator, P.O. Box 171, Tatitlek, Alaska 99677, Phone: (907) 325-2311, Fax: (907) 325-2298, Alaska Region

Aleut, (See Alutiiq)

Ugashik Village, Chester Schneider—Tribal Manager, 206 E. Fireweed lane, #204, Anchorage, Alaska 99503, Phone: (907) 338-7611, Fax: (907) 338-7659, Email: ugashikoffice4@alaska.net, Alaska Region

Aleut

Unalaska (See Qawalangin Tribe of Unalaska)

Aleut

Native Village of Unga, Grace Smith, Family Programs Coordinator, Aleutian/Pribilof Islands Association, 1131 East International Airport Road, Anchorage, Alaska 99518-1408, Phone: (907) 276-2700, Fax: (907) 222-9735, Email: graces@apiai.org, Alaska Region

Aleut, (See Alutiiq)

Woody Island (See Lesnoi Village)

Aleut, (See Alutiiq)

Native Village of Afognak, (Formerly the Village of Afognak), Denise Malutin—ICWA Worker, 323 Carolyn Street, Kodiak, Alaska 99615, Phone: (907) 486-6357, Email: denise@afognak.org, Alaska Region

Aleut, (See Alutiiq)

Native Village of Akhiok, Rachelle Joy, Kodiak Area Native Association, 3449 Rezanof Drive East, Kodiak, Alaska 99615, Phone: (907) 486-9800, Fax: (907) 486-4829, Email: rachelle.joy@kanaweb.org, Alaska Region

Aleut, (See Alutiiq)

Native Village of Akhiok, James Tucker—ICWA Advocate, P.O. Box 5030, Akhiok, Alaska 99615, Phone: (907) 486-4829, Fax: (907) 836-2345, Alaska Region

Alutiiq, (See Aleut)

Native Village of Chanega (aka: Chenega), Norma Selanoff, ICWA Worker, GayDell Trumblee, Tribal Administrator, P.O. Box 8079, Chenega Bay, Alaska 99574, Phone: (907) 573-5386/5130, Fax: (907) 573-5387/5120, Email: g.trumblee@nativevillageofchanega.com, Alaska Region

Alutiiq, (See Aleut)

Chignik Bay Tribal Council¹, Debbie Carlson—Administrator, P.O. Box 50, Chignik, Alaska 99564, Phone: (907) 749-2445, Fax: (907) 749-2423, Alaska Region

Alutiiq, (See Aleut)

Chignik Bay Tribal Council², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

Native Village of Chignik Lagoon¹, Nancy Anderson—ICWA, P.O. Box 09, Chignik Lagoon, Alaska 99565, Phone: (907) 840-2281, Fax: (907) 840-2217, Email: clagoon@gci.net, Alaska Region

Aleut, (See Alutiiq)

Native Village of Chignik Lagoon², Children's Services Program Manager, Bristol Bay Native Association, P.O. Box 310, 1500 Kanakanak Road, Dillingham, Alaska 99576, Phone: (907) 842-4139, Fax: (907) 842-4106, cnixon@bbna.com, Alaska Region

Aleut, (See Alutiiq)

Chignik Lake Village¹, Crystal Kalmakoff—Caseworker II, P.O. Box 33, Chignik Lake, Alaska 99548, Phone: (907) 845-2358, Fax: (907) 845-2246, Alaska Region

Aleut, (See Alutiiq)

Chignik Lake Village², Children's Services Program Manager, Bristol Bay Native Association, P.O. Box 310, 1500 Kanakanak Road, Dillingham, Alaska 99576, Phone: (907) 842-4139, Fax: (907) 842-4106, cnixon@bbna.com, Alaska Region

Aleut, (See Alutiiq)

Egegik Village¹, Marcia Abalama—ICWA Team Leader, P.O. Box 154, Egegik, Alaska 99579, Phone: (907) 233-2207, Fax: (907) 233-2212, Alaska Region

Aleut, (See Alutiiq)

Egegik Village², Children's Services Program Manager, Bristol Bay Native Association, P.O. Box 310, 1500 Kanakanak Road, Dillingham, Alaska 99576, Phone: (907) 842-4139, Fax: (907) 842-4106, Email: cnixon@bbna.com, Alaska Region

Alutiiq, (See Aleut)

English Bay (See Native Village of Nanwalek)

Aleut, (See Alutiiq)

Native Village of Eyak (Cordova), Erin Kurz—ICWA Worker, P.O. Box 1388, Cordova, Alaska 99574, Phone: (907) 424-7738/2236, Fax: (907) 424-7809, Email: erin@eyak-nsn.org, Alaska Region

Aleut, (See Alutiiq)

Ivanoff Bay Village¹, Edgar Shangin—Tribal President, 7926 Old Seward Hwy, Suite B-5, Anchorage, Alaska 99518, Phone: (907) 522-2263, Fax: (907) 522-2363, Email: ibvc@ivanofbay.com, Alaska Region

Aleut, (See Alutiiq)

Ivanoff Bay Village², Children's Services Program Manager, Bristol Bay Native Association, P.O. Box 310, 1500 Kanakanak Road, Dillingham, Alaska 99576, Phone: (907) 842-4139, Fax: (907) 842-4106, Email: cnixon@bbna.com, Alaska Region

Alutiiq, (See Aleut)

Kaguyak Village, Margie Bezona, Community Development Director, Kodiak Area Native Association, 3449 E. Rezanof Drive, Kodiak, Alaska 99615, Phone: (907) 486-9816, Fax: (907) 486-9886, Email: Margie.bezona@kanaweb.org, Alaska Region

Alutiiq, (See Aleut)

Native Village of Kanatak, Tony Olivera, Tribal Administrator/ICWA Director, P.O. Box 872231, Wailla, Alaska 99687, Phone: (907) 357-5991, Fax: (907) 357-5992, Email: kanatak@mtaonline.net, Alaska Region

Aleut, (See Alutiiq)

Native Village of Karluk, Joyce Jones—ICWA Worker, P.O. Box 22, Karluk, Alaska 99608, Phone: (907) 241-2228, Fax: (907) 241-2208, Alaska Region

Alutiiq, (See Aleut)

Kodiak Tribal Council, (See Sun'aq Tribe of Kodiak)

Aleut, (See Alutiiq)

Native Village of Larsen Bay, Rachelle Joy, Kodiak Area Native Association, 3449 Rezanof Drive East, Kodiak, AK 99615, Phone: (907) 486-9800, Fax: (907) 486-4829, Email: rachelle.joy@kanaweb.org, Alaska Region

Aleut, (See Alutiiq)

Lesnoi Village (aka Woody Island), Margaret Roberts—President, 3248 Mill Bay Road, Kodiak, Alaska 99615, Phone: (907) 486-2821, Fax: (907) 486-2738, Email: village@alaska.com, Alaska Region

Aleut, (See Alutiiq)

Native Village of Nanwalek (aka English Bay), Mandy Wood—ICWA Program, P.O. Box 8028, Nanwalek, Alaska 99603-6021, Phone: (907) 281-2307, Fax: (907) 281-2252, Alaska Region

Aleut, (See Alutiiq)

Village of Old Harbor, Fred Brooks—Tribal Administrator, P.O. Box 62, Old Harbor, Alaska 99643-0062, Phone: (907) 286-2215, Fax: (907) 286-2277, Email: fred.brooks@ohtcmail.org, Alaska Region

Aleut, (See Alutiiq)

Native Village of Ouzinkie, Theresa L. Squartsoff—ICWA Worker, P.O. Box 130, Ouzinkie, Alaska 99644-0130, Phone: (907) 680-2359, Fax: (907) 680-2214/2359, Email: icwa@ouzinkie.org, Alaska Region

Aleut, (See Alutiiq)

Native Village of Perryville¹, Bernice O'Domin—Case Manager II, P.O. Box 97, Perryville, Alaska 99648-0089, Phone: (907) 853-2242, Fax: (907) 853-2229, Alaska Region

Aleut, (See Alutiiq)

Native Village of Perryville², Children's Services Program Manager, Bristol Bay Native Association, P.O. Box 310, 1500 Kanakanak Road, Dillingham, Alaska 99576, Phone: (907) 842-4139, Fax: (907) 842-4106, Email: cnixon@bbna.com, Alaska Region

Aleut, (See Alutiiq)

Native Village of Pilot Point¹, Suzanne Evanoff—Village Administrator, P.O. Box 449, Pilot Point, Alaska 99649, Phone: (907) 797-2208, Fax: (907) 797-2258, Email: n/a, Alaska Region

Aleut, (See Alutiiq)

Native Village of Pilot Point², Bristol Bay Native Association, Children's Services Program Manager, P.O. Box 310, 1500 Kanakanak Road, Dillingham, Alaska 99559, Phone: (907) 842-4139, Fax: (907) 842-4106, Email: cnixon@bbna.com, Alaska Region

Aleut, (See Alutiiq)

Native Village of Port Graham, Patrick Norman, Chief, P.O. Box 5510, Port Graham, Alaska 99603, Phone: (907) 284-2227, Fax: (907) 284-2222, Alaska Region

Aleut, (See Alutiiq)

Native Village of Port Heiden¹, Gerda Kosbruk—Tribal Administrator, Samantha Holm-Tribal Children Service Worker, 2200 James Street, Port Heiden, Alaska 99549, Phone: (907) 837-2225/2296, Fax: (907) 837-2297, Email: sholm@portheidenalaska.com, Alaska Region

Aleut, (See Alutiiq)

Native Village of Port Lions, Lisa Squartsoff—Tribal Services Coordinator, P.O. Box 69, Port Lions, Alaska 99550-0069, Phone: (907) 454-2234, Fax: (907) 454-2434, Alaska Region

Aleut, (See Alutiiq)

Seldovia Village Tribe, Laurel Hilts—ICWA Worker, Drawer L, Seldovia, Alaska 99663, Phone: (907) 435-3252 or (907) 234-7898, Fax: (907) 234-7865, Email: lhilts@svt.org, Alaska Region

Alutiiq, (See Aleut)

Sun'aq Tribe of Kodiak, Linda Resoff—Social Services Director, 312 W. Marine Way, Kodiak, Alaska 99615, Phone: (907) 486-4449, Fax: (907) 486-3361, Email: socialservices@sunaq.org, Alaska Region

Aleut, (See Alutiiq)

Native Village of Tatitlek, Victoria Lee Vlasoff—Tribal Administrator, P.O. Box 171, Tatitlek, Alaska 99677, Phone: (907) 325-2311, Fax: (907) 325-2298, Alaska Region

Aleut, (See Alutiiq)

Ugashik Village, Chester Schneider—Tribal Manager, 206 E. Fireweed lane, #204, Anchorage, Alaska 99503, Phone: (907) 338-7611, Fax: (907) 338-7659, Email: ugashikoffice4@alaska.net, Alaska Region

Alutiiq, (See Aleut)

Woody Island (See Lesnoi Village)

Athabascan Indian

Alatna Village¹, Catherine Henzie, Tribal Family Youth Specialist, P.O. Box 70, Allakaket, Alaska 99720, Phone: (907) 968-8397, Fax: (907) 238-2305, Alaska Region

Athabascan Indian

Alatna Village,² Legal Department, Tanana Chiefs Conference, 122 First Avenue, Suite 600, Fairbanks, Alaska 99701, Phone: (907) 452-8251 Ext. 3178, Fax: (907) 459-3953, Alaska Region

Allakaket Village,¹ Emily Bergman, Tribal Family Youth Specialist (TFYS), P.O. Box 50, Allakaket, Alaska 99720, Phone: (907) 968-2303, Fax: (907) 968-2233, Email: emily.bergman@tananachiefs.org, Alaska Region

Allakaket Village,² Legal Department, Tanana Chiefs Conference, 122 First Avenue, Suite 600, Fairbanks, Alaska 99701, Phone: (907) 452-8251 ext. 3178, Fax: (907) 459-3953, Alaska Region

Anvik Village,¹ Tammy Jerue, Tribal Family Youth Specialist (TFYS), P.O. Box 10, Anvik, Alaska 99558, Phone: (907) 663-6378, Fax: (907) 663-6357, Alaska Region

Anvik Village,² Legal Department, Tanana Chiefs Conference, 122 First Avenue, Suite 600, Fairbanks, Alaska 99701, Phone: (907) 452-8251 Ext. 3178, Fax: (907) 459-3953, Alaska Region

Arctic Village, Margorie Gemmill—Tribal, P.O. Box 22069, Arctic Village, AK 99722, Phone: (907) 587-5523/5328, Fax: (907) 587-5128, Alaska Region

Arctic Village,² Legal Department, Tanana Chiefs Conference, 122 First Avenue, Suite 600, Fairbanks, Alaska 99701, Phone: (907) 452-8251 Ext. 3178, Fax: (907) 459-3953, Alaska Region

Beaver Village,¹ Arlene Pitka—ICWA Coordinator, P.O. Box 24029, Beaver, Alaska 99724, Phone: (907) 628-6126, Fax: (907) 628-6815, Alaska Region

Beaver Village,² Legal Department, Tanana Chiefs Conference, 122 First Avenue, Suite 600, Fairbanks, Alaska 99701, Phone: (907) 452-8251 ext. 3178, Fax: (907) 459-3953, Alaska Region

Bettles Field (See Evansville Village)

Birch Creek Tribe,¹ Jackie Baalam, Tribal Family Youth Specialist (TFYS), P.O. Box 71372, Fairbanks, Alaska 99707, Phone: (907) 455-8484, Fax: (907) 455-8486, Alaska Region

Birch Creek Tribe, ² Legal Department, Tanana Chiefs Conference, 122 First Avenue, Suite 600, Fairbanks, Alaska 99701, Phone: (907) 452-8251 Ext: 3178, Fax: (907) 459-3953, Alaska Region

Native Village of Cantwell,¹ Veronica Nicholas, President, P.O. Box 94, Cantwell, Alaska 99729, Phone: (907) 768-2591, Fax: (907) 768-1111, Email: hallvc@mtaonline.net, Alaska

Native Village of Cantwell,¹ Copper River Native Association, Katherine McConkey, Director Tribal Community Services, Drawer H, Copper Center, Alaska 99573, Phone: (907) 822-5241 ext. 232, Fax: (907) 822-8801, Email: Kathy@crnative.org, Alaska Region

Chalkyitski Village,¹ Donna L. Crow, Tribal Family Youth Specialist, P.O. Box 57, Chalkyitsik, Alaska 99788, Phone: (907) 848-8117, Fax: (907) 848-8986, Alaska Region

Chalkyitski Village,² Legal Department, Tanana Chiefs Conference, 122 First Avenue, Suite 600, Fairbanks, Alaska 99701, Phone: (907) 452-8251 ext. 3178, Fax: (907) 459-3953, Alaska Region

Cheesh-Na Tribe, Wilson Justin—Tribal Administrator, P.O. Box 241, Gakona, Alaska 99586, Phone: (907) 822-3503, Fax: (907) 822-5179, Email: wjustin@cheeshna.com, Alaska Region

Chickaloon Native Village, Penny Westing—ICWA Case Manager, P.O. Box Manager, P.O. Box 1105, Chickaloon, Alaska 99674, Phone: (907) 745-0749/0794, Fax: (907) 745-0709, Email: penny@chickaloon.org, Alaska Region

Chistochina (See Cheesh-Na)

Native Village of Chitina, Anita Eskilida—Administrator, P.O. Box 31, Chitina, Alaska 99566, Phone: (907) 823-2215/2217, Fax: (907) 823-2233/2276, Alaska Region

Circle Native Community,¹ Jessica Boyle—ICWA Worker, P.O. Box 89, Circle, Alaska 99733, Phone: (907) 773-2822, Fax: (907) 773-2823, Email: Jessica.boyle@tananachiefs.org, Alaska Region

Circle Native Community,² Legal Department, Tanana Chiefs Conference, 122 First Avenue, Suite 600, Fairbanks, Alaska 99701, Phone: (907) 452-8251 ext. 3178, Fax: (907) 459-3953, Alaska Region

Copper Center, (See Native Village of Kluti-Kaah)

Village of Dot Lake, William Miller, President, P.O. Box 2279, Dot Lake, Alaska 99737-2275, Phone: (907) 882-2742/2695, Fax: (907) 882-5558, Alaska Region

Native Village of Eagle,¹ Claire Ashley, Tribal Family & Youth Services, And, Joyce Roberts, Tribal Administrator, P.O. Box 19, Eagle, Alaska 99738, Phone: (907) 547-2271, Fax: (907) 547-2318, Email: claire.ashley@tananachiefs.org, Alaska Region

Native Village of Eagle,² Legal Department, Tanana Chiefs Conference, 122 First Avenue, Suite 600, Fairbanks, Alaska 99701, Phone: (907) 452-8251 ext. 3178, Fax: (907) 459-3953, Alaska Region

Eklutna Native Village, Dorothy Cook—President, 26339 Eklutna Village Road, Chugiak, Alaska 99567, Phone: (907) 688-6020, Fax: (907) 688-6021, Email: nve.icwa@eklutna-nan.gov, Alaska Region

Evansville Village (aka Bettles Field),¹ Rachel Hanft, Tribal Family & Youth Services, P.O. Box 26087, Evansville, Alaska 99726, Phone: (907) 692-5005, Fax: (907) 692-5006, Alaska Region

Evansville Village (aka Bettles Field),² Legal Department, Tanana Chiefs Conference, 122 First Avenue, Suite 600, Fairbanks, Alaska 99701, Phone: (907) 452-8251 ext. 3178, Fax: (907) 459-3953, Alaska Region

Native Village of Fort Yukon, (Gwichyaa Gwichin),¹ Mary B. Solomon—ICWA Coordinator, P.O. Box 10, Fort Yukon, Alaska 99740, Phone: (907) 662-3625/2311, Fax: (907) 662-3118, Email: mary.beth.solomon@fortyukon.org, Alaska Region

Native Village of Fort Yukon, (Gwichyaa Gwichin),¹ Mary B. Solomon—ICWA Coordinator, P.O. Box 10, Fort Yukon, Alaska 99740, Phone: (907) 662-3625/2311, Fax: (907) 662-3118, Email: mary.beth.solomon@fortyukon.org, Alaska Region

Native Village of Gakona, Charlene Nollner—Tribal Administrator, P.O. Box 102, Gakona, Alaska 99586, Phone: (907) 822-5777, Fax: (907) 822-5997, Email: gakonaadmin@cvinternet.net, Alaska Region

Galena Village (aka Louden Village), March Runner—ICWA Director, P.O. Box 244, Galena, Alaska 99741, Phone: (907) 656-1711, Fax: (907) 656-2491, Alaska Region

Organized Village of Grayling, (aka Holikachuk),¹ Sue Ann Nicholi, Tribal Family Youth Specialist, P.O. Box 49, Grayling, Alaska 99590, Phone: (907) 453-5142, Fax: (907) 453-5146, Alaska Region

Organized Village of Grayling, (aka Holikachuk),² Legal Department, Tanana Chiefs Conference, 122 First Avenue, Suite 600, Fairbanks, Alaska 99701, Phone: (907) 452-8251 ext. 3178, Fax: (907) 459-3953, Alaska Region

Gulkana Village, Charelle Randall—ICWA Worker, P.O. Box 254, Gakona, Alaska 99586-0254, Phone: (907) 822-5363, Fax: (907) 822-3976, Email: icwa@gulkanacouncil.org, Alaska Region

Gwichyaa Gwichin (See Fort Yukon)

Healy Lake Village,¹ Julie Luke, Tribal Family Youth Specialist, P.O. Box 74090, Fairbanks, Alaska 99701, Phone: (907) 479-0638, Fax: (907) 876-0639, Alaska Region

Healy Lake Village,² Legal Department, Tanana Chiefs Conference, 122 First Avenue, Suite 600, Fairbanks, Alaska 99701, Phone: (907) 452-8251 ext. 3178, Fax: (907) 459-3953, Alaska Region

Holikachuk (See Grayling)

Holy Cross Village,¹ Rebecca Demientieff, Tribal Family Youth Specialist, P.O. Box 191, Holy Cross, Alaska 99602, Phone: (907) 476-7249, Fax: (907) 476-7132, Email: Rebecca.turner@tananachiefs.org, Alaska Region

Holy Cross Village,² Legal Department, Tanana Chiefs Conference, 122 First Avenue, Suite 600, Fairbanks, Alaska 99701, Phone: (907) 452-8251 ext. 3177, Fax: (907) 459-3953, Alaska Region

Hughes Village,¹ Elena Miranda Beatus, Tribal Family Youth Specialist, P.O. Box 45029, Hughes, Alaska 99745, Phone: (907) 889-2249, Fax: (907) 889-2252, Email: Elena.beatus@tananachiefsconference.org, Alaska Region

Hughes Village,² Legal Department, Tanana Chiefs Conference, 122 First Avenue, Suite 600, Fairbanks, Alaska 99701, Phone: (907) 452-8251 ext. 3178, Fax: (907) 459-3953, Alaska Region

Huslia Village,¹ Cesa Sam, Tribal Family Youth Specialist/ICWA, P.O. Box 70, Huslia, Alaska 99746, Phone: 907) 829-2202, Fax: (907) 829-2204, Alaska Region

Huslia Village,² Legal Department, Tanana Chiefs Conference, 122 First Avenue, Suite 600, Fairbanks, Alaska 99701, Phone: (907) 452-8251 ext. 3178, Fax: (907) 459-3953, Alaska Region

Villiage of Iliamna, Lorene Anelon, President, P.O. Box 286, Iliamna, Alaska 99606, Phone: (907) 571-1246/7130, Fax: (907) 571-1256, Email: sue.anelon@iliamna.corp, Alaska Region

Village of Kaltag,¹ Donna Esmailka—Tribal Administrator, P.O. Box 129, Kaltag, Alaska 99748, Phone: (907) 534-2224, Fax: (907) 534-2265, Alaska Region

Village of Kaltag,² Legal Department, Tanana Chiefs Conference, 122 First Avenue, Suite 600, Fairbanks, Alaska 99701, Phone: (907) 452-8251 ext. 3178, Fax: (907) 459-3953, Alaska Region

Kenaitze Indian Tribe, Beatrice Sagoonick—ICWA Specialist, P.O. Box 988, Kenai, Alaska 99611, Phone: (907) 335-7218, Fax: (907) 335-7239, Email: bsagoonick@kenaitze.org, Alaska Region

Native Village of Kluti-Kaah (Copper Center), Michelle Bayless, Tribal Administrator, P.O. Box 68, Copper Center, Alaska 99573, Phone: (907) 822-5541, Fax: (907) 822-5130, Alaska Region

Knik Tribe, Geraldine Nicoli—ICWA Worker, P.O. Box 871565, Wasilla, Alaska 99687-1565, Phone: (907) 373-7938, Fax: (907) 373-2153, Email: gnicoli@kniktribe.org, Alaska Region

Koyukuk Native Village,¹ Sharon Pilot, Tribal Family Youth Specialist, P.O. Box 109, Koyukuk, Alaska 99754, Phone: (907) 927-2208, Fax: (907) 927-2220, Email: sharon.pilot@tananachiefs.org, Alaska Region

Koyukuk Native Village,² Legal Department, Tanana Chiefs Conference, 122 First Avenue, Suite 600, Fairbanks, Alaska 99701, Phone: (907) 452-8251 ext. 3178, Fax: (907) 459-3953, Alaska Region

Lime Village, Jennifer M. John—President, P.O. Box LVD, McGrath, Alaska 99627-8999, Phone: (907) 526-5236, Fax: (907) 526-5235, Alaska Region

Louden (See Galena)

Manley Hot Springs Village,¹ Elizabeth Woods, Tribal Family Youth Specialist, P.O. Box 105, Manley Hot Springs, Alaska 99756, Phone: (907) 672-3180/3177, Fax: (907) 672-3200, Alaska Region

Manley Hot Springs Village,² Legal Department, Tanana Chiefs Conference, 122 First Avenue, Suite 600, Fairbanks, Alaska 99701, Phone: (907) 452-8251 ext. 3178, Fax: (907) 459-3953, Alaska Region

McGrath Native Village,¹ Helen Vanderpool, Tribal Family and Youth Specialist, P.O. Box 134, McGrath, Alaska 99627, Phone: (907) 524-3023, Fax: (907) 524-3899, Email: helenvhf@mcgrathalaska.net, Alaska Region

McGrath Native Village,² Legal Department, Tanana Chiefs Conference, 122 First Avenue, Suite 600, Fairbanks, Alaska 99701, Phone: (907) 452-8251 ext. 3178, Fax: (907) 459-3953, Alaska Region

Mentasta Traditional Council, Tribal President and ICWA Program, P.O. Box 6019, Mentasta, Alaska 99780, Phone: (907) 291-2319, Fax: (907) 291-2305, Alaska Region

Native Village of Minto,¹ Lou Ann Williams, Tribal Family Youth Specialist, P.O. Box 26, Minto, Alaska 99758, Phone: (907) 798-7007, Fax: (907) 798-7008, Alaska Region

Native Village of Minto,² Legal Department, Tanana Chiefs Conference, 122 First Avenue, Suite 600, Fairbanks, Alaska 99701, Phone: (907) 452-8251 ext. 3178, Fax: (907) 459-3953, Alaska Region

Nenana Native Association,¹ Nita M. Marks, Tribal Family Youth Specialist, P.O. Box 369, Nenana, Alaska 99760, Phone: (907) 832-5461 ext. 225, Fax: (907) 832-5447, Alaska Region

Nenana Native Association,² Legal Department, Tanana Chiefs Conference, 122 First Avenue, Suite 600, Fairbanks, Alaska 99701, Phone: (907) 452-8251 ext. 3178, Fax: (907) 459-3953, Alaska Region

Nikolai Village, Deborah Esai-Holm,, Tribal Family Youth Specialist, P.O. Box 9105, Nikolai, Alaska 99691, Phone: (907) 293-2450, Fax: (907) 293-2481, Email: Beverly.gregory@tananachiefs.org, Alaska Region

Nikolai Village,² Legal Department, Tanana Chiefs Conference, 122 First Avenue, Suite 600, Fairbanks, Alaska 99701, Phone: (907) 452-8251 ext. 3178, Fax: (907) 459-3953, Alaska Region

Ninilchik Village, Bettyann Steciw, ICWA/Social Services Specialist, P.O. Box 39444, Ninilchik, Alaska 99669, Phone: (907) 567-3313, Fax: (907) 567-3354, Email: bettyann@ninilchiktribe-nsn.gov, Alaska Region

Nondalton Village, Ada Trefon—Social Services/ICWA, P.O. Box 49, Nondalton, Alaska 99640-0049, Phone: (907) 294-2257, Fax: (907) 294-2271, Alaska Region

Northway Village, Shanice Albert-ICWA Worker, Belinda Thomas-Administrator, P.O. Box 516, Northway, Alaska 99764, Phone: (907) 778-2311, Fax: (907) 778-2220, Alaska Region

Nulato Village, Brittany Smith—Director of Human Services, P.O. Box 65049, Nulato, Alaska 99765, Phone: (907) 898-2339/2329, Fax: (907) 898-2207, Alaska Region

Pedro Bay Village, Verna Jean Kolyaha -, Program Specialist II (ICWA), P.O. Box 47020, Pedro Bay, Alaska 99647-7020, Phone: (907) 850-2341, Fax: (907) 850-2221, Email: villagecouncil@pedrobay.com, Alaska Region

Rampart Village,¹ Tribal Administrator, P.O. Box 67029, Rampart, Alaska 99767, Phone: (907) 358-3312, Fax: (907) 358-3115, Alaska Region

Rampart Village,² Legal Department, Tanana Chiefs Conference, 122 First Avenue, Suite 600, Fairbanks, Alaska 99701, Phone: (907) 452-8251 ext. 3178, Fax: (907) 459-3953, Alaska Region

Native Village of Ruby,¹ Pat Sweetsir, Tribal Administrator, P.O. Box 117, Ruby, Alaska 99768, Phone: (907) 468-4479, Fax: (907) 468-4474, Alaska Region

Native Village of Ruby,² Legal Department, Tanana Chiefs Conference, 122 First Avenue, Suite 600, Fairbanks, Alaska 99701, Phone: (907) 452-8251 ext. 3178, Fax: (907) 459-3953, Alaska Region

Village of Salamatoff, Beatrice Sagoonick—ICWA Worker, 150 North Willow Street, Suite 33, Kenai, Alaska 99611, Phone: (907) 335-7200, Fax: (907) 335-7239, Email: bsagoonick@kenaitze.org, Alaska Region

Shageluk Native Village,¹ Rebecca Wulf, Tribal Family Youth Specialist, P.O. Box 109, Shageluk, Alaska 99665, Phone: (907) 473-8229, Fax: (907) 473-8275, Email: rebecca.wulf@tananachiefs.org, Alaska Region

Shageluk Native Village,² Legal Department, Tanana Chiefs Conference, 122 First Avenue, Suite 600, Fairbanks, Alaska 99701, Phone: (907) 452-8251 Ext. 3178, Fax: (907) 459-3953, Alaska Region

Native Village of Stevens, Randy Mayo—1st Chief/Administrator, P.O. Box 71372, Fairbanks, Alaska 99701, Phone: (907) 452-7162, Fax: (907) 452-5063, Alaska Region

Takotna Village,¹ Janice Newton, Tribal Family Youth Specialist, P.O. Box 7529, Takotna, Alaska 99675, Phone: (907) 298-2212, Fax: (907) 298-2314, Alaska Region

Takotna Village,² Legal Department, Tanana Chiefs Conference, 122 First Avenue, Suite 600, Fairbanks, Alaska 99701, Phone: (907) 452-8251 ext. 3178, Fax: (907) 459-3953, Alaska Region

Native Village of Tanacross,¹ Colleen Denny, Tribal Family Youth Specialist, P.O. Box 76009, Tanacross, Alaska 99776, Phone: (907) 883-5024 ext. 122, Fax: (907) 883-4497, Alaska Region

Native Village of Tanacross,² Tanana Chiefs Conference, Legal Department, 122 First Avenue, Suite 600, Fairbanks, Alaska 99701, Phone: (907) 452-8251, Fax: (907) 459-3953, Alaska Region

Native Village of Tanana, Donna May Folger, Tribal Family Youth Specialist, P.O. Box 77130, Tanana, Alaska 99777, Phone: (907) 366-7154/7170, Fax: (907) 366-7246, Alaska Region

Native Village of Tazlina, Marce Simeon—ICWA Coordinator, P.O. Box 87, Glennallen, Alaska 99588, Phone: (907) 822-4375, Fax: (907) 822-5865, Email: marce@cvinternet.net, Alaska Region

Telida Village,¹ Josephine Royal, Tribal Family Youth Specialist, P.O. Box 84771, Fairbanks, Alaska 99708, Phone: (907) 864-0629, Fax: (907) 376-3540, Alaska Region

Telida Village,² Legal Department, Tanana Chiefs Conference, 122 First Avenue, Suite 600, Fairbanks, Alaska 99701, Phone: (907) 452-8251 ext. 3178, Fax: (907) 459-3953, Alaska Region

Native Village of Tetlin,¹ Nettie Warbelow, Tribal Family Youth Specialist, P.O. Box 797, Tok, Alaska 99780, Phone: (907) 883-2021, Fax: (907) 883-1267, Email: nwarbelow@acsalaska.net, Alaska Region

Native Village of Tetlin,² Legal Department, Tanana Chiefs Conference, 122 First Avenue, Suite 600, Fairbanks, Alaska 99701, Phone: (907) 452-8251 ext. 3178, Fax: (907) 459-3953, Alaska Region

The Native Village of Tyonek, Arthur Standifer—ICWA Worker, Julia Shanagin—Tribal Administrator, P.O. Box 82009, Tyonek, Alaska 99682, Phone: (907) 583-2209/2201, Fax: (907) 583-2209, Email: Arthur_s@tyonek.net, Alaska Region

Village of Venetie,¹ Larry Williams, Tribal Family Youth Specialist, P.O. Box 119, Venetie, Alaska 99781, Phone: (907) 849-8212, Fax: (907) 849-8149, Alaska Region

Village of Venetie,² Legal Department, Tanana Chiefs Conference, 122 First Avenue, Suite 600, Fairbanks, Alaska 99701, Phone: (907) 452-8251 ext. 3178, Fax: (907) 459-3953, Alaska Region

Haida Indian, (See Tlingit)

Central Council of the Tlingit and Haida Indian Tribes, Leonora Florendo—ICWA Coordinator, 320 W. Willoughby Avenue, Suite 300, Juneau, Alaska 99801-9983, Phone: (907) 463-7163, Fax: (907) 463-7343, Email: lflorendo@ccthita.org, Alaska Region

Haida Indian

Hydaburg Cooperative Association, Margaret Lockhart—Human Services Director, P.O. Box 349, Hydaburg, Alaska 99922, Phone: (907) 285-3666, Fax: (907) 285-3541, Email: humanservices@hydaburgtribe.org, Alaska Region

Organized Village of Kasaan, Paula R. Peterson—Tribal Administrator, P.O. Box 26-KXA, Kasaan-Ketchikan, Alaska 99950, Phone: (907) 542-2230, Fax; (907) 542-3006, Email: Paula@kasaan.org, Alaska Region

Inupiaq Eskimo

Native Village of Ambler, ICWA Coordinator & Tribal President, Box 86047, Ambler, Alaska 99786, Phone: (907) 445-2189, Fax: (907) 445-2257, Alaska Region

Village of Anaktuvuk Pass,¹ Tribal President, P.O. Box 21065, Anaktuvuk Pass, Alaska 99721, Phone: (907) 661-2575, Fax: (907) 661-2576, Alaska Region

Village of Anaktuvuk Pass,² Deborah Ryan—ICWA Worker, Inupiat Community of the Arctic Slope, P.O. Box 934, Barrow, Alaska 99723, Phone: (907) 852-5923, Fax: (907) 852-5924, Email: Social@inupiatgov.com, Alaska Region

Atqasuk Village,¹ Jimmy Nayukok—President, P.O. Box 91108, Atqasuk, Alaska 99791, Phone: (907) 633-2575, Fax: (907) 633-2576, Email: icastaq@astacalaska.net, Alaska Region

Atqasuk Village,² Arctic Slope Native Association, Maude Hopson—ICWA Worker, P.O. Box 29, Barrow, Alaska 99723, Phone: (907) 852-9374, Fax: (907) 852-6408, Email: maude.hopson@arcticslope.org, Alaska Region

Native Village of Barrow Inupiat Traditional Government, Marjorie Solomon—Social Services Director, P.O. Box 1130, Barrow, Alaska 99723, Phone: (907) 852-4411, Fax: (907) 852-4413, Email: marjorie.solomon@nvbarrow.net, Alaska Region

Native Village of Brevig Mission, Linda M. Divers—Tribal Family Coordinator, P.O. Box 85039, Brevig Mission, Alaska 99785, Phone: (907) 642-3012, Fax: (907) 642-3042, Email: linda@kawerak.org, Alaska Region

Native Village of Brevig Mission, Kawerak, Inc. Children & Family Services, P.O. Box 948, Nome, Alaska 99762, Phone: (907) 443-4261, Fax: (907) 443-4457, Alaska Region

Native Village of Buckland, Tracey Hadley—ICWA Coordinator, P.O. Box 67, Buckland, Alaska 99727-0067, Phone: (907) 494-2169, Fax: (907) 494-2168, Email: icwa@nunachiak.org, Alaska Region

Native Village of Council, Tribal President and ICWA Coordinator, P.O. Box 2050, Nome, Alaska 99762, Phone: (907) 443-7649, Fax: (07) 443-5965, Alaska Region

Native Village of Deering, Pearl Moto—ICWA Coordinator, P.O. Box 36089, Deering, Alaska 99763, Phone: (07) 363-2229, Fax: (907) 363-2195, Alaska Region

Native Village of Deering, Maniilaq Associaction, P.O. Box 256, Kotzebue, Alaska 99752, Phone: (907) 442-7919, Fax: (907) 442-7933, Alaska Region

Native Village of Elim, Joseph H. Murray, Tribal Family Coordinator, P.O. Box 39070, Elim, Alaska 99739, Phone: (907) 890-2457, Fax: (907) 890-2458, Email: jmurrayjr@kawerak.org, Alaska Region

Inupiaq Eskimo

Native Village of Elim, Kawerak, Inc. Children & Family Services, P.O. Box 948, Nome, Alaska 99762, Phone: (907) 443-4261, Fax: (907) 443-4457, Alaska Region

Inupiat Community of Arctic Slope, Deborah Ryan—ICWA Program, P.O. Box 934, Barrow, Alaska 99723, Phone: (907) 852-4227, Fax: (907) 852-4246, Email: icas.social@barrow.com, Alaska Region

Kaktovik Village (aka Barter Island),¹ Isaac Akootchook—President, P.O. Box 52, Kaktovik, Alaska 99747, Phone: (907) 640-2042/2043, Fax: (907) 640-2044, Alaska Region

Kaktovik Village (aka Barter Island),² Arctic Slope Native Association, Maude Hopson, ICWA Worker, P.O. Box 29, Barrow, Alaska 99723, Phone: (907) 852-9374, Fax: (907) 852-6408, Email: maude.hopson@arcticslope.org, Alaska Region

Native Village of Kiana, Dale Stotts, Tribal Director, Jacqueline Morris, ICWA Worker, P.O. Box 69, Kiana, Alaska 99749, Phone: (907) 475-2109, Fax: (907) 475-2180, Email: icwa@katyaaq.org or, tribedirector@katyaaq.org, Alaska Region

King Island Native Community, Danielle Holt, Kawerak, Inc. Children & Family Services, P.O. Box 948, Nome, Alaska 99762, Phone: (907) 443-4261, Fax: (907) 443-4457, Alaska Region

Native Village of Kivalina,¹ Stanley Hawley—Tribal Administrator, P.O. Box 50051, Kivalina, Alaska 99750, Phone: (907) 645-2153, Fax: (907) 645-2193/2250, Email: tribeadmin@kivaliniq.org, Alaska Region

Native Village of Kivalina,² Maniilaq Association—ICWA Program, P.O. Box 256, Kotzebue, Alaska 99752, Phone: (907) 442-7919, Fax: (907) 442-7933, Alaska Region

Native Village of Kobuk, Agnes Bernhardt—Tribal Administrator, P.O. Box 51039, Kobuk, Alaska 99751-0039, Phone: (907) 948-2203/2207, Fax: 9907) 948-2355, Email: tribeadmin@laugvik.org, Alaska Region

Native Village of Kotzebue, Clara Henry, Family Tribal Resource Director, P.O. Box 296, Kotzebue, Alaska 99752-0296, Phone: (907) 442-3467 Ext: 1021, Fax: (907) 442-4013, Email: clara.henry@qira.org, Alaska Region

Native Village of Koyuk, Leo M. Charles Sr., Tribal Family Coordinator, P.O. Box 53149, Koyuk, Alaska 99753, Phone: (907) 963-2215, Fax: (907) 963-2300, Email: lcharles@kawerak.org, Alaska Region

Native Village of Koyuk, Kawerak, Inc. Children & Family Services, P.O. Box 948, Nome, Alaska 99762, Phone: (907)443-4261, Fax: (907) 443-4457, Alaska Region

Native Village of Mary's Igloo,¹ Dolly Kugzruk—ICWA Worker, P.O. Box 546, Teller, Alaska 99778, Phone: (907) 642-2185, Fax: (907) 642-3000, Email: dkugzruk@kawerak.org, Alaska Region

Native Village of Mary's Igloo,² Kawerak, Inc. Children & Family Services, P.O. Box 948, Nome, Alaska 99762, Phone: (907) 443-4261, Fax: (907) 443-4457, Alaska Region

Native Village of Noatak, Kelly Soxie—ICWA Coordinator, P.O. Box 89, Noatak, Alaska 99761, Phone: (907) 485-2176, Fax: (907) 485-2137, Email: icwa@nautaag.org, Alaska Region

Nome Eskimo Community, Lester Keller, Family Services Director, P.O. Box 1090, Nome, Alaska 99762-1090, Phone: (907) 443-9109, Fax: (907) 443-3539, Email: lesterkeller@gci.net, Alaska Region

Noorvik Native Community,¹ Nellie Ballot—ICWA Worker, P.O. Box 209, Noorvik, Alaska 99763, Phone: (907) 636-2144, Fax: (907) 636-2284, Alaska Region

Noorvik Native Community,² Maniilaq Association—ICWA Program, P.O. Box 256, Kotzebue, Alaska 99752, Phone: (907) 442-7919, Fax: (907) 442-7933, Alaska Region

Native Village of Nuiqsut,¹ Martha A. Itta—Tribal Administrator, P.O. Box 89169, Nuiqsut, Alaska 99789, Phone: (907) 480-3010, Fax: (907) 480-3009, Email: native.village@astacalaska.net, Alaska Region

Native Village of Nuiqsut,² Arctic Slope Native Association, Maude Hopson—ICWA Worker, P.O. Box 29, Barrow, Alaska 99723, Phone: (907) 852-9374, Fax: (907) 852-6408, Email: maude.hopson@arcticslope.org, Alaska Region

Native Village of Point Hope, Martha Douglas, Family Caseworker, P.O. Box 109, Point Hope, AK 99766, Phone: (907) 368-3122, Fax: (907) 368-5401, Email: Martha.douglas@tikigaq.org, Alaska Region

Native Village of Point Lay,¹ Sophie Henry, IRA Council Board Member/Village Liaison, Box 59031, Point Lay, Alaska 99757, Phone: (907) 833-2575, Fax: (907) 833-2576, Alaska Region

Native Village of Point Lay,² Inupiat Community of the Arctic Slope, Deborah Ryan—ICWA Worker, P.O. Box 934, 6986 Ahmaogak Street, Barrow, Alaska 99723, Phone: (907) 852-5923, Fax: (907) 852-5924, Email: social@iatgov.com, Alaska Region

Native Village of Selawik,¹ Jessie Hingsbergen, ICWA Worker, P.O. Box 59, Selawik, Alaska 99770-0059, Phone: (907) 484-2165 ext. 14, Fax: (907) 484-2201, Alaska Region

Native Village of Selawik,² Maniilaq Association—ICWA Program, P.O. Box 256, Kotzebue, Alaska 99752, Phone: (907) 442-7919, Fax: (907) 442-7933, Alaska Region

Native Village of Shaktoolik,¹ Hannah Sookiayak, Tribal Family Coordinator, P.O. Box 100, Shaktoolik, Alaska 99771, Phone: (907) 955-2443, Fax: (907) 955-2444, Email: tfc.skk@kawerak.org, Alaska Region

Native Village of Shaktoolik,² Kawerak, Inc Children & Family Services, P.O. Box 948, Nome, Alaska 99762, Phone: (907)443-4261, Fax: (907) 443-4457, Alaska Region

Native Village of Shishmaref,¹ Karla Nayokpuk, Tribal Family Coordinator, P.O. Box 72110, Shishmaref, Alaska 99772, Phone: (907) 649-3078, Fax: (907) 649-2278, Email: knayokpuk@kawerak.org, Alaska Region

Native Village of Shishmaref,² Kawerak, Inc Children & Family Services, P.O. Box 948, Nome, Alaska 99762, Phone: (907)443-4261, Fax: (907) 443-4457, Alaska Region

Native Village of Shungnak,¹ Sally Custer—ICWA Coordinator, P.O. Box 64, Shungnak, Alaska 99773, Phone: (907) 437-2163, Fax: (907) 437-2183, Alaska Region

Native Village of Shungnak,² Maniilaq Association ICWA Program, P.O. Box 256, Kotzebue, Alaska 99752, Phone: (907) 442-7919, Fax: (907) 442-7933, Alaska Region

Village of Solomon, Kirsten Timbers—President, P.O. Box 2053, Nome, Alaska 99762, Phone: (907) 443-4985, Fax: (907) 443-5189, Email: tc.sol@kawerak.org, Alaska Region

Native Village of Teller (Mary's Igloo),¹ Dolly Kugzruk—ICWA Worker, P.O. Box 546, Teller, Alaska 99778, Phone: (907) 642-2185, Fax: (907) 642-3000, Email: dkugzruk@kawerak.org, Alaska Region

Native Village of Teller (Mary's Igloo),² Kawerak, Inc. Children & Family Services, P.O. Box 948, Nome, Alaska 99762, Phone: (907) 443-4261, Fax: (907) 443-4457, Alaska Region

Village of Wainwright,¹ June Childress—President, P.O. Box 143, Wainwright, Alaska 99782, Phone: (907) 763-2535, Fax: (907) 763-2536, Email: wainwright@inupiatgov.com, Alaska Region

Village of Wainwright,² Arctic Slope Native Association, Maude Hopson—ICWA Worker, P.O. Box 1232, Barrow, Alaska 99723, Phone: (907) 852-9374, Fax: (907) 852-2761, Email: maudehopson@arcticslope.org;, Alaska Region

Native Village of Wales,¹ Anna M. Oxereok, Tribal Family Coordinator, P.O. Box 549, Wales, Alaska 99783, Phone: (907) 664-2185, Fax: (907) 664-2200/3062, Email: aoxereok@kawerak.org, Alaska Region

Inupiaq

Native Village of Wales,² Kawerak, Inc. Children & Family Services, P.O. Box 948, Nome, Alaska 99762, Phone: (907)443-4261, Fax: (907) 443-4457, Alaska Region

Inupiaq Eskimo

Native Village of White Mountain,¹ Danielle Holt, P.O. Box 85, White Mountain, Alaska 99784, Phone: (907) 638-20008, Fax: (907) 638-2009, Email: dholt@kawerak.org, Alaska Region

Native Village of White Mountain,² Kawerak, Inc. Children & Family Services, P.O. Box 948, Nome, Alaska 99762, Phone: (907)443-4261, Fax: (907) 443-4457, Alaska Region

Tlingit Indian

Angoon Community Association, Raynelle Jack- Tribal Administrator, P.O. Box 328, Angoon, Alaska 99820, Phone: (907) 788-3411, Fax: (907) 788-3412, Alaska Region

Tlingit Indian, (See Haida)

Central Council of the Tlingit and Haida Indian Tribes, Leonora Florendo—ICWA Coordinator, 320 W. Willoughby Avenue, Suite 300, Juneau, Alaska 99801-9983, Phone: (907) 463-7163, Fax: (907) 463-7343, Email: lflorendo@ccthita.org, Alaska Region

Tlingit Indian

Chilkat Indian Village (Klukwan), Anna Stevens, Tribal Service Specialist/ICWA Worker, P.O. Box 2207, Haines, Alaska 99827, Phone: (907) 767-5505, Fax: (907) 767-5408, astevens@chilkatindianvillage.org, Alaska Region

Chilkoot Indian Association (Haines), Stella Howard—Family Caseworker, P.O. Box 490, Haines, Alaska 99827, Phone: (907) 766-2810, Fax: (907) 766-2365, Email: showard@ccthita.org, Alaska Region

Craig Community Association, Roberta Patten—Family Caseworker II, P.O. Box 746, Craig, Alaska 99921, Phone: (907) 826-3948, Fax: (907) 826-5526, Email: rpatten@ccthita.org, Alaska Region

Douglas Indian Association, Dixon (DJ) Jessie Mazon—Family Caseworker, 811 W. 12th Street, Juneau, Alaska 99801, Phone: (907) 364-2916 or (907) 364-2983, Fax: (907) 364-2917, Email: djmazon-dia@gci.net, Alaska Region

Haines (See Chilkoot Indian Association)

Hoonah Indian Association, Candy Keown, Director Human Services, P.O. Box 602, Hoonah, Alaska 99829, Phone: (907) 945-3545, Fax: (907) 945-3530, Email: ckeown@hiatribe.org, Alaska Region

Organized Village of Kake, M. Ann Jackson—Social Services Director, P.O. Box 316, Kake, Alaska 99830, Phone: (907) 785-6471, Fax: (907) 785-4902, Email: annjackson@kakefirstnation.org, Alaska Region

Ketchikan Indian Corporation, Wendy Weston, LMSW, Tribal Family Services, 2960 Tongass Avenue, First Floor, Ketchikan , Alaska 99901, Phone: (907) 228-9203, Fax: (907) 228-4920, Email: wweston@kictribe.org, Alaska Region

Klawock Cooperative Association, Cynthia Mills—Family Caseworker, P.O. Box 173, Klawock, Alaska 99925, Phone: (907) 755-2326, Fax: (907) 755-2912, Email: cmills@ccthita.org, Alaska Region

Klukwan (See Chilkat Indian Village)

Petersburg Indian Association, Ramona Brooks, ICWA Worker Tribal Social Services, P.O. Box 1418, Petersburg, Alaska 99833, Phone: (907) 772-3636 Ext: 121, Fax: (907) 722-3686, Email: icwa@piatribal.org, Alaska Region

Organized Village of Saxman, Janice Jackson—Family Caseworker II, Route 2, Box 2, Ketchikan, Alaska 99901, Phone: (907) 225-2502, Fax: (907) 247-2912, Email: jjackson@ccthita.org, Alaska Region

Sitka Tribe of Alaska, Terri McGraw—ICWA Caseworker, Jackie DeBell—ICWA Caseworker, 456 Katlian Street, Sitka, Alaska 99835, Phone: (907) 747-3968/7359, Fax: (907) 747-7643, Email: terri.mcgraw@sitkatribe-nsn.gov, Jackie.debell@sitkatribe-nsn.gov, Alaska Region

Skagway Village, Delia Commander, Tribal President/Administrator, P.O. Box 1157, Skagway, Alaska 99840, Phone: (907) 983-4068, Fax: (907) 983-3068, Email: dcommander@skagwaytraditional.org, Alaska Region

Wrangell Cooperative Association, Elizabeth Newman—Family Caseworker II, P.O. Box 1198, Wrangell, Alaska 99929, Phone: (907) 874-3482, Fax: (907) 874-2982, Email: bnewman@ccthita.org, Alaska Region

Yakutat Tlingit Tribe, Sheri Nelson—JOM/ICWA Director, P.O. Box 418, Yakutat, Alaska 99689, Phone: (907) 784-3124, Fax: (907) 784-3664, Email: snelson@ytttribe.org, Alaska Region

Tsimshian Indian

Metlakatla Indian Community, (Annette Island Reserve), Cate Calvert Arriola, MSW, Director Social Services, P.O. Box 8, Metlakatala, Alaska 99926, Phone: (907) 886-6916, Fax: (907) 886-6913, Email: Cate@metlakatla.com, Northwest Region

Yupik Eskimo

Akiachak Native Community, Tribal Administrator, P.O. Box 51070, Akiachak, Alaska 99551-0070, Phone: (907) 825-4626/4073, Fax: (907) 825-4029, Alaska Region

Akiak Native Community, Sheila Williams, Tribal Administrator, P.O. Box 52127, Akiak, Alaska 99552, Phone: (907) 765-7112/7117, Fax: (907) 765-7512/7120, Alaska Region

Village of Alakanuk,¹ Charlene Smith—ICWA, P.O. Box 149, Alakanuk, Alaska 99554, Phone: (907) 238-3704/3730, Fax: (907) 238-3705, Email: csmith@avcp.org, Alaska Region

Village of Alakanuk,² Sarah Jenkins, ICWA Social Worker, Association of Village Council Presidents, ICWA Staff, P.O. Box 219, Bethel, Alaska 99559, Phone: (907) 543-7400, Fax: (907) 543-5759, Email: sjenkins@avcp.org, lalexie@avcp.org, Alaska Region

Native Village of Aleknagik,¹ Jane Gottschalk—Caseworker II, P.O. Box 115, Aleknagik, Alaska 99555, Phone: (907) 842-4577, Fax: (907) 842-2229, Alaska Region

Native Village of Aleknagik,² Children's Services Program Manager, Bristol Bay Native Association, P.O. Box 310, 1500 Kanakanak Road, Dillingham, Alaska 99576, Phone: (907) 842-4139, Fax: (907) 842-4106, Email: cnixon@bbna.com, Alaska Region

Algaaciq Native Village (St.Mary's),¹ Gertrude Paukan—ICWA Caseworker, P.O. Box 48, 200 Paukan Avenue, St. Mary's, Alaska 99658-0048, Phone: (907) 438-2932/2933, Fax: (907) 438-2227, Email: gpaukan@avcp.org, Alaska Region

Algaaciq Native Village (St.Mary's),² Association of Village Council Presidents, Sarah Jenkins—ICWA Social Worker, P.O. Box 219, Bethel, Alaska 99559, Phone: (907) 543-7400, Fax: (907) 543-5759, Email: sjenkins@avcp.org, Alaska Region

Yupiit of Andreafski, Gail Alstrom-Beans, President, P.O. Box 88, St. Mary's, Alaska 99658-0088, Phone: (907) 438-2572, Fax: (907) 438-2573, Alaska Region

Village of Aniak, Muriel Morgan—ICWA Worker, Box 349, Aniak, Alaska 99557, Phone: (907) 675-4349, Fax: (907) 675-4513, Alaska Region

Asa'carsarmiut Tribe, Evelyn D. Peterson—Social Service Director, P.O. Box 32107, Mountain Village, Alaska 99632, Phone: (907) 591-2428, Fax: (907) 591-2934, Email: atcicwa@gci.net, Madeline Long—Education I & II, P.O. Box 32107, Mountain Village, Alaska 99632, Phone: (907) 591-2428, Fax: (907) 591-2934, Alaska Region

Village of Atmautluak, Edward Nicholai—Tribal Administrator, P.O. Box 6568, Atmautluak, Alaska 99559, Phone: (907) 553-5610, Fax: (907) 553-5612, Email: atmautluaktc@hughes.net, Alaska Region

Village of Bill Moore's Slough, Nancy C. Andrews, ICWA Family Specialist, Pauline Okitkun—Tribal Administrator, P.O. Box 20288, Kotlik, Alaska 99620, Phone: (907) 899-4236/(907) 899-4232, Fax: (907) 899-4002/(907) 899-4461, Alaska Region

Village of Chefornak,¹ Edward Kinegak—ICWA Specialist, P.O. Box 110, Chefornak, Alaska 99561-0110, Phone: (907) 867-8808, Fax: (907) 867-8711, Email: ekinegak@avcp.org, Alaska Region

Village of Chefornak,² Sarah Jenkins, ICWA Social Worker, Association of Village Council Presidents, ICWA Staff, P.O. Box 219, Bethel, Alaska 99559, Phone: (907) 543-7400, Fax: (907) 543-5759, Email: sjenkins@avcp.org, Alaska Region

Chevak Native Village, (aka Qissunamiut Tribe),¹ Esther Friday, ICWA Director/Worker, P.O. Box 140, Chevak, Alaska 99563, Phone: (907) 858-7918, Fax: (907) 858-7919, Alaska Region

Chevak Native Village, (aka Qissunamiut Tribe),² Sarah Jenkins, ICWA Social Worker, Association of Village Council Presidents, ICWA Staff, P.O. Box 219, Bethel, Alaska 99559, Phone: (907) 543-7400, Fax: (907) 543-5759, Email: sjenkins@avcp.org, Alaska Region

Chinik Eskimo Community (Golovin), Sherri Lewis—Tribal Family Coordinator, P.O. Box 62019, Golovin, Alaska 99762, Phone: (907) 779-3489, Fax: (907) 779-2000, Email: slewis@kawerak.org, Alaska Region

Native Village of Chuathbaluk, Lisa Feyereisen, Grants Manager & Acting Administrator, P.O. Box CHU, Chuathbaluk, Alaska 99557, Phone: (907) 467-4313, Fax: (907) 467-4113, Alaska Region

Native Village of Chuathbaluk, Sarah Jenkins, ICWA Social Worker, Association of Village Council Presidents, ICWA Staff, P.O. Box 219, Bethel, Alaska 99559, Phone: (907) 543-7400, Fax: (907) 543-5759, Email: sjenkins@avcp.org, Alaska Region

Chuloonawick Native Village, Bambi Akers—Tribal Administrator, P.O. Box 245, Emmonak, Alaska 99581, Phone: (907) 949-1345, Fax: (907) 949-1346, Email: coffice@starband.net, Alaska Region

Village of Clarks Point,¹ Betty L. Gardiner—Tribal President, P.O. Box 90, Clarks Point, Alaska 99569, Phone: (907) 236-1427, Fax: (907) 236-1428, Email: bgardiner@clp.swrsd.org, Alaska Region

Village of Clarks Point,² Children's Services Program Manager, Bristol Bay Native Association, P.O. Box 310, 1500 Kanakanak Road, Dillingham, Alaska 99576, Phone: (907) 842-4139, Fax: (907) 842-4106, Email: cnixon@bbna.com, Alaska Region

Village of Crooked Creek, Evelyn Thomas, President, Lorraine John, ICWA Worker, P.O. Box 69, Crooked Creek, Alaska 99575, Phone: (907) 432-2200, Fax: (907) 432-2247, Alaska Region

Curyung Tribal Council, (Native Village of Dillingham),¹ Chris Itumulria, Tribal Children Service Worker, P.O. Box 216, Dillingham, Alaska 99576, Phone: (907) 842-4508, Fax: (907) 842-4510, Email: chris@curyungtribe.com, Alaska Region

Curyung Tribal Council, (Native Village of Dillingham),² Children's Services Program Manager, Bristol Bay Native Association, P.O. Box 310, 1500 Kanakanak Road, Dillingham, Alaska 99576, Phone: (907) 842-4139, Fax: (907) 842-4106, Email: cnixon@bbna.com, Alaska Region

Dillingham (See Curyung Tribal Council)

Native Village of Diomede (aka Inalik), Michelle Kuluhon—ICWA Coordinator, P.O. Box 7079, Diomede, Alaska 99762, Phone: (907) 686-2202/2175, Fax: (907) 686-2203, Alaska Region

Native Village of Eek,¹ Lillian Cleveland—ICWA Worker, P.O. Box 89, Eek, Alaska 99578, Phone: (907) 536-5572, Fax: (907) 536-5582, Email: lcleveland@avcp.org, Alaska Region

Native Village of Eek,² Association of Village Council Presidents, Sarah Jenkins, ICWA Social Worker, P.O. Box 219, Bethel, Alaska 99559, Phone: (907) 543-7400, Fax: (907) 543-5759, Email: sjenkins@avcp.org, Alaska Region

Native Village of Ekuk,¹ Helen Foster, Tribal Administrator, Maria Binkowski, Receptionist/File Clerk, 300 Main Street, P.O. Box 530, Dillingham, Alaska 99576, Phone: (907) 842-3842, Fax: (907) 842-3843, Alaska Region

Native Village of Ekuk,² Children's Services Program Manager, Bristol Bay Native Association, P.O. Box 310, 1500 Kanakanak Road, Dillingham, Alaska 99576, Phone: (907) 842-4139, Fax: (907) 842-4106, Email: cnixon@bbna.com, Alaska Region

Ekwok Village,¹ Sandra Stermer, Tribal Children Service Worker, P.O. Box 70, Ekwok, Alaska 99580, Phone: (907) 464-3349, Fax: (907) 464-3350, Alaska Region

Ekwok Village,² Children's Services Program Manager, Bristol Bay Native Association, P.O. Box 310, 1500 Kanakanak Road, Dillingham, Alaska 99576, Phone: (907) 842-4139, Fax: (907) 842-4106, Email: cnixon@bbna.com, Alaska Region

Yupik Eskimo

Emmonak Village, Priscilla S. Kameroff—ICWA Worker, Dora C. Moore, Administrator, P.O. Box 126, Emmonak, Alaska 99581-0126, Phone: (907) 949-1820/1720, Fax: (907) 949-1384, Email: icwa@hughes.net and, Alaska Region

Fortuna Ledge, (See Native Village of Marshall)

Native Village of Council, Rhonda Hanebuth—ICWA Coordinator, P.O. Box 2050, Nome, AK 99762, Phone: (907) 443-7649, Fax: (907) 443-5965, Alaska Region

Native Village of Gambell, Tyler Campbell Sr.—ICWA Coordinator, P.O. Box 90, Gambell, Alaska 99742, Phone: (907) 985-5346, Fax: (907) 985-5014, Alaska Region

Native Village of Georgetown, Amber Matthews—Tribal Administrator, 4300 B Street, Suite 207, Anchorage, Alaska 99503, Phone: (907) 274-2195, Fax: (907) 274-2196, Email: gtc@gci.net, Alaska Region

Golovin (See Chinik Eskimo Community)

Native Village of Goodnews Bay,¹ Pauline A. Echuck—ICWA, P.O. Box 138, Goodnews Bay, Alaska 99589, Phone: (907) 967-8331/8929, Fax: (907) 967-8330, Alaska Region

Native Village of Goodnews Bay,² Association of Village Council Presidents, Sarah Jenkins, ICWA Social Worker, P.O. Box 219, Bethel, Alaska 99559, Phone: (907) 543-7400, Fax: (907) 543-5759, Email: sjenkins@avcp.org, Alaska Region

Native Village of Hamilton 1, Tribal Administrator, P.O. Box 20248, Kotlik, Alaska 99620-0248, Phone: (907) 899-4252/4255, Fax: (907) 899-4202, Email: iwilliams@avcp.org, Alaska Region

Native Village of Hamilton 2, Association of Village Council Presidents, Sarah Jenkins, ICWA Social Worker, P.O. Box 219, Bethel, Alaska 99559, Phone: (907) 543-7400, Fax: (907) 543-5759, Email: sjenkins@avcp.org, Alaska Region

Native Village of Hooper Bay,¹ Mildred B. Metcalf, ICWA Representative, P.O. Box 62, Hooper Bay, Alaska 99604, Phone: (907) 758-4006, Fax: (907) 758-4606, Alaska Region

Native Village of Hopper Bay,² Association of Village Council Presidents, Sarah Jenkins, ICWA Social Worker, P.O. Box 219, Bethel, Alaska 99559, Phone: (907) 543-7400, Fax: (907) 543-5759, Email: sjenkins@avcp.org, Alaska Region

Igiugig Village, Tanya Salmon—ICWA Worker, P.O. Box 4008, Igiugig, Alaska 996013, Phone: (907) 533-3211, Fax: (907) 533-3217, Alaska Region

Iqurmuit Traditional Council,¹ Josephine Changsak—ICWA Coordinator, P.O. Box 38, Russian Mission, Alaska 99657-0009, Phone: (907) 584-5594, Fax: (907) 584-5596, Alaska Region

Iqurmuit Traditional Council,² Association of Village Council Presidents, Sarah Jenkins, ICWA Social Worker, P.O. Box 219, Bethel, Alaska 99559, Phone: (907) 543-7400, Fax: (907) 543-5759, Email: sjenkins@avcp.org, Alaska Region

Village of Kalskag (aka Upper Kalskag),¹ Bonnie Perrson—Administrator, P.O. Box 50, Upper Kalskag, Alaska 99607, Phone: (907) 471-2207, Fax: (907) 471-2399, Alaska Region

Village of Kalskag (aka Upper Kalskag),² Association of Village Council Presidents, Sarah Jenkins, ICWA Social Worker, P.O. Box 219, Bethel, Alaska 99559, Phone: (907) 543-7400, Fax: (907) 543-5759, Email: sjenkins@avcp.org, Alaska Region

Village of Lower Kalskag,¹ Nastasia “Jackie” Levi, President/Tribal Administrator, P.O. Box 27, Lower Kalskag, Alaska 99626, Phone: (907) 471-2379/2344, Fax: (907) 471-2412, Alaska Region

Village of Lower Kalskag,² Association of Village Council Presidents, Sarah Jenkins, ICWA Social Worker, P.O. Box 219, Bethel, Alaska 99559, Phone: (907) 543-7400, Fax: (907) 543-5759, Email: sjenkins@avcp.org, Alaska Region

Kashunamiut Tribe (See Chevak)

Kasigluk Traditional Elders Council, (Formerly The Native Village of Kasigluk), Lena Keene—ICWA Worker, Karen Martin—Tribal Administrator, P.O. Box 19, Kasigluk, Alaska 99609, Phone: (907) 477-6418/6405, Fax: (907) 477-6416/6212, Alaska Region

Native Village of Kipnuk,¹ Nicole A. Slim—ICWA Specialist, P.O. Box 57, Kipnuk, Alaska 99614, Phone: (907) 896-5515, Fax: (907) 896-5240, Email: nslim@avcp.org, Alaska Region

Native Village of Kipnuk,² Association of Village Council Presidents, Sarah Jenkins, ICWA Social Worker, P.O. Box 219, Bethel, Alaska 99559, Phone: (907) 543-7400, Fax: (907) 543-5759, Email: sjenkins@avcp.org, Alaska Region

Kokhanok Village,¹ Mary Andrew—Caseworker II, P.O. Box 1007, Kokhanok, Alaska 99606, Phone: (907) 282-2224, Fax: (907) 282-2264, Alaska Region

Kokhanok Village,² Crystal Nixon, Children's Services Program Manager, Bristol Bay Native Association, P.O. Box 310, 1500 Kanakanak Road, Dillingham, Alaska 99576, Phone: (907) 842-4139, Fax: (907) 842-4106, Email: cnixon@bbna.com, Alaska Region

Koliganek Village (See New Koliganek)

Native Village of Kongiganak,¹ Janet Otto, ICWA Worker, Wayne Phillip, Tribal Administrator, P.O. Box 5092, Kongiganak, Alaska 99545, Phone: (907) 557-5311, Fax: (907) 557-5348, Email: janet_otto@avcp.org, Alaska Region

Native Village of Kongiganak,² Association of Village Council Presidents, Sarah Jenkins, ICWA Social Worker, P.O. Box 219, Bethel, Alaska 99559, Phone: (907) 543-7400, Fax: (907) 543-5759, Email: sjenkins@avcp.org, Alaska Region

Village of Kotlik, Della Hunt—Tribal Administrator, P.O. Box 20210, Kotlik, Alaska 99620, Phone: (907) 899-4459, Fax: (907) 899-4459/4790, Alaska Region

Organized Village of Kwethluk, Chariton A. Epchook—ICWA Coordinator, P.O. Box 130, Kwethluk, Alaska 99621, Phone: (907) 588-8705, Fax: (907) 588-8429, Email: ovkssicw@unicom-alaska.com, Alaska Region

Native Village of Kwigillingok, Andrew Kiunya—Tribal Administrator, P.O. Box 90, Kwigillingok, Alaska 99622, Phone: (907) 588-8114/8117, Fax: (907) 588-8429, Alaska Region

Native Village of Kwinhagak (aka Quinhagak), Grace Friendly, Health & Human Service Director/ICWA, P.O. Box 149, Quinhagak, Alaska 99655, Phone: (907) 556-8167 ext. 262, Fax: (907) 556-8166, Alaska Region

Levelock Village,¹ Ida Apokedak—President, P.O. Box 70, Levelock, Alaska 99625, Phone: (907) 287-3030, Fax: (907) 287-3032, Email: lovelock@starband.net, Alaska Region

Levelock Village,² Bristol Bay Native Association, Children's Services Program Manager, P.O. Box 310, 1500 Kanakanak Road, Dillingham, Alaska 99576, Phone: (907) 842-4139, Fax: (907) 842-4106, Email: cnixon@bbna.com, Alaska Region

Manokotak Village,¹ Diana Gamechuk—Caseworker I, P.O. Box 169, Manokotak, Alaska 99628, Phone: (907) 289-2067/2074, Fax: (907) 289-1235, Alaska Region

Manokotak Village,² Children's Services Program Manager, Bristol Bay Native Association, P.O. Box 310, 1500 Kanakanak Road, Dillingham, Alaska 99576, Phone: (907) 842-4139, Fax: (907) 842-4106, Email: cnixon@bbna.com, Alaska Region

Native Village of Marshall, (aka Fortuna Ledge), Nick Andrew Jr.—Tribal Administrator, Box 110, Marshall, Alaska 99585, Phone: (907) 679-6302, Fax: (907) 679-6187, Email: nandrewmlltc@gci.net, Alaska Region

Native Village of Mekoryuk, Teresa D. Kiokun-ICWA Coordinator, Steven J. Whitman-Executive Director, P.O. Box 66, Mekoryuk, Alaska 99630, Phone: (907) 827-8828, Fax: (907) 827-8133, Email: nvmicwa@gci.net, Alaska Region

Mountain Village (See Asa'carsarmiut Tribe)

Naknek Native Village, Leon Kiana—Village President, P.O. Box 210, Naknek, Alaska 99633, Phone: (907) 246-7422/4210, Fax: (907) 246-3563/4212, Alaska Region

Native Village of Napaimute,¹ Mark Leary, P.O. Box 1301, Bethel, Alaska 99559, Phone: (907) 543-2887, Fax: (907) 543-2892, Alaska Region

Native Village of Napaimute,² Association of Village Council Presidents, Sarah Jenkins, ICWA Social Worker, P.O. Box 219, Bethel, Alaska 99559, Phone: (907) 543-7400, Fax: (907) 543-5759, Email: sjenkins@avcp.org, Alaska Region

Native Village of Napakiak,¹ Sally K. Billy—ICWA, P.O. Box 34114, Napakiak, Alaska 99634, Phone: (907) 589-2815, Fax: (907) 589-2814, Email: sbilly@avcp.org, Alaska Region

Native Village of Napakiak,² Association of Village Council Presidents, Sarah Jenkins, ICWA Social Worker, P.O. Box 219, Bethel, Alaska 99559, Phone: (907) 543-7400, Fax: (907) 543-5759, Email: sjenkins@avcp.org, Alaska Region

Native Village of Napaskiak,¹ Helen Raganak—Tribal Administrator, Chris G. Larson—Chief, P.O. Box 6009, Napaskiak, Alaska 99559, Phone: (907) 737-7364, Fax: (907) 737-7039, Email: hkaganak@napaskiak.org, Alaska Region

Native Village of Napaskiak,² Association of Village Council Presidents, Sarah Jenkins, ICWA Social Worker, P.O. Box 219, Bethel, Alaska 99559, Phone: (907) 543-7400, Fax: (907) 543-5759, Email: sjenkins@avcp.org, Alaska Region

New Koliganek Village Council, (Koliganek Village),¹ Herman Nelson—President, P.O. Box 5057, Koliganek, Alaska 99576, Phone: (907) 596-3434, Fax: (907) 596-3462, Alaska Region

New Koliganek Village Council, (Koliganek Village),² Children's Services Program Manager, Bristol Bay Native Association, P.O. Box 310, 1500 Kanakanak Road, Dillingham, Alaska 99576, Phone: (907) 842-4139, Fax: (907) 842-4106, Email: cnixon@bbna.com, Alaska Region

New Stuyahok Village, Faith Andrew—Tribal Administrator, P.O. Box 49, New Stuyahok, Alaska 99637, Phone: (907) 693-3102/3173, Fax: (907) 693-3179, Email: nstc@starband.net, Alaska Region

Newhalen Village, Maxine Wasillie—ICWA Worker, Joanne Wassillie—Administrator, P.O. Box 207, Newhalen, Alaska 99606-0207, Phone: (907) 571-1410/1317, Fax: (907) 571-1537, Alaska Region

Newtok Village, Moses Carl—President, P.O. Box 5545, Newtok, Alaska 99559-5545, Phone: (907) 237-2314, Fax: (907) 237-2321, Alaska Region

Native Village of Nightmute,¹ Paul Tulik—Vice President, Box 90021, Nightmute, Alaska 99690, Phone: (907) 647-6215, Fax: (907) 647-6112, Alaska Region

Native Village of Nightmute,² Association of Village Council Presidents, Sarah Jenkins, ICWA Social Worker, P.O. Box 219, Bethel, Alaska 99559, Phone: (907) 543-7400, Fax: (907) 543-5759, Email: sjenkins@avcp.org, Alaska Region

Nunakauyarmiut Tribe, (Native Village of Toksook Bay), Marcella White-ICWA Coordinator, David A. Nicholai, Tribal Executive Director, P.O. Box 37048, Toksook Bay, Alaska 99637, Phone: (907) 427-7914/7114/7615, Fax: (907) 427-7206/7714, Alaska Region

Nunam Iqua (formerly Sheldon's Point),¹ Olivia Horn-Moses—Tribal Administrator, P.O. Box 27, Nunam Iqua, Alaska 99666, Phone: (907) 498-4184, Fax: (907) 498-4185, Email: n/a, Alaska Region

Nunam Iqua (formerly Sheldon's Point),² Association of Village Council Presidents, Sarah Jenkins, ICWA Social Worker, P.O. Box 219, Bethel, Alaska 99559, Phone: (907) 543-7400, Fax: (907) 543-5759, Email: sjenkins@avcp.org, Alaska Region

Native Village of Nunapitchuk, Eli Wassillie—Tribal Administrator, P.O. Box 130, Nunapitchuk, Alaska 99641-0130, Phone: (907) 527-5705, Fax: (907) 527-5711, Email: tribaladmin@yupik.org, Alaska Region

Village of Ohogamiut,¹ Maurice Turet—Council President, P.O. Box 49, Marshall, Alaska 99585, Phone: (907) 679-6517/6598, Fax: 9907) 679-6516, Alaska Region

Village of Ohogamiut,² Association of Village Council Presidents, Sarah Jenkins, ICWA Social Worker, P.O. Box 219, Bethel, Alaska 99559, Phone: (907) 543-7400, Fax: (907) 543-5759, Email: sjenkins@avcp.org, Alaska Region

Orutsararmuit Native Village (aka Bethel), Loretta Coffee—ICWA Advocate, P.O. Box 327, Bethel, Alaska 99559, Phone: (907) 543-2608/0512, Fax: (907) 543-0520, Email: lcoffee@nativecouncil.org, Alaska Region

Oscarville Traditional Village,¹ Michael Stevens—Administrator, P.O. Box 6129, Napaskiak, Alaska 99559, Phone: (907) 737-7100, Fax: (907) 737-7428/7101, Email: alarson@avcp.org, Alaska Region

Oscarville Traditional Village,² Association of Village Council Presidents, Sarah Jenkins, ICWA Social Worker, P.O. Box 219, Bethel, Alaska 99559, Phone: (907) 543-7400, Fax: (907) 543-5759, Email: sjenkins@avcp.org, Alaska Region

Native Village of Paimiut,¹ Tribal President or Tribal Administrator, P.O. Box 230, Hooper Bay, Alaska 99604, Phone: (907) 758-4002, Fax: (907) 758-4024, Alaska Region

Native Village of Paimiut,² Association of Village Council Presidents, Sarah Jenkins, ICWA Social Worker, P.O. Box 219, Bethel, Alaska 99559, Phone: (907) 543-7400, Fax: (907) 543-5759, Email: sjenkins@avcp.org, Alaska Region

Pilot Station Traditional Village,¹ Nicky Myers, Traditional Council Member, P.O. Box 5119, Pilot Station, AK 99650, Phone: (907) 549-3373, Fax: (907) 549-3301, Alaska Region

Pilot Station Traditional Village,² Association of Village Council Presidents, Sarah Jenkins, ICWA Social Worker, P.O. Box 219, Bethel, Alaska 99559, Phone: (907) 543-7400, Fax: (907) 543-5759, Email: sjenkins@avcp.org; lalexie@avcp.org, Alaska Region

Native Village of Pitka's Point,¹ Thelma H. Wasky—Tribal Administrator, P.O. Box 127, St. Mary's, Alaska 99658, Phone: (907) 438-2833, Fax: (907) 438-2569, Alaska Region

Native Village of Pitka's Point,² Association of Village Council Presidents, Sarah Jenkins, ICWA Social Worker, P.O. Box 219, Bethel, Alaska 99559, Phone: (907) 543-7400, Fax: (907) 543-5759, Email: sjenkins@avcp.org, Alaska Region

Platinum Traditional Village,¹ Traditional President and ICWA Worker, P.O. Box 8, Platinum, Alaska 99651, Phone: (907) 979-8610, Fax: (907) 979-8178, Alaska Region

Platinum Traditional Village,² Association of Village Council Presidents, Sarah Jenkins, ICWA Social Worker, P.O. Box 219, Bethel, Alaska 99559, Phone: (907) 543-7400, Fax: (907) 543-5759, Email: sjenkins@avcp.org; lalexie@avcp.org, Alaska Region

Portage Creek Village (aka Ohgensakale),¹ Eva Kapotak—Caseworker, 1327 E. 72nd Ave, Unit B, Anchorage, Alaska 99508, Phone: (907) 277-1105, Fax: (907) 277-1104, Alaska Region

Portage Creek Village (aka Ohgensakale),² Bristol Bay Native Association, Children's Services Program Manager, P.O. Box 310, 1500 Kanakanak Road, Dillingham, Alaska 99576, Phone: (907) 842-4139, Fax: (907) 842-4106, Email: cnixon@bbna.com, Alaska Region

Quinhagak (See Kwinhagak)

Village of Red Devil,¹ Tribal Administrator, P.O. Box 27, Red Devil, Alaska 99656, Phone: (907) 447-3223, Fax: (907) 447-3224, Alaska Region

Village of Red Devil,² Association of Village Council Presidents, Sarah Jenkins, ICWA Social Worker, P.O. Box 219, Bethel, Alaska 99559, Phone: (907) 543-7400, Fax: (907) 543-5759, Email: sjenkins@avcp.org, Alaska Region

Russian Mission, (See Iqurmuit Traditional Council)

Native Village of Saint Michael, Danielle Holt, P.O. Box 59050, St. Michael, Alaska 99659, Phone: (907) 443-4261, Fax: (907) 443-4457, Email: dholt@kawerak.org, Alaska Region

Native Village of Saint Michael, Kawerak, Inc. Children & Family Services, P.O. Box 948, Nome, Alaska 99762, Phone: (907)443-4261, Fax: (907) 443-4457, Alaska Region

Native Village of Savoonga, Ruthie Ok—ICWA Coordinator, P.O. Box 120, Savoonga, Alaska 99769, Phone: (907) 984-6211, Fax: (907) 984-6152, Alaska Region

Native Village of Scammon Bay,¹ Michelle Akerelrea, Community Family Service Specialist, P.O. Box 8, Scammon Bay, Alaska 99662, Phone: (907) 558-5078/5127, Fax: (907) 558-5079, Email: makerelrea@avcp.org, Alaska Region

Native Village of Scammon Bay,² Association of Village Council Presidents, Sarah Jenkins, ICWA Social Worker, P.O. Box 219, Bethel, Alaska 99559, Phone: (907) 543-7400, Fax: (907) 543-5759, Email: sjenkins@avcp.org; lalexie@avcp.org, Alaska Region

Stebbins Community Association,¹ Anna Nashoanak—ICWA, P.O. Box 71002, Stebbins, Alaska 99671, Phone: (907) 934-2334, Fax: (907) 934-2675, Email: anashoanak@kawerak.org, Alaska Region

Stebbins Community Association,² Kawerak, Inc. Children & Family Services, P.O. Box 948, Nome, Alaska 99762, Phone: (907)443-4261, Fax: (907) 443-4457, Alaska Region

Sheldon's Point (See Nunam Iqua)

Village of Sleetmute, Sophie B. Gregory—President/ICWA, P.O. Box 109, Sleetmute, Alaska 99668, Phone: (907) 449-4069, Fax: (907) 449-4265, Alaska Region

South Naknek Village,¹ Lorianne Rawson—Tribal Administrator, P.O. Box 70029, South Naknek, Alaska 99670, Phone: (907) 246-8614, Fax: (907) 246-8613, Email: snvc@starband.net, Alaska Region

South Naknek Village,² Bristol Bay Native Association, Children's Services Program Manager, P.O. Box 310, 1500 Kanakanak Road, Dillingham, Alaska 99576, Phone: (907) 842-4139, Fax: (907) 842-4106, Email: cnixon@bbna.com, Alaska Region

St. Mary's (See Algaaciq)

Village of Stony River, Association of Village Council Presidents, Sarah Jenkins, ICWA Social Worker, P.O. Box 219, Bethel, Alaska 99559, Phone: (907) 543-7400, Fax: (907) 543-5759, Email: sjenkins@avcp.org; lalexie@avcp.org, Alaska Region

Traditional Village of Togiak, Emma Wassillie—ICWA Worker, P.O. Box 310, Togiak, Alaska 99678, Phone: (907) 493-5431, Fax: (907) 493-5005, Alaska Region

Toksook Bay (See Nunakauyarmiut Tribe)

Tuluksak Native Community,¹ Elizabeth S. Peter—ICWA Worker, P.O. Box 93, Tuluksak, Alaska 99679, Phone: (907) 695-6902, Fax: (907) 695-6903, Alaska Region

Tuluksak Native Community,² Association of Village Council Presidents, Sarah Jenkins, ICWA Social Worker, P.O. Box 219, Bethel, Alaska 99559, Phone: (907) 543-7400, Fax: (907) 543-5759, Email: sjenkins@avcp.org; lalexie@avcp.org, Alaska Region

Native Village of Tuntutuliak,¹ Samantha White—ICWA Worker, P.O. Box 8086, Tuntutuliak, Alaska 99680, Phone: (907) 256-2311, Fax: (907) 256-2080, Email: swhite@avcp.org, Alaska Region

Native Village of Tuntutuliak,² Association of Village Council Presidents, Sarah Jenkins, ICWA Social Worker, P.O. Box 219, Bethel, Alaska 99559, Phone: (907) 543-7400, Fax: (907) 543-5759, Email: sjenkins@avcp.org, Alaska Region

Native Village of Tununak,¹ Theodore Angaiak—President, P.O. Box 77, Tununak, Alaska 99681-0077, Phone: (907) 652-6527, Fax: (907) 652-6011, Alaska Region

Native Village of Tununak,² Association of Village Council Presidents, Sarah Jenkins, ICWA Social Worker, P.O. Box 219, Bethel, Alaska 99559, Phone: (907) 543-7400, Fax: (907) 543-5759, Email: sjenkins@avcp.org, Alaska Region

Twin Hills Village,¹ John W. Sharp—Tribal President, P.O. Box TWA, Twin Hills, Alaska 99576, Phone: (907) 525-4821, Fax: (907) 525-4822, Alaska Region

Twin Hills Village,² Children's Services Program Manager, Bristol Bay Native Association, P.O. Box 310, 1500 Kanakanak Road, Dillingham, Alaska 99576, Phone: (907) 842-4139, Fax: (907) 842-4106, Email: cnixon@bbna.com, Alaska Region

Umkumiute Native Village,¹ Bertha Kashatok—Secretary Council, P.O. Box 96062, Nightmute, Alaska 99690, Phone: (907) 647-6145, Fax: (907) 647-6146, Alaska Region

Umkumiute Native Village,² Association of Village Council Presidents, Sarah Jenkins, ICWA Social Worker, P.O. Box 219, Bethel, Alaska 99559, Phone: (907) 543-7400, Fax: (907) 543-5759, Email: sjenkins@avcp.org, Alaska Region

Native Village of Upper Kalskag (See Kalskag)

Dated: July 20, 2012.
Donald E. Laverdure,
Acting Assistant Secretary—Indian Affairs.

[FR Doc. 2012-18594 Filed 7-31-12; 8:45 am]

BILLING CODE 4310-4J-P